DEPARTMENT OF HOUSING AND URBAN DEVELOPMENT

[Docket No. FR-4982-N-01]

Notice of Funding Availability for Revitalization of Severely Distressed Public Housing HOPE VI Revitalization Grants Fiscal Year 2005

AGENCY: Office of the Assistant Secretary for Public and Indian Housing, HUD.

ACTION: Notice of funding availability.

Overview Information

A. Federal Agency Name. Department of Housing and Urban Development, Office of Public and Indian Housing.

B. Funding Opportunity Title. Revitalization of Severely Distressed Public Housing HOPE VI Revitalization Grants Fiscal Year 2005.

C. Announcement Type. Initial announcement.

D. Funding Opportunity Number. The Federal Register number for this NOFA is: FR-4982-N-01. The OMB approval number for this program is: 2577-0208.

E. Catalog of Federal Domestic Assistance (CFDA) Number. The CFDA number for this NOFA is 14-866, “Demolition and Revitalization of Severely Distressed Public Housing (HOPE VI).”

F. Dates. 1. Application Submission Date: The application submission date shall be June 29, 2005. See the General Section for application submission and timely receipt requirements.

2. Estimated Grant Award Date: The estimated award date will be approximately September 27, 2005.

G. Optional, Additional Overview Content Information. 1. Available Funds. This NOFA announces the availability of approximately $110 million in FY2005 funds for HOPE VI Revitalization Program grants, plus approximately $25 million additional for grantees' first-year, grant-related housing choice voucher (HCV) assistance.

2. Proposed Rescission of Funds. The public is hereby notified that although this NOFA announces the availability of FY 2005 HOPE VI Funds, the FY 2006 proposed budget includes the rescission of the FY 2005 HOPE VI Appropriation. Therefore, this NOFA may be cancelled at a later date and applications made under this NOFA may not be funded.

3. The maximum amount of each grant award is $20 million. It is anticipated that six grant awards will be made.

4. Housing choice voucher assistance is available to successful applicants that receive the revitalization grant awards. The dollar amount of HCV assistance is in addition to the $20 million maximum award amount and will be based upon resident relocation needs.

5. All non-troubled public housing authorities (PHAs) with severely distressed public housing are eligible to apply. Troubled PHAs must have received HUD approval to be considered eligible to apply. PHAs that manage only a HCV program, tribal PHAs and tribally-designated housing entities are not eligible.

6. A match of at least five percent is required.

7. Each applicant may submit only one HOPE VI revitalization application.

8. Application materials may be obtained from the Federal Register or over the Internet from http://www.grants.gov/FIND. Technical corrections will be published in the Federal Register. Both technical corrections and frequently asked questions will be posted on the grants.gov website.

9. HUD's general policy requirements apply to all HUD Federal financial assistance NOFAs for Fiscal Year (FY) 2005. These policies cover those NOFAs issued under HUD's Super Notice of Funding Availability (SuperNOFA) General Section (70 FR 13576), published in the Federal Register on March 21, 2005, as well as those issued after the General Section is published in the Federal Register.

Full Text of Announcement

I. Funding Opportunity Description

A. Program Description. In accordance with Section 24(a) of the United States Housing Act of 1937 (1937 Act) (42 U.S.C. 1437v), the purpose of HOPE VI revitalization grants is to assist PHAs to: 1. Improve the living environment for public housing residents of severely distressed public housing projects through the demolition, rehabilitation, reconfiguration, or replacement of obsolete public housing projects (or portions thereof);

2. Revitalize sites (including remaining public housing dwelling units) on which such public housing projects are located and contribute to the improvement of the surrounding neighborhood;

3. Provide housing that will avoid or decrease the concentration of very low-income families; and

4. Build sustainable communities.

B. Authority. 1. The funding authority for HOPE VI revitalization grants under this HOPE VI NOFA is provided by the Consolidated Appropriations Act, 2005 (Pub. L. 108-447, approved December 8, 2004) under the heading “Revitalization of Severely Distressed Public Housing (HOPE VI).”

2. The program authority for the HOPE VI program is Section 24 of the 1937 Act, as amended by Section 402 of the HOPE VI Program Reauthorization and Small Community Mainstreet Rejuvenation and Housing Act of 2003 (Pub. L. 108-186, approved December 16, 2003).

C. Definitions. 1. Developer. A developer is an entity contracted to develop (and possibly operate) a mixed finance development that includes public housing units, pursuant to 24 CFR part 941, subpart F. A developer most often has an ownership interest in the entity that is established to own and operate the replacement units (e.g., as the general partner of a limited partnership).

2. Public Housing Project. A public housing project is a group of assisted housing units that has a single Project Number assigned by the Director of Public Housing of a HUD Field Office and has, or had (in the case of previously demolished units) housing units under an Annual Contributions Contract.

3. Replacement Housing. Under this HOPE VI NOFA, a HOPE VI replacement housing unit shall be deemed to be any combination of public housing rental units, eligible homeownership units under Section 24(d)(1)(J) of the 1937 Act, and HCV assistance that does not exceed the number of units demolished and disposed of at the targeted severely distressed public housing project.

4. Severely Distressed. a. In accordance with section 24(j)(2) of the 1937 Act, the term “severely distressed public housing” means a public housing project (or building in a project) that:

(1) Requires major redesign, reconstruction, or redevelopment—or partial or total demolition—to correct serious deficiencies in the original design (including inappropriately high population density), deferred maintenance, physical deterioration or obsolescence of major systems, and other deficiencies in the physical plan of the project;

(2) Is a significant contributing factor to the physical decline of, and disinvestment by public and private entities in, the surrounding neighborhood;

(3) (a) Is occupied predominantly by families who are very low-income families with children, have unemployed members, and are dependent on various forms of public assistance; (b) has high rates of vandalism and criminal activity (including drug-related criminal activity) in comparison to other housing in the area; or (c) is lacking in sufficient appropriate transportation, supportive services, economic opportunity, schools, civic and religious institutions, or public services, resulting in severe social distress in the project;

(4) Cannot be revitalized through assistance under other programs, such as the Capital Fund and Operating Fund programs for public housing under the 1937 Act, or the programs under Sections 9 or 14 of the 1937 Act (as in effect before the effective date under Section 503(a) of the Quality Housing and Work Responsibility Act of 1998 (Pub. L. 105-276, approved October 21, 1998), because of cost constraints and inadequacy of available amounts; and

(5) In the case of an individual building that currently forms a portion of the public housing project targeted by the application to this NOFA:

(a) Is sufficiently separable from the remainder of the project of which the building is part, such that the revitalization of the building is feasible; or

(b) Was part of the targeted public housing project that has been legally vacated or demolished, but for which HUD has not yet provided replacement housing assistance (other than tenant-based assistance). “Replacement housing assistance” is defined as funds that have been furnished by HUD to perform major rehabilitation on, or reconstruction of, the public housing units that have been legally vacated or demolished.

b. A severely distressed project that has been legally vacated or demolished (but for which HUD has not yet provided replacement housing assistance, other than tenant-based assistance) must have met the definition of physical distress not later than the day the demolition application approval letter was dated by HUD.

5. Targeted Project. The targeted project is the current public housing project that will be revitalized with funding from this NOFA. The targeted project may include more than one public housing project or be a part of a public housing project. See Section III.C.1. of this NOFA for eligibility of multiple public housing projects and separability of a part of a public housing project.

6. Temporary Relocation. There are no provisions for “temporary relocation” under the Uniform Relocation Assistance and Real Property Acquisition Policies Act Of 1970 (URA). See Notice CPD 04-2, “Guidance on the Application of the Uniform Relocation Assistance and Real Property Acquisition Policies Act Of 1970 (URA), As Amended, in HOPE VI Projects,” paragraph IV.A.2. for the definition of “temporary relocation” as it applies to HOPE VI projects. The Notice can be obtained through HUDClips at http://www.hudclips.org/.

D. Eligible Revitalization Activities. HOPE VI Revitalization grants may be used for activities to carry out revitalization programs for severely distressed public housing in accordance with Section 24(d) of the 1937 Act. Revitalization activities approved by HUD must be conducted in accordance with the requirements of this NOFA. The following is a list of eligible activities.

1. Relocation. Relocation, including reasonable moving expenses, for residents displaced as a result of the revitalization of the project. See Sections III.C.4. and V.A.6. of this NOFA for relocation requirements.

2. Demolition. Demolition of dwelling units or non-dwelling facilities, in whole or in part, although demolition is not a required element of a HOPE VI Revitalization Plan.

3. Disposition. Disposition of a severely distressed public housing site, by sale or lease, in whole or in part, in accordance with Section 18 of the 1937 Act and implementing regulations at 24 CFR part 970. A lease of one year or more that is not incident to the normal operation of a project is considered a disposition that is subject to Section 18 of the 1937 Act.

4. Rehabilitation and Physical Improvement. Rehabilitation and physical improvement of:

a. Public housing; and

b. Community facilities, provided that the community facilities are primarily intended to facilitate the delivery of community and supportive services for residents of the public housing project and residents of off-site replacement housing, in accordance with 24 CFR 968.112(b), (d), (e), and (g)-(o) and 24 CFR 968.130 and 968.135(b) and (d) or successor regulations, as applicable.

5. Development. Development of:

a. Public housing replacement units; and

b. Other units (e.g., market-rate units), provided a need exists for such units and such development is performed with non-public housing funds.

6. Homeownership Activities. Assistance involving the rehabilitation and development of homeownership units. Assistance may include:

a. Down payment or closing cost assistance;

b. Hard or soft second mortgages; or

c. Construction or permanent financing for new construction, acquisition, or rehabilitation costs related to homeownership replacement units.

7. Acquisition. Acquisition of:

a. Rental units and homeownership units;

b. Land for the development of off-site replacement units and community facilities (provided that the community facilities are primarily intended to facilitate the delivery of community and supportive services for residents of the public housing project and residents of off-site replacement housing);

c. Land for economic development-related activities, provided that such acquisition is performed with non-public housing funds.

8. Management Improvements. Necessary management improvements, including transitional security activities.

9. Administration, Planning, Etc. Administration, planning, technical assistance, and other activities (including architectural and engineering work, program management, and reasonable legal fees) that are related to the implementation of the Revitalization Plan, as approved by HUD. See Cost Control Standards in Section IV.E. of this NOFA.

10. Community and Supportive Services (CSS).

a. The CSS component of the HOPE VI program encompasses all activities that are designed to promote upward mobility, self-sufficiency, and improved quality of life for the residents of the public housing project involved.

b. CSS activities. CSS activities may include, but are not limited to:

(1) Educational activities that promote learning and serve as the foundation for young people from infancy through high school graduation, helping them to succeed in academia and the professional world. Such activities, which include after-school programs, mentoring, and tutoring, must be created with strong partnerships with public and private educational institutions.

(2) Adult educational activities, including remedial education, literacy training, tutoring for completion of secondary or postsecondary education, assistance in the attainment of certificates of high school equivalency, and English as a Second Language courses, as needed.

(3) Readiness and retention activities, which frequently are key to securing private sector commitments to the provision of jobs.

(4) Employment training activities that include results-based job training, preparation, counseling, development, placement, and follow-up assistance after job placement.

(5) Programs that provide entry-level, registered apprenticeships in construction, construction-related, maintenance, or other related activities. A registered apprenticeship program is a program that has been registered with either a State Apprenticeship Agency recognized by the Department of Labor's (DOL) Office of Apprenticeship Training, Employer and Labor Services (OATELS) or, if there is no recognized state agency, by OATELS. See also DOL regulations at 29 CFR part 29.

(6) Training on topics such as parenting skills, consumer education, family budgeting, and credit management.

(7) Homeownership counseling that is scheduled to begin promptly after grant award so that, to the maximum extent possible, qualified residents will be ready to purchase new homeownership units when they are completed. The Family Self-Sufficiency program can also be used to promote homeownership, providing assistance with escrow accounts and counseling.

(8) Coordinating with health care providers or providing on-site space for health clinics, doctors, wellness centers, dentists, etc. that will primarily serve the public housing residents. HOPE VI funds may not be used to provide direct medical care to residents.

(9) Substance and alcohol abuse treatment and counseling.

(10) Activities that address domestic violence treatment and prevention.

(11) Child care services that provide sufficient hours of operation to facilitate parental access to education and job opportunities, serve appropriate age groups, and stimulate children to learn.

(12) Transportation, as necessary, to enable all family members to participate in available CSS activities and to commute to their places of employment.

(13) Entrepreneurship training and mentoring, with the goal of establishing resident-owned businesses.

11. Leveraging. Leveraging other resources, including additional housing resources, supportive services, job creation, and other economic development uses on or near the project that will benefit future residents of the site.

12. General Section Reference. Section I, “Funding Opportunity Description,” of the Notice of HUD's Fiscal Year 2005 Notice of Funding Availability (NOFA) Policy Requirements and General Section to the Super NOFA for HUD's Discretionary Programs (General Section), Docket No. FR-4950-N-01, published in the Federal Register on March 21, 2005, is hereby incorporated by reference.

II. Award Information

A. Availability of HOPE VI Funds

1. Proposed Rescission of Funds. The public is hereby notified that although this NOFA announces the availability of FY 2005 HOPE VI Funds, the FY 2006 proposed budget includes the rescission of the FY 2005 HOPE VI Appropriation. Therefore, this NOFA may be cancelled at a later date and applications made under this NOFA may not be funded.

Type of assistance | Funds available for award in this HOPE VI NOFA (approximate)
Revitalization Grants | $110,000,000
Housing Choice Voucher Assistance | 25,000,000
Total | 135,000,000

2. Revitalization Grants. Approximately $110 million of the FY2005 HOPE VI appropriation has been allocated to fund HOPE VI Revitalization grants and will be awarded in accordance with this NOFA. There will be approximately six awards.

3. The maximum amount you may request in your application for grant award is limited to $20 million or the sum of the amounts in Section IV.E.5. below, whichever is lower. HCV assistance is in addition to this amount.

4. Housing Choice Voucher Assistance. Approximately $25 million of the HOPE VI appropriation will be allocated for Housing Choice Voucher (HCV) assistance. HCV assistance will be provided to HOPE VI Revitalization NOFA awardees. If $25 million is more than the amount necessary to fund the HOPE VI grantee's HCV needs, the remaining funds will be used for other eligible activities under Section 24 of the 1937 Act.

5. Grant term. The period for completion shall not exceed 54 months from the date the NOFA award is executed by HUD.

III. Eligibility Information

A. Eligible Applicants

1. PHAs that have severely distressed housing in their inventory and are otherwise in conformance with the threshold requirements provided in Section III.C. of this NOFA. See Section IV.B.4. of this NOFA for threshold documentation requirements.

2. Housing Choice Voucher Programs Only and Tribal Housing Agencies. PHAs that only administer HCV programs, e.g., Section 8, HCV, and tribal PHAs and tribally-designated housing entities, are not eligible to apply.

3. Troubled Status. If HUD has designated your housing authority as troubled pursuant to Section 6(j)(2) of the 1937 Act, HUD will use documents and information available to it to determine whether you qualify as an eligible applicant. In accordance with Section 24(j) of the 1937 Act, the term “applicant” means:

a. Any PHA that is not designated as “troubled” pursuant to Section 6(j)(2) of the 1937 Act;

b. Any PHA for which a private housing management agent has been selected, or a receiver has been appointed, pursuant to Section 6(j)(3) of the 1937 Act; and

c. Any PHA that is designated as “troubled” pursuant to Section 6(j)(2) of the 1937 Act and that:

(1) Is designated as troubled principally for reasons that will not affect its capacity to carry out a revitalization program;

(2) Is making substantial progress toward eliminating the deficiencies of the agency that resulted in its troubled status;

(3) Has not been found to be in non-compliance with fair housing or other civil rights requirements; or

(4) Is otherwise determined by HUD to be capable of carrying out a revitalization program.

B. Cost Sharing or Matching

1. Match Requirements

a. Revitalization Grant Match. HUD is required by the 1937 Act (42 U.S.C. 1437v(c)(1)(A)) to include the requirement for matching funds for all HOPE VI-related grants. You are required to have in place a match in the amount of five percent of the requested grant amount in cash or in-kind donations. Applications that do not demonstrate the minimum 5 percent match will not be considered for funding.

b. Additional Community and Supportive Services (CSS) Match. (1) In accordance with the 1937 Act (42 U.S.C. 1437v(c)(1)(B)), in addition to the 5 percent revitalization grant match in Section a. above, you may be required to have in place a CSS match. Funds used for the Revitalization grant match cannot be used for the CSS match.

(2) If you are selected for funding through this NOFA, you may use up to 15 percent of your grant for CSS activities. However, if you propose to use more than 5 percent of your HOPE VI grant for CSS activities, you must have in place funds from sources other than HOPE VI, that match the amount between 5 and 15 percent of the grant that you will use for CSS activities.

c. No HOPE VI Funding in Match. In accordance with Section 24(c) of the Act, for purposes of calculating the amount of matching funds required by Sections a. and b. above, you may not include amounts from HOPE VI program funding, including HOPE VI Revitalization, HOPE VI Demolition, HOPE VI Neighborhood Networks or HOPE VI Main Street grants. You may include funding from other public housing sources (e.g., Capital Funds), other federal sources, any state or local government source and any private contributions. You may also include the value of donated material or buildings, the value of any lease on a building, the value of the time and services contributed by volunteers, and the value of any other in-kind services or administrative costs provided.

d. Firmly and Irrevocably Committed. (1) Match donations must be firmly committed. “Firmly committed” means that the amount of match resources and their dedication to HOPE VI Revitalization activities must be explicit, in writing, and signed by a person authorized to make the commitment. See Section IV.F. of the General Section for instructions on how to electronically submit third party documents.

(2) Match donations must be irrevocably committed. See Section VI.B.5.a. of this NOFA.

e. Matching funds must be directly applicable to the revitalization of the targeted project and the transformation of the lives of residents.

f. The PHA's staff time is not an eligible cash or in-kind match.

g. See Section IV.B.3 of this NOFA for match documentation requirements.

C. Other

1. Thresholds

If you have not met a threshold, or, when required by this NOFA, have not included in the application the complete, correct, required documentation that demonstrates the threshold has been met, the application will not be considered for funding. Threshold insufficiency cannot be cured after the application submission date. See Section IV.B. of this NOFA for documentation requirements.

a. One application. Each applicant may submit only one HOPE VI Revitalization application as described in this NOFA. If a single applicant submits more than one application, all applications will be disqualified and no application will be eligible for funding.

b. Appropriateness of Proposal. In accordance with Section 24(e)(1) of the 1937 Act, each application must demonstrate the appropriateness of the proposal (revitalization plan) in the context of the local housing market relative to other alternatives. You must discuss other possible alternatives in the local housing market and explain why the housing envisioned in the application is more appropriate. This is a statutory requirement and an application threshold. If you do not demonstrate the appropriateness of the proposal (revitalization plan) in the context of the local housing market relative to other alternatives, your application will not be considered for funding. Examples of alternative proposals may include:

(1) Rebuilding or rehabilitating an existing project or units at an off-site location that is in an isolated, non-residential, or otherwise inappropriate area;

(2) Proposing a range of incomes, housing types (rental, homeownership, market-rate, public housing, townhouse, detached house, etc.), or costs which cannot be supported by a market analysis; or

(3) Proposing to use the land in a manner that is contrary to the goals of your agency.

(4) See Section IV.B.4.a. of this NOFA for documentation requirements.

c. Contiguous, Single, and Scattered-Site Projects. Except as provided in sections (1) and (2) below, each application must target one severely distressed public housing project.

(1) Contiguous Projects. Each application may request funds for more than one project if those projects are immediately adjacent to one another or within a quarter-mile of each other. If you include more than one project in your application, you must provide a map that clearly indicates that the projects are within a quarter-mile of each other. If HUD determines that they are not, your application will not be considered for funding.

(2) Scattered Site Projects. Your application may request funds to revitalize a scattered site public housing project. The sites targeted in an application proposing to revitalize scattered sites (regardless of whether the scattered sites are under multiple project numbers) must fall within an area with a one-mile radius. You may identify a larger site if you can show that all of the targeted scattered site units are located within the hard edges (e.g., major highways, railroad tracks, lakeshore, etc.) of a neighborhood. If you propose to revitalize a project that extends beyond a one-mile radius or is otherwise beyond the hard edges of a neighborhood, your application will not be considered for funding. See Section IV.B.4.b. of this NOFA for documentation requirements.

d. Desegregation Orders. You must be in full compliance with any desegregation or other court order, and voluntary compliance agreements related to Fair Housing (e.g., Title VI of the Civil Rights Act of 1964, the Fair Housing Act, and Section 504 of the Rehabilitation Act of 1973) that affects your public housing program and that is in effect on the date of application submission. If you are not in full compliance with any desegregation or other court orders, your application will be ineligible for funding.

e. Non-Public Housing Funding for Non-Public Housing or Replacement Units. If the application demonstrates that you are planning to use public housing funds, which include HOPE VI funds, to develop: Retail or commercial space; economic development space; or housing units that are not Replacement Housing (See Section I.C. of this NOFA), your application will not be considered for funding. See Section IV.B.4.c. for documentation requirements regarding this threshold.

f. Open Inspector General Audits. (1) If you have an open Inspector General (IG) audit finding that has not been resolved to HUD's satisfaction before the submission date of this NOFA, the application will not be considered for funding.

(2) HUD's decision regarding whether a charge, lawsuit, or a letter of findings has been satisfactorily resolved will be based on whether appropriate actions have been taken to address the findings.

g. Performance of Existing HOPE VI Grantees. (1) The application will not be considered for funding if you have an existing HOPE VI Revitalization grant, and

(a) The grant development is delinquent due to actions or inactions that are not beyond the control of the grantee; and

(b) The grantee is not making substantial progress toward eliminating the delinquency.

(2) “Delinquent” means that resident relocation, unit demolition, unit construction, unit rehabilitation, unit occupancy, or unit re-occupancy have not occurred in accordance with the grantee's current Revitalization Plan.

(3) Reasons that are beyond the control of the grantee include, but are not limited to, the following:

(a) Litigation;

(b) Court Orders;

(c) Unforeseen environmental conditions; and

(d) Emergency and natural disasters.

(4) HUD will use documents and information available to it to determine whether the grant is delinquent due to reasons that are beyond the control of the grantee and whether the grantee is making substantial progress toward eliminating the delinquency.

h. Previously Funded Sites. You may submit a Revitalization application that targets part of a project that is being revitalized or replaced under an existing HOPE VI Revitalization grant. You may not apply for new HOPE VI Revitalization funds for units in that project that were funded by the existing HOPE VI Revitalization grant or other HUD funds which are used to achieve significant revitalization of units (as opposed to regular upkeep), even if those funds are inadequate to pay the costs to revitalize or replace all of the targeted units. However, Replacement Housing Factor funds will not be considered as funds which are used to achieve significant revitalization of units. For example, if a project has 700 units and you were awarded a HOPE VI Revitalization grant or other HUD public housing funds to address 300 of those units, you may submit an FY-2005 HOPE VI Revitalization application to revitalize the remaining 400 units. You may not apply for funds to supplement work on the original 300 units. If you request funds to revitalize units or buildings that have been funded by an existing HOPE VI Revitalization grant or other HUD funds, your application will not be considered for funding.

i. Program Schedule. Your application must contain a program schedule that provides a feasible plan to meet the schedule requirements of Section VI.B.2. of this NOFA, with no impediments such as litigation that would prevent timely startup. The program schedule must indicate the date on which the development proposal for each phase of the revitalization plan will be submitted to HUD. A development proposal may by for a mixed-finance development, homeownership development, etc., will be submitted to HUD. If your application does not contain a program schedule, as described above, the application will not be considered for funding. See Section IV.B.4.d. of this NOFA for documentation requirements.

j. Separability. In accordance with Section 24(j)(2)(A)(v) of the 1937 Act, if you propose to target only a portion of a project for revitalization, you must:

(1) Demonstrate to HUD's satisfaction that the severely distressed public housing is sufficiently separable from the remainder of the project of which the building is part to make use of the building feasible for revitalization. Separations may include a road, berm, catch basin, or other recognized neighborhood distinction.

(2) Demonstrate that the site plan and building designs of the revitalized portion will provide defensible space for the occupants of the revitalized building(s) and that the properties that remain will not have a negative influence on the revitalized buildings(s), either physically or socially.

(3) If your application does not demonstrate separability, your application will not be considered for funding.

k. Severe Distress of Targeted Project. The targeted public housing project must be severely distressed. See Section I.C. of this NOFA for the definition of “severely distressed.” If the targeted project is not severely distressed, your application will not be considered for funding. See Section IV.B.5.a. of this NOFA for documentation requirements.

l. Site Control. (1) If you propose to develop off-site housing in any phase of your proposed revitalization plan, you MUST provide evidence in your application that you (not your developer) have site control of the property(ies).

(2) Site control may only be contingent upon:

(a) The receipt of the HOPE VI grant;

(b) Satisfactory compliance with the environmental review requirements of this NOFA; and

(c) The site and neighborhood standards in Section III.C.4.n.(1) of this NOFA.

(3) If you demonstrate site control through an option to purchase, the option must extend for at least 180 days after the application submission date.

(4) If you propose to develop off-site housing and you do not provide acceptable evidence of site control, your ENTIRE application will not be considered for funding.

(5) See Section IV.B.4.e. of this NOFA for documentation requirements.

m. Zoning Approval. (1) If you are proposing to use off-site parcels of land for housing development or other uses that, until this point in time, have been zoned for a purpose different than the one proposed in your revitalization plan, your application must include the documentation described in Section IV.B.4.f. of this NOFA:

(2) If zoning approval/certification is not properly included in your application, the application will not be considered for funding.

n. Compliance with Fair Housing and Civil Rights Laws. (1) All applicants must comply with all applicable fair housing and civil rights requirements in 24 CFR 5.105(a), as applicable.

(2) If you, the applicant:

(a) Have been charged with an on-going systemic violation of the Fair Housing Act; or

(b) Are a defendant in a Fair Housing Act lawsuit filed by the Department of Justice alleging an on-going pattern or practice of discrimination; or

(c) Have received a letter of findings identifying ongoing systemic noncompliance under Title VI of the Civil Rights Act of 1964, Section 504 of the Rehabilitation Act of 1973, or Section 109 of the Housing and Community Development Act of 1974; and

(d) The charge, lawsuit or letter of findings referenced in subpart (a), (b) or (c) above has not been resolved to HUD's satisfaction before the application deadline, then the application will not be considered for funding. See Section III.C.2.c. of the General Section.

o. Requirements and Procedures Applicable to All Programs:

(1) General Section References. The following subsections of Section III.C. of the General Section are hereby incorporated by reference:

(a) Dun and Bradstreet Data Universal Numbering System (DUNS) Number Requirement;

(b) Compliance with Fair Housing and Civil Rights Laws;

(c) Conducting Business In Accordance with Core Values and Ethical Standards;

(d) Delinquent Federal Debts;

(e) Name Check Review;

(f) False Statements;

(g) Prohibition Against Lobbying Activities;

(h) Debarment and Suspension.

(i) Statutory and Regulatory Requirements; and

(j) Ineligible Applicants.

(2) Salary Limitation for Consultants. FY-2005 funds may not be used to pay or to provide reimbursement for payment of the salary of a consultant whether retained by the federal government or the grantee at more than the daily equivalent of the rate paid for level IV of the Executive Schedule, unless specifically authorized by law.

2. Thresholds—Applicant Certifications

a. Standard Form 424. By signing and submitting the Application for Federal Assistance, Standard Form 424, you are certifying to all of the thresholds listed in this section. A false statement in an application is grounds for denial or termination of an award and grounds for possible punishment as provided in 18 U.S.C. 1001, 1010, and 1012, and 32 U.S.C. 3729 and 3802. See Section IV.B. of this NOFA for any documentation requirements related to these certifications.

b. Non-Curable Certifications. If you have not met a threshold on or before the application submission date, or have not included in the application the complete, correct, required documentation that demonstrates the threshold has been met, the application will not be considered for funding. For these thresholds, insufficiency cannot be cured after the application submission date. See Section IV.B. of this NOFA for documentation requirements.

(1) Selection of Developer. You must certify that:

(a) You have initiated an RFQ by the application submission date for the competitive procurement of a developer for your first phase of construction, in accordance with 24 CFR 85.36 and 24 CFR 941.602(d) (as applicable). If you change developers after you are selected for funding, HUD reserves the right to rescind the grant; or

(b) You will act as your own developer for the proposed project. If you change your plan and procure an outside developer after you are selected for funding, HUD reserves the right to rescind the grant.

(2) See Section IV.B.5.g. of this NOFA for documentation requirements.

c. Curable Certifications. Omission of, or error in the signature of, any of the mandatory documentation (as listed in Section IV.B. of this NOFA) related to the items listed below is considered a Technical Deficiency and must be cured (corrected) within the cure period stated in Section V.B. of the General Section. Applications that remain deficient after the cure period ends will not be considered for funding.

(1) Operation and Management Principles and Policies Certification. You must certify that you will implement the Operation and Management Principles and Policies stated in Section III.C.4. of this NOFA. See Section IV.B.5.c. of this NOFA for documentation requirements.

(2) Relocation Plan Certification.

(a) You must certify that the HOPE VI Relocation Plan has been completed and:

(i) That it conforms to the Uniform Relocation Assistance and Real Property Acquisition Policies Act of 1970 (URA) requirements; and

(ii) That it implements HOPE VI relocation goals, as described in Section V.A.6. of this NOFA.

(b) If relocation was completed (i.e., the targeted public housing site is vacant) as of the application submission date, rather than certifying that the HOPE VI Relocation Plan has been completed, you must certify that the relocation was completed in accordance with URA requirements.

(c) See Section IV.B.5.d. of this NOFA for documentation requirements.

(3) Resident Involvement in the Revitalization Program Certification. You must certify that you have involved affected public housing residents at the beginning and during the planning process for the revitalization program, prior to submission of your application. If you have not included affected residents in the planning process, your application will not be considered for funding. See Section III.C.4. of this NOFA for minimum training and meeting requirements and Section IV.B.5.e. of this NOFA for documentation requirements.

(4) Standard Certifications. The last part of your application will be comprised of standard certifications common to many HUD programs. Required forms must be included in the HOPE VI application and will be available over the Internet at http://www.hud.gov/offices/adm/grants/fundsavail.cfm. See Section IV.B.5.i. of this NOFA for documentation requirements.

3. Thresholds—Third-Party Certifications

The following third-party certifications must be included in your application.

a. Non-Curable. If you have not included in the application, on or before the application submission date, the complete, correct, required documentation that demonstrates the threshold has been met, the application will not be rated or ranked and will be either ineligible for funding or have its funding limited, based upon the threshold. For these thresholds, insufficiency regarding these thresholds cannot be cured after the application submission date. See Section IV.B. of this NOFA for any documentation requirements related to these certifications.

(1) Cost Control Standards.

Your cost estimates must be certified to meet the cost control standards stated in Section IV.E. The certification must be made by an independent cost estimator, architect, engineer, contractor, or other qualified third party professional. If your costs are not certified, your application will not be considered for funding. See Section IV.B.5.h. of this NOFA for documentation requirements.

(2) Severely Distressed Certification. Your application must include a certification that the targeted project is severely distressed. See Section IV.B.5.g. for documentation requirements.

b. Curable. Omission of any of the mandatory documentation listed in this section is considered a technical deficiency and must be cured (corrected) within the cure period stated in Section V.B. of the General Section. Applications that remain deficient after the cure period will not be considered for funding. See Section IV.B. of this NOFA for any documentation requirements related to these certifications.

(1) Market Assessment Certification for Market-Rate Housing. If you include market-rate housing, economic development, or retail structures in your Revitalization Plan, you must provide a certification by an independent, third party, credentialed market research firm, or professional that describes its assessment of the demand and associated pricing structure for the proposed residential units, economic development or retail structures, based on the market and economic conditions of the project area. See Section IV.B.5.a. of this NOFA for documentation requirements.

(2) HOPE VI Revitalization Applicant Certifications. You must include in your application a certification from the Chairman of your Board of Commissioners to the requirements listed in the HOPE VI Revitalization Applicant Certifications. See Section IV.B.5.b. of this NOFA for documentation requirements.

4. Program Requirements

a. Demolition

(1) You may not carry out nor permit others to carry out the demolition of the targeted project or any portion of the project until HUD approves, in writing, one of the following ((a)-(c)), and until HUD has also I) approved a Request for Release of Funds submitted in accordance with 24 CFR part 58, or, II) if HUD performs an environmental review under 24 CFR part 50, approved the property for demolition, in writing, following its environmental review.

(a) Information regarding demolition in your HOPE VI Revitalization Application, along with Supplemental Submissions requested by HUD after the award of the grant. Section 24(g) of the 1937 Act provides that severely distressed public housing that is demolished pursuant to a Revitalization Plan is not required to be approved through a demolition application under Section 18 of the 1937 Act or regulations at 24 CFR part 970. If you do not receive a HOPE VI Revitalization grant, the information in your application will not be used to process a request for demolition;

(b) A demolition application under Section 18 of the 1937 Act. While a Section 18 approval is not required for HOPE VI related demolition, you will not have to wait for demolition approval through your supplemental submissions, as described in Section (a) above; or

(c) A Section 202 Mandatory Conversion Plan, in compliance with regulations at 24 CFR part 971 and other applicable HUD requirements, if the project is subject to Mandatory Conversion (Section 202 of the Omnibus Consolidated Rescissions and Appropriations Act of 1996 Pub. L. 104-134, approved on April 26, 1996). A Mandatory Conversion Plan concerns the removal of a public housing project from a PHA's inventory.

b. Development

(1) For any standard (non-mixed finance) public housing development activity (whether on-site reconstruction or off-site development), you must obtain HUD approval of a standard development proposal submitted under 24 CFR part 941 (or successor part).

(2) For mixed-finance housing development, you must obtain HUD approval of a mixed finance proposal, submitted under 24 CFR part 941, subpart F (or successor part and subpart).

(3) For new construction of community facilities primarily intended to facilitate the delivery of community and supportive services for residents of the project and residents of off-site replacement housing, you must comply with 24 CFR part 941 (or successor part). Information required for this activity must be included in either a standard or mixed finance development proposal, as applicable.

c. Homeownership

(1) For homeownership replacement units developed under a Revitalization Plan, you must obtain HUD approval of a homeownership proposal. Your homeownership proposal must conform to either:

(a) Section 24(d)(1)(J) of the 1937 Act; or

(b) Section 32 of the 1937 Act (see 24 CFR part 906). Additional information on this option may be found at www.hud.gov/offices/pih/centers/sac/homeownership.

(2) The homeownership proposal must be consistent with the Section 8 Area Median Income (AMI) limitations (80 percent of AMI) and any other applicable provisions under the 1937 Act. (HUD publishes AMI tables for each family size in each locality annually. The income limit tables can be found at http://www.huduser.org/datasets/il/il05/index.html.)

d. Acquisition

(1) Acquisition Proposal. Before you undertake any acquisition activities with HOPE VI or other public housing funds, you must obtain HUD approval of an acquisition proposal that meets the requirements of 24 CFR 941.303.

(2) Rental Units. For acquisition of rental units in existing or new apartment buildings, single family subdivisions, etc., with or without rehabilitation, for use as public housing replacement units, you must obtain HUD approval of a Development Proposal in accordance with 24 CFR 941.304 (conventional development) or 24 CFR 941.606 (mixed finance development).

(3) Land for Off-Site Replacement Units. For acquisition of land for public housing or homeownership development, you must comply with 24 CFR part 941 or successor part.

(4) Land for Economic Development-Related Activities.

(a) Acquisition of land for this purpose is eligible only if the economic development-related activities specifically promote the economic self-sufficiency of residents.

(b) Limited infrastructure and site improvements associated with developing retail, commercial, or office facilities, such as rough grading and bringing utilities to (but not on) the site are eligible activities with prior HUD approval.

e. Leverage

(1) You must actively enlist other stakeholders who are vested in and can provide significant financial assistance to your revitalization effort, both for physical development and CSS.

(2) Types of Leverage Resources. HUD seeks to fund mixed-finance developments that use HOPE VI funds to leverage the maximum amount of other funds, particularly from private sources, that will result in revitalized public housing, other types of assisted and market-rate housing, and private retail and economic development. There are four types of Leverage: Development, CSS, Anticipatory, and Collateral. Development and CSS leverage are program requirements and will be described here. Anticipatory and Collateral leverage are included only in the Leverage rating factor and are described in Section V.A.3. of this NOFA.

(3) Development Leverage.

(a) Development resources include:

(i) Private mortgage-secured loans and other debt.

(ii) Insured loans.

(iii) Donations and contributions.

(iv) Housing trust funds.

(v) Net sales proceeds from a homeownership project. Down payments from homebuyers will not be counted. Down payment assistance may be counted as a physical development resource if it is provided by a third party entity not related to the homebuyer.

(vi) Funds committed to build private sector housing in direct connection with the HOPE VI Revitalization plan.

(vii) Tax Increment Funding (TIF).

(viii) Tax Exempt Bonds. Your application must include a description of the use and term.

(ix) Other Public Housing Funds. Other public housing sources include HOPE VI Revitalization funds from other grants, HOPE VI Demolition funds, Capital Fund program funds, and proposals to use operating subsidy for debt service. These HUD public housing funds will not be counted for points under CSS, Development and Collateral leverage in this NOFA. However, they can be used as part of your revitalization plan. Other public housing sources, except for HOPE VI Revitalization funds, will be counted toward your leverage rating for anticipatory leverage and may be used toward your match requirement.

(x) Other Federal Funds. Other Federal sources may include non-public housing funds provided by HUD.

(xi) Sale of Land. The value of land may be included as a development resource only if this value is a sales proceed. Absent a sales transaction, the value of land may not be counted.

(xii) Donations of Land. Donations of land may be counted as a development resource, only if the donating entity owns the land to be donated. Donating entities may include a city, county/parish, church, community organization, etc. The application must include documentation of this ownership, signed by the appropriate authorizing official.

(xiii) Low-Income Housing Tax Credits (LIHTC). Low-Income Tax Credits are authorized by Section 42 of the IRS Code which allows investors to receive a credit against federal tax owed in return for providing funds to developers to help build or renovate housing that will be rented only to lower-income households for a minimum period of 15 years. There are two types of credits, both of which are available over a 10-year period: a nine percent credit on construction/rehab costs, and a four percent credit on acquisition costs and all development costs financed partially with below-market Federal loans (e.g., tax exempt bonds). Tax credits are generally reserved annually through State Housing Finance Agencies, a directory of which can be found at http://www.ncsha.org/ncsha/public/statehfadirectory/index.htm.

(b) Sources of Development Leverage. Sources of Development Leverage may include:

(i) Public, private, and nonprofit entities, including LIHTC purchasers;

(ii) State and local housing finance agencies;

(iii) Local governments;

(iv) The city's housing and redevelopment agency or other comparable agency. HUD will consider this to be a separate entity with which you are partnering if your PHA is also a redevelopment agency or otherwise has citywide responsibilities.

(A) You are strongly urged to seek a pledge of Community Development Block Grant (CDBG) funds for improvements to public infrastructure such as streets, water mains, etc. related to the revitalization effort. CDBG funds are awarded by HUD by formula to units of general local government and to states, which may then award a grant or loan to a PHA, a partnership, a nonprofit organization, or other entity for revitalization activities, including loans to a project's for-profit partnership. More information about the CDBG Program can be found at http://www.hud.gov/offices/cpd/index.cfm.

(B) The city, county/parish, or state may provide HOME funds to be used in conjunction with HOPE VI funds. The Home Investment Partnership program provides housing funds that are distributed from HUD to units of general local governments and states. Funds may be used for new construction, rehabilitation, acquisition of standard housing, assistance to homebuyers, and tenant-based rental assistance. Current legislation allows HOME funds to be used in conjunction with HOPE VI funds, but they may not be used in conjunction with public housing capital funds under Section 9(d) of the 1937 Act. Information about the HOME program can be found at: http://www.hud.gov/offices/cpd/affordablehousing/programs/home/index.cfm.

(v) Foundations;

(vi) Government Sponsored Enterprises such as the Federal Home Loan Bank, Fannie Mae, and Freddie Mac;

(vii) HUD and other Federal agencies;

(viii) Financial institutions, banks, or insurers; and

(ix) Other private funders.

(4) Community and Supportive Services Leverage.

(a) HUD seeks to fund mixed-finance developments that use HOPE VI funds to leverage the maximum amount of other resources to support CSS activities in order to ensure the successful transformation of the lives of residents and the sustainability of the revitalized public housing development. Leveraging HOPE VI CSS funds with other funds and services is critical to the sustainability of CSS activities so that they will continue after the HOPE VI funds have been expended. Commitments of funding or in-kind services related to the provision of CSS activities may be counted as CSS resources and toward the calculation of CSS leverage. See Section V.A.3. of this NOFA.

(b) Types of CSS Leverage.

Types of resources include, but are not limited to:

(i) Materials;

(ii) A building;

(iii) A lease on a building;

(iv) Other infrastructure;

(v) Time and services contributed by volunteers;

(vi) Staff salaries and benefits;

(vii) Supplies; and

(viii) Other types of CSS resources as described in Section III.C.4.l. of this NOFA.

(c) TANF cash benefits themselves will not be counted as leverage.

(d) ONLY funds and in-kind services that will be newly generated for HOPE VI activities in this NOFA are considered CSS leverage.

(5) Sources of CSS Leverage. In order to achieve quantifiable self-sufficiency results, you must form partnerships with organizations that are skilled in the delivery of services to residents of public housing and that can provide commitments of resources to support those services. You must actively enlist as partners other stakeholders who are vested in and can provide commitments of funds and in-kind services for the CSS portion of your revitalization effort. See Section III.C.4.m. for a list of the kinds of organizations, agencies, and other providers that may be used as sources of CSS leverage.

f. Access to Services

For both on-site and any off-site units, your overall Revitalization Plan must result in increased access to municipal services, jobs, mentoring opportunities, transportation, and educational facilities; i.e., the physical plan and self-sufficiency strategy must be well-integrated and strong linkages must be established with the appropriate federal, state, and local agencies, nonprofit organizations, and the private sector to achieve such access.

g. Building Standards

(1) Building Codes. All activities that include construction, rehabilitation, lead-based paint removal, and related activities must meet or exceed local building codes. You are encouraged to read the policy statement and final report of the HUD Review of Model Building Codes that identifies the variances between the design and construction requirements of the Fair Housing Act and several model building codes. That report can be found on the HUD Web site at http://www.hud.gov/fhe/modelcodes.

(2) Deconstruction. HUD encourages you to design programs that incorporate sustainable construction and demolition practices, such as the dismantling or “deconstruction” of public housing units, recycling of demolition debris, and reusing of salvage materials in new construction. “A Guide to Deconstruction” can be found at www.hud.gov/deconstr.pdf.

(3) Partnership for Advancing Technology in Housing (PATH). HUD encourages you to use PATH technologies in the construction and delivery of replacement housing. PATH is a voluntary initiative that seeks to accelerate the creation and widespread use of advanced technologies to radically improve the quality, durability, environmental performance, energy efficiency, and affordability of our Nation's housing.

(a) PATH's goal is to achieve dramatic improvement in the quality of American housing by the year 2010. PATH encourages leaders from the home building, product manufacturing, insurance and financial industries, and representatives from federal agencies dealing with housing issues to work together to spur housing design and construction innovations. PATH will provide technical support in design and cost analysis of advanced technologies to be incorporated in project construction.

(b) Applicants are encouraged to employ PATH technologies to exceed prevailing national building practices by:

(i) Reducing costs;

(ii) Improving durability;

(iii) Increasing energy efficiency;

(iv) Improving disaster resistance; and

(v) Reducing environmental impact.

(c) More information, the list of technologies, the latest PATH Newsletter, results from field demonstrations, and PATH projects can be found at www.pathnet.org.

(4) Energy Efficiency.

(a) New construction must comply with the latest HUD-adopted Model Energy Code issued by the Council of American Building Officials.

(b) HUD encourages you to set higher standards for energy and water efficiency in HOPE VI new construction, which can achieve utility savings of 30 to 50 percent with minimal extra cost.

(c) You are encouraged to negotiate with your local utility company to obtain a lower rate. Utility rates and tax laws vary widely throughout the country. In some areas, PHAs are exempt or partially exempt from utility rate taxes. Some PHAs have paid unnecessarily high utility rates because they were billed at an incorrect rate classification.

(d) Local utility companies may be able to provide grant funds to assist in energy efficiency activities. States may also have programs that will assist in energy efficient building techniques.

(e) You must use new technologies that will conserve energy and decrease operating costs where cost effective. Examples of such technologies include:

(i) Geothermal heating and cooling;

(ii) Placement of buildings and size of eaves that take advantage of the directions of the sun throughout the year;

(iii) Photovoltaics (technologies that convert light into electrical power);

(iv) Extra insulation;

(v) Smart windows; and

(vi) Energy Star appliances.

(5) Universal Design. HUD encourages you to incorporate the principles of universal design in the construction or rehabilitation of housing, retail establishments, and community facilities, or when communicating with community residents at public meetings or events. Universal design is the design of products and environments to be usable by all people, to the greatest extent possible, without the need for adaptation or specialized design. The intent of universal design is to simplify life for everyone by making products, communications, and the built environment more usable by as many people as possible at little or no extra cost. Universal design benefits people of all ages and abilities. Examples include designing wider doorways, installing levers instead of doorknobs, and putting bathtub/shower grab bars in all units. Computers and telephones can also be set up in ways that enable as many residents as possible to use them. The Department has a publication that contains a number of ideas about how the principles of Universal Design can benefit persons with disabilities. To order a copy of Strategies for Providing Accessibility and Visitability for HOPE VI and Mixed Finance Homeownership, go to the publications and resource page of the HOPE VI Web site at http://www.huduser.org/publications/pubasst/strategies.html.

(6) Energy Star. HUD has adopted a wide-ranging energy action plan for improving energy efficiency in all program areas. As a first step in implementing the energy plan, HUD, the Environmental Protection Agency (EPA), and the Department of Energy (DoE) have signed a joint partnership to promote energy efficiency in HUD's affordable housing efforts and programs. The purpose of the Energy Star partnership is to promote energy efficiency of the affordable housing stock, but also to help protect the environment. Applicants constructing, rehabilitating, or maintaining housing or community facilities are encouraged to promote energy efficiency in design and operations. They are urged especially to purchase and use Energy Star-labeled products. Applicants providing housing assistance or counseling services are encouraged to promote Energy Star building by homebuyers and renters. Program activities can include developing Energy Star promotional and information materials, outreach to low- and moderate-income renters and buyers on the benefits and savings when using Energy Star products and appliances, and promoting the designation of community buildings and homes as Energy Star compliant. For further information about Energy Star, see http://www.energystar.gov or call 888-STAR-YES (888-782-7937), or for the hearing-impaired, call 888-588-9920 TTY. See also the energy efficiency requirements in Section III.C.4.g.(4) above. See Section V.9.f. of this NOFA for the Energy Star Rating Factor.

(7) Lead-Based Paint. You must comply with lead-based paint evaluation and reduction requirements as provided for under the Lead-Based Paint Poisoning Prevention Act (42 U.S.C. 4821, et seq.). You also must comply with regulations at 24 CFR part 35, 24 CFR 965.701, and 24 CFR 968.110(k), as they may be amended or revised from time to time. Unless otherwise provided, you will be responsible for lead-based paint evaluation and reduction activities. The National Lead Information Hotline is 800-424-5323.

h. Labor Standards

The following standards must be implemented as appropriate in regard to HOPE VI grants.

(1) Labor Standards.

(a) Davis-Bacon wage rates apply to development of any public housing rental units or homeownership units developed with HOPE VI grant funds and to demolition followed by construction on the site. Davis-Bacon rates are “prevailing” minimum wage rates set by the Secretary of Labor that all laborers and mechanics employed in the development, including rehabilitation, of a public housing project must be paid, as set forth in a wage determination that the PHA must obtain prior to bidding on each construction contract. The wage determination and provisions requiring payment of these wage rates must be included in the construction contract;

(b) HUD-determined wage rates apply to:

(i) Operation (including nonroutine maintenance) of revitalized housing, and

(ii) Demolition followed only by filling in the site and establishing a lawn.

(2) Exclusions. Under Section 12(b) of the 1937 Act, wage rate requirements do not apply to individuals who:

(a) Perform services for which they volunteered;

(b) Do not receive compensation for those services or are paid expenses, reasonable benefits, or a nominal fee for the services; and

(c) Are not otherwise employed in the work involved (24 CFR part 70).

(3) If other federal programs are used in connection with your HOPE VI activities, labor standards requirements apply to the extent required by the other federal programs on portions of the project that are not subject to Davis-Bacon rates under the 1937 Act.

i. Operation and Management Principles and Policies

(1) You and your procured property manager, if applicable, must comply (to the extent required) with the provisions of 24 CFR part 966 in planning for the implementation of the operation and management principles and policies described below.

(a) Rewarding work and promoting family stability by promoting positive incentives such as income disregards and ceiling rents;

(b) Instituting a system of local preferences adopted in response to local housing needs and priorities, e.g., preferences for victims of domestic violence, residency preferences, and disaster victims. Note that local preferences for public housing must comply with Fair Housing requirements at 24 CFR 960.206;

(c) Encouraging self-sufficiency by including lease requirements that promote involvement in the resident association, performance of community service, participation in self-sufficiency activities, and transitioning from public housing;

(d) Implementing site-based waiting lists that follow project-based management principles for the redeveloped public housing. Note that site-based waiting lists for public housing must comply with Fair Housing requirements at 24 CFR 903.7(b)(2);

(e) Instituting strict applicant screening requirements such as credit checks, references, home visits, and criminal records checks;

(f) Strictly enforcing lease and eviction provisions;

(g) Improving the safety and security of residents through the implementation of defensible space principles and the installation of physical security systems such as surveillance equipment, control engineering systems, etc;

(h) Enhancing ongoing efforts to eliminate drugs and crime from neighborhoods through collaborative efforts with federal, state, and local crime prevention programs and entities such as:

(i) Local law enforcement agencies;

(ii) Your local United States Attorney;

(iii) The Weed and Seed Program, if the targeted project is located in a designated Weed and Seed area. Operation Weed and Seed is a multi-agency strategy that “weeds out” violent crime, gang activity, drug use, and drug trafficking in targeted neighborhoods and then “seeds” the target area by restoring these neighborhoods through social and economic revitalization. Law enforcement activities constitute the “weed” portion of the program. Revitalization, which includes prevention, intervention, and treatment services as well as neighborhood restoration, constitutes the “seed” element. For more information, see the Community and Safety and Conservation Web site at http://www.hud.gov/offices/pih/divisions/cscd/.

j. Non-Fungibility for Moving To Work (MTW) PHAs

Funds awarded under this NOFA are not fungible under MTW agreements and must be accounted for separately, in accordance with the HOPE VI Revitalization Grant Agreement, the requirements in OMB Circulars A-87, “Cost Principles Applicable to Grants, Contracts and Other Agreements with State and Local Governments,” A-133, “Audits of States, Local Governments, and Non-Profit Organizations” and the regulations 24 CFR part 85, “Administrative Requirements for Grants and Cooperative Agreements to State, Local, and Federally Recognized Indian Tribal Governments,” and GAAP.

k. Resident and Community Involvement

(1) General. You are required to involve the affected public housing residents, state and local governments, private service providers, financing agencies, and developers in the planning process, proposed implementation, and management of your Revitalization Plan. This involvement must be continuous from the beginning of the planning process through the implementation and management of the grant, if awarded.

(2) Resident Training Session. You must conduct at least one training session for residents of the severely distressed project on the HOPE VI development process. HUD does not prescribe the content of this meeting.

(3) Public Meetings.

(a) You must conduct at least three public meetings with residents and the broader community, in order to involve them in a meaningful way in the process of developing the Revitalization Plan and preparing the application. One of these meetings must have taken place at the beginning of the planning process.

(b) These three public meetings must take place on different days from each other and from the resident training session.

(c) During the course of the three meetings, you must address the issues listed below (i.e., all issues need not be addressed at each meeting):

(i) The HOPE VI planning and implementation process;

(ii) The proposed physical plan, including site and unit design, and whether the unit design is in compliance with Fair Housing Act and Uniform Federal Accessibility Standards (UFAS) standards;

(iii) The extent of proposed demolition;

(iv) Planned community and supportive service activities;

(v) Other proposed revitalization activities;

(vi) Relocation issues, including relocation planning, mobility counseling, and maintaining the HOPE VI community planning process during the demolition and reconstruction phases where temporary relocation, i.e., relocation for a reasonable period (less than one year), is involved;

(vii) Reoccupancy plans and policies, including site-based waiting lists; and

(viii) Section 3 and employment opportunities to be created as a result of redevelopment activities.

(4) Accessibility. All training sessions and meetings must be held in facilities that are accessible to persons with disabilities, provide services such as day care, transportation, and sign language interpreters as appropriate, and as practical and applicable, be conducted in English and the language(s) most appropriate for the community.

(5) Allowable Time Period for Training and Meetings.

(a) At least one public meeting, which included representation from both the involved public housing residents and the community, must have been held at the beginning of the revitalization planning period;

(b) At least one training session must have been held after the publication date of this NOFA in the Federal Register; and

(c) The minimum of two more public meetings must have been held after the publication date of this NOFA in the Federal Register.

(d) The above minimum number of trainings and meetings are required to meet the Resident Involvement threshold in Section III.C. of this NOFA. Additional meetings and trainings will be counted toward demonstration of continual inclusion of the residents and community in the rating factors.

l. CSS Program Requirements

(1) Term Period. CSS programs and services must last for the life of the grant and must be carefully planned so that they will be sustainable after the HOPE VI grant period ends.

(2) Allowed Funding Mechanisms:

(a) Maximum CSS grant amount. Consistent with Sections 24(d)(1)(L) and 24(j)(3) of the 1937 Act, you may use up to 15 percent of the total HOPE VI grant to pay the costs of CSS activities. See Section III.B.1. of this NOFA for CSS grant matching requirements. You may spend additional sums on CSS activities using donations, other HUD funds made available for that purpose, other Federal, state, local, PHA, or private-sector donations (leverage).

(b) CSS Endowment Trust. Consistent with Section 24(d)(2) of the 1937 Act, you may deposit up to 15 percent of your HOPE VI grant (the maximum amount of the award allowable for CSS activities) into an endowment trust to provide CSS activities. In order to establish an endowment trust, you must first execute with HUD a HOPE VI Endowment Trust Addendum to the grant agreement. When reviewing your request to set up an endowment trust, HUD will take into consideration your ability to pay for current CSS activities with HOPE VI or other funds and the projected long-term sustainability of the endowment trust to carry out those activities.

(3) CSS Team and Partners.

(a) The term “CSS Team” refers to PHA staff members and any consultants who will have the responsibility to design, implement, and manage your CSS program.

(b) The term “CSS Partners” refers to the agencies and organizations that you will work with to provide supportive services for residents. A partner could be a local service organization such as a Boys or Girls Club that donates its building and staff to the program, or an agency such as the local Temporary Assistance for Needy Families (TANF) agency that works with you to ensure that their services are coordinated and comprehensive.

(c) Partner Agreements. There are several relationships that you may have with your partners:

(i) Subgrant Agreements. You may enter into subgrant agreements with nonprofit organizations or state or local governments for the performance of CSS activities in accordance with your approved CSS work plan.

(ii) Contracts. You may enter into a contract with for-profit businesses, nonprofit organizations, or state or local governments for the performance of CSS activities in accordance with your approved CSS work plan.

(iii) Memoranda of Understanding (MOU). You may enter into an MOU with any entity that furnishes CSS services for the performance of activities in accordance with your approved CSS work plan. However, if money is to change hands, the MOU must be formalized with a contract or subgrant.

(iv) Informal Relationships. You may accept assistance from partners without prior documentation of your partner relationship. However, informal relationships do not lend themselves to planning and should definitely be formalized and memorialized with a binding contract or subgrant if money changes hands.

(4) Tracking and Case Management. If selected, the grantee is responsible for tracking and providing CSS programs and services to residents currently living on the targeted public housing site and residents already relocated from the site. It is imperative that case management services begin immediately upon award so that residents who will be relocated have time to participate in and benefit from CSS activities before leaving the site, and that residents who have already been relocated are able to participate in and benefit from CSS activities.

(5) CSS Strategy and Objectives Requirements

(a) Transition to Housing Self-Sufficiency. One of HUD's major priorities is to assist public housing residents in their efforts to become financially self-sufficient and less dependent upon direct government housing assistance. Your CSS program must include a well-defined, measurable endeavor that will enable public housing residents to transition to other affordable housing programs and to market housing. Family Self-Sufficiency (FSS) and CSS activities that are designed to increase education and income levels are considered a part of this endeavor, as is the establishment of reasonable limits on the length of time any household that is not headed by an elderly or disabled person can reside in a public housing unit within a HOPE VI Revitalization Development.

(b) Neighborhood Networks. All FY2005 Revitalization grantees will be required to establish Neighborhood Networks Centers (NNC) and to promote the inclusion of infrastructure that permits unit-based access to broadband internet connectivity in all new and replacement public housing units. This program provides residents with on-site access to computer and training resources that create knowledge and experience with computers and the Internet as tools to increase access to CSS, job training, and the job market. Grantees may use HOPE VI funds to establish NNCs and to provide unit-based Internet connectivity. More information on the requirements of the NNC program is available on the Neighborhood Networks Web site at http://www.hud.gov/nnw/nnwindex.html. There will not be a separate FY-2005 funded NOFA for HOPE VI Neighborhood Networks programs.

(c) Quantifiable Goals. The objectives of your CSS program must be results-oriented, with quantifiable goals and outcomes that can be used to measure progress and make changes in activities as necessary.

(d) Appropriate Scale and Type.

(i) CSS activities must be of an appropriate scale, type, and variety to meet the needs of all residents (including adults, seniors, youth ages 16 to 21, and children) of the severely distressed project, including residents remaining on-site, residents who will relocate permanently to other PHA units or Housing Choice Voucher-assisted housing, residents who will relocate temporarily during the construction phase, and new residents of the revitalized units.

(ii) Non-public housing residents may also participate in CSS activities, as long as the primary participants in the activities are residents as described in Section (i) above.

(e) Coordination.

(i) CSS activities must be consistent with state and local welfare reform requirements and goals.

(ii) Your CSS activities must be coordinated with the efforts of other service providers in your locality, including nonprofit organizations, educational institutions, and state and local programs.

(iii) CSS activities must be well-integrated with the physical development process, both in terms of timing and the provision of facilities to house on-site service and educational activities.

(f) Your CSS program must provide appropriate community and supportive services to residents prior to any relocation

m. CSS Partnerships and Resources

The following are the kinds of organizations and agencies that can provide you with resources necessary to carry out and sustain your CSS activities.

(1) Local Boards of Education, public libraries, local community colleges, institutions of higher learning, nonprofit or for-profit educational institutions, and public/private mentoring programs that will lead to new or improved educational facilities and improved educational achievement of young people in the revitalized development, from birth through higher education.

(2) TANF agencies/welfare departments for TANF and non-TANF in-kind services, and non-TANF cash donations, e.g., donation of TANF agency staff.

(3) Job development organizations that link private sector or nonprofit employers with low-income prospective employees.

(4) Workforce Development Agencies.

(5) Organizations that provide residents with job readiness and retention training and support.

(6) Economic development agencies such as the Small Business Administration, which provide entrepreneurial training and small business development centers.

(7) National corporations, local businesses, and other large institutions such as hospitals that can commit to provide entry-level jobs. Employers may agree to train residents or commit to hire residents after they complete jobs preparedness or training programs that are provided by you, other partners, or the employer itself.

(8) Programs that integrate employment training, education, and counseling, and where creative partnerships with local boards of education, state charter schools, TANF agencies, foundations, and private funding sources have been or could be established, such as:

(a) Youthbuild. HUD's Youthbuild program provides grants to organizations that provide education and job training to young adults ages 16 to 24 who have dropped out of school. Participants spend half their time rehabilitating low-income housing and the other half in educational programs. Youthbuild provides a vehicle for achieving compliance with the objective of Section 3, as described in Section III.C.4.c. of the General Section. More information on HUD's Youthbuild program can be found at http://www.hud.gov/progdesc/youthb.cfm.

(b) Step-Up, an apprenticeship-based employment and training program that provides career potential for low-income persons by enabling them to work on construction projects that have certain prevailing wage requirements. Step-Up encourages work by offering apprenticeships through which low-income participants earn wages while learning skills on the job, supplemented by classroom-related instruction. Step-Up can also contribute to a PHA's effort to meet the requirements of Section 3. More information can be found at http://www.hud.gov/progdesc/stepup.cfm.

(9) Sources of capital such as foundations, banks, credit unions, and charitable, fraternal, and business organizations.

(10) Nonprofit organizations such as the Girl Scouts and the Urban League, each of which has a Memorandum of Agreement (MOA) with HUD. Copies of these MOAs can be found on the Community and Supportive Services page of the HOPE VI Web site at http://www.hud.gov/hopevi.

(11) Civil rights and fair housing organizations.

(12) Local area agencies on aging.

(13) Local agencies and organizations serving persons with disabilities.

(14) Nonprofit organizations such as grassroots faith-based and other community-based organizations. HUD encourages you to partner or subgrant with nonprofit organizations, including grassroots faith-based and other community-based organizations, to provide CSS activities. Such organizations have a strong history of providing vital community services such as job training, childcare, relocation supportive services, youth programs, technology training, transportation, substance abuse programs, crime prevention, health services, assistance to the homeless and homelessness prevention, counseling individuals and families on fair housing rights, providing elderly housing opportunities, and homeownership and rental housing opportunities in the neighborhood of their choice. HUD believes that grassroots organizations, e.g., civic organizations, faith-communities, national and local self-help homeownership organizations, faith-based, and other community-based organizations should be more effectively used, and has placed a high priority on expanding opportunities for grassroots organizations to participate in developing solutions for their own neighborhoods. See HUD's Center for Faith-Based and Community Initiatives Web site at http://www.hud.gov/offices/fbci/index.cfm.

(a) HUD will consider an organization a “grassroots” organization if it is headquartered in the local community to which it provides services; and

(i) Has an annual social services budget of no more than $300,000. This cap includes only the portion of the organization's budget allocated to providing social services. It does not include other portions of the budget such as salaries and expenses; or

(ii) Has six or fewer full-time equivalent employees.

(b) Local affiliates of national organizations are not considered “grassroots.”

n. Fair Housing and Equal Opportunity Requirements

(1) Site and Neighborhood Standards for Replacement Housing. You must comply with the Fair Housing Act and Title VI of the Civil Rights Act of 1964, and regulations thereunder. In determining the location of any replacement housing, you must comply with either the site and neighborhood standards regulations at 24 CFR 941.202 (b)-(d) or with the standards outlined in this NOFA. Because the objective of the HOPE VI program is to alleviate distressed conditions at the development and in the surrounding neighborhood, replacement housing under HOPE VI that is located on the site of the existing development or in its surrounding neighborhood will not require independent approval by HUD under Site and Neighborhood Standards. The term “surrounding neighborhood” means the neighborhood within a three-mile radius of the site of the existing development.

(a) HOPE VI Goals Related to Site and Neighborhood Standards. You are expected to ensure that your revitalization plan will expand assisted housing opportunities outside low-income areas and areas of minority concentration and will accomplish substantial revitalization in the project and its surrounding neighborhood. You are also expected to ensure that eligible households of all races and ethnic groups will have equal and meaningful access to the housing.

(b) Objectives in Selecting HUD-Assisted Sites. The fundamental goal of HUD's fair housing policy is to make full and free housing choice a reality. Housing choice requires that households of all races and ethnicity, or with disabilities, can freely decide the type of neighborhood where they wish to reside, that minority neighborhoods are no longer deprived of essential public and private resources, and that stable, racially-mixed neighborhoods are available as a meaningful choice for all. To make full and free housing choice a reality, sites for HUD-assisted housing investment should be selected so as to advance two complementary goals:

(i) Expand assisted housing opportunities in non-minority neighborhoods, opening up choices throughout the metropolitan area for all assisted households; and

(ii) Reinvest in minority neighborhoods, improving the quality and affordability of housing there to represent a real choice for assisted households.

(c) Compliance with Fair Housing Act, Title VI of the Civil Rights Act of 1964, and Section 504 of the Rehabilitation Act of 1973. You must comply with the Fair Housing Act, Title VI of the Civil Rights Act of 1964, Section 504 of the Rehabilitation Act of 1973, and implementing regulations in determining the location of any replacement housing.

(d) Grantee Election of Requirements. You may, at your election, separately with regard to each site you propose, comply with the development regulations regarding Site and Neighborhood Standards (24 CFR 941.202 (b)-(d)), or with the Site and Neighborhood Standards contained in this Section.

(e) Replacement housing located on site or in the surrounding neighborhood. Replacement housing under HOPE VI that is located on the site of the existing project or in its surrounding neighborhood will not require independent approval under Site and Neighborhood Standards, since HUD will consider the scope and impact of the proposed revitalization to alleviate severely distressed conditions at the public housing project and its surrounding neighborhood in assessing the application to be funded under this NOFA.

(f) Off-Site Replacement Housing Located Outside of the Surrounding Neighborhood. Unless you demonstrate that there are already significant opportunities in the metropolitan area for assisted households to choose non-minority neighborhoods (or these opportunities are under development), HOPE VI replacement housing not covered by Section (e) above may not be located in an area of minority concentration (as defined in paragraph (g) below) without the prior approval of HUD. Such approval may be granted if you demonstrate to the satisfaction of HUD that:

(i) You have made determined and good faith efforts, and found it impossible with the resources available, to acquire an appropriate site(s) in an area not of minority concentration; or

(ii) The replacement housing, taking into consideration both the CSS activities or other revitalizing activities included in the Revitalization plan, and any other revitalization activities in operation or firmly planned, will contribute to the stabilization or improvement of the neighborhood in which it is located, by addressing any serious deficiencies in services, safety, economic opportunity, educational opportunity, and housing stock.

(g) Area of Minority Concentration. The term “area of minority concentration” is any neighborhood in which:

(i) The percentage of households in a particular racial or ethnic minority group is at least 20 percentage points higher than the percentage of that minority group for the housing market area; i.e., the Metropolitan Statistical Area (MSA) in which the proposed housing is to be located;

(ii) The neighborhood's total percentage of minority persons is at least 20 percentage points higher than the total percentage of all minorities for the MSA as a whole; or

(iii) In the case of a metropolitan area, the neighborhood's total percentage of minority persons exceeds 50 percent of its population.

(2) Housing and Services for Persons with Disabilities.

(a) Accessibility Requirements. HOPE VI developments are subject to the accessibility requirements contained in several federal laws. All applicable laws must be read together and followed. PIH Notice 2003-31, available at http://www.hud.gov/offices/pih/publications/notices/, and subsequent updates, provides an overview of all pertinent laws and implementing regulations pertaining to HOPE VI. All HOPE VI multifamily housing projects, whether they involve new construction and rehabilitation, are subject to the Section 504 accessibility requirements described in 24 CFR Part 8. See in particular, 24 CFR §§ 8.20-8.24. In addition, under the Fair Housing Act, all new construction of covered multifamily buildings must contain certain features of accessible and adaptable design. Units covered are all those in elevator buildings with four or more units and all ground floor units in buildings without elevators. The relevant accessibility requirements are provided in HUD's FHEO Web site at http://www.hud.gov/groups/fairhousing.cfm.

(b) Specific Fair Housing requirements are:

(i) The Fair Housing Act (42 U.S.C. 3601-19) and regulations at 24 CFR part 100.

(ii) The prohibitions against discrimination on the basis of disability, including requirements that multifamily housing projects comply with the Uniform Federal Accessibility Standards, and that you make reasonable accommodations to individuals with disabilities under Section 504 of the Rehabilitation Act of 1973 (29 U.S.C. 794) and regulations at 24 CFR part 8.

(iii) Title II of the Americans with Disabilities Act (42 U.S.C 12101 et seq.) and its implementing regulations at 28 CFR part 35.

(iv) The Architectural Barriers Act of 1968 (42 U.S.C. 4151) and the regulations at 24 CFR part 40.

(c) Accessible Technology. The Rehabilitation Act Amendments of 1998 apply to all electronic information technology (EIT) used by a grantee for transmitting, receiving, using, or storing information to carry out the responsibilities of any federal grant awarded. It includes, but is not limited to, computers (hardware, software, word processing, e-mail, and Web pages) facsimile machines, copiers, and telephones. When developing, procuring, maintaining, or using EIT, grantees must ensure that the EIT allows:

(i) Employees with disabilities to have access to and use information and data that is comparable to the access and use of data by employees who do not have disabilities; and

(ii) Members of the public with disabilities seeking information or service from a grantee must have access to and use of information and data that is comparable to the access and use of data by members of the public who do not have disabilities. If these standards impose an undue burden on a grantee, they may provide an alternative means to allow the individual to use the information and data. No grantee will be required to provide information services to a person with disabilities at any location other than the location at which the information services are generally provided.

o. Relocation Requirements

(1) Requirements.

(a) You must carry out relocation activities in compliance with a relocation plan that conforms to the following statutory and regulatory requirements, as applicable:

(i) Relocation or temporary relocation carried out as a result of rehabilitation under an approved Revitalization plan is subject to the Uniform Relocation Assistance and Real Property Acquisition Policies Act of 1970 (URA), the URA regulations at 49 CFR part 24, and regulations at 24 CFR 968.108 or successor part.

(ii) Relocation carried out as a result of acquisition under an approved Revitalization plan is subject to the URA and regulations at 24 CFR 941.207 or successor part.

(iii) Relocation carried out as a result of disposition under an approved Revitalization plan is subject to Section 18 of the 1937 Act, as amended.

(iv) Relocation carried out as a result of demolition under an approved Revitalization plan is subject to the URA regulations at 24 CFR part 24.

(b) You must provide suitable, accessible, decent, safe, and sanitary housing for each family required to relocate as a result of revitalization activities under your Revitalization plan. Any person (including individuals, partnerships, corporations, or associations) who moves from real property or moves personal property from real property directly (1) because of a written notice to acquire real property in whole or in part, or (2) because of the acquisition of the real property, in whole or in part, for a HUD-assisted activity, is covered by federal relocation statute and regulations. Specifically, this type of move is covered by the acquisition policies and procedures and the relocation requirements of the URA, and the implementing government-wide regulation at 49 CFR part 24, and Notice CPD 04-02, “Revision to Notice CPD 02-8, Guidance on the Application of the Uniform Relocation Assistance and Real Property Acquisition Policies Act of 1970 (URA), as Amended, in HOPE VI Projects”. The relocation requirements of the URA and the government-wide regulations, as well as CPD Notice 02-08, cover any person who moves permanently from real property or moves personal property from real property directly because of acquisition, rehabilitation, or demolition for an activity undertaken with HUD assistance.

(2) Relocation Plan. Each applicant must complete a HOPE VI Relocation plan in accordance with the requirements stated in Section IV.B. of this NOFA.

(a) The HOPE VI Relocation plan is intended to ensure that PHAs adhere to the URA and that all residents who have been or will be temporarily or permanently relocated from the site are provided with CSS activities such as mobility counseling and direct assistance in locating housing. Your HOPE VI Relocation plan must serve to minimize permanent displacement of current residents of the public housing site who wish to remain in or return to the revitalized community. Your HOPE VI Relocation plan must also furnish alternative permanent housing for current residents of the public housing site who do not wish to remain in or return to the revitalized community. Your CSS program must provide for the delivery of community and supportive services to residents prior to any relocation, temporary or permanent.

(b) You are encouraged to involve HUD-approved housing counseling agencies, including faith-based, nonprofit and other organizations, and individuals in the community to which relocatees choose to move, in order to ease the transition and minimize the impact on the neighborhood. HUD will view favorably innovative programs such as community mentors, support groups, and the like.

(c) If applicable, you are encouraged to work with surrounding jurisdictions to assure a smooth transition if residents choose to move from your jurisdiction to the surrounding area.

p. Well-Functioning Communities

See Section V.A.8. of this NOFA for requirements that the unit mix of on-site, off-site and homeownership units create a well-functioning community.

q. Soundness of Approach: Design

HUD is seeking excellence in design. You must carefully select your architects and planners, and enlist local affiliates of national architectural and planning organizations such as the American Institute of Architects, the American Society of Landscape Architects, the American Planning Association, the Congress for the New Urbanism, and the department of architecture at a local college or university to assist you in assessing qualifications of design professionals or participating on a selection panel that results in the procurement of excellent design services.

You should select a design team that is committed to a process in which residents, including young people and seniors, the broader community, and other stakeholders participate in designing the new community.

Your proposed site plan, new units, and other buildings must be designed to be compatible with and enrich the surrounding neighborhood. Local architecture and design elements and amenities should be incorporated into the new or rehabilitated homes so that the revitalized sites and structures will blend into the broader community and appeal to the market segments for which they are intended. Housing, community facilities, and economic development space must be well integrated. You must select members of your team who have the ability to meet these requirements.

r. Internet Access

You must have access to the Internet and provide HUD with email addresses of key staff and contact people.

5. Number of Units

The number of units that you plan to develop should reflect your need for replacement units, the need for other affordable units and the market demand for market units, along with financial feasibility. The total number of units to be developed may be less than, or more than, the original number of public housing units in the targeted public housing project. HUD will review requests to revitalize projects with small numbers of units on an equal basis with those with large numbers of units.

6. Environmental Requirements

a. HUD Approval. HUD notification that you have been selected to receive a HOPE VI grant constitutes only preliminary approval. Grant funds may not be released under this NOFA (except for activities that are excluded from environmental review under 24 CFR part 58 or 50) until the responsible entity, as defined in 24 CFR 58.2(a)(7), completes an environmental review and you submit and obtain HUD approval of a request for release of funds and the responsible entity's environmental certification in accordance with 24 CFR part 58 (or HUD has completed an environmental review under 24 CFR part 50 where HUD has determined to do the environmental review).

b. Responsibility. If you are selected for funding and an environmental review has not been conducted on the targeted site, the responsible entity must assume the environmental review responsibilities for projects being funded by HOPE VI. If you object to the responsible entity conducting the environmental review, on the basis of performance, timing, or compatibility of objectives, HUD will review the facts and determine who will perform the environmental review. At any time, HUD may reject the use of a responsible entity to conduct the environmental review in a particular case on the basis of performance, timing, or compatibility of objectives, or in accordance with 24 CFR 58.77(d)(1). If a responsible entity objects to performing an environmental review, or if HUD determines that the responsible entity should not perform the environmental review, HUD may designate another responsible entity to conduct the review or may itself conduct the environmental review in accordance with the provisions of 24 CFR part 50. You must provide any documentation to the responsible entity (or HUD, where applicable) that is needed to perform the environmental review.

c. Phase I and Phase II Environmental Site Assessments. If you are selected for funding, you must have a Phase I environmental site assessment completed in accordance with the ASTM Standards E 1527-00, as amended, for each affected site. A Phase I assessment is required whether the environmental review is completed under 24 CFR part 50 or 24 CFR part 58. The results of the Phase I assessment must be included in the documents that must be provided to the responsible entity (or HUD) for the environmental review. If the Phase I assessment recognizes environmental concerns or if the results are inconclusive, a Phase II environmental site assessment will be required.

d. Request for Release of Funds. You, and any participant in the development process, may not undertake any actions with respect to the project that are choice-limiting or could have environmentally adverse effects, including demolishing, acquiring, rehabilitating, converting, leasing, repairing, or constructing property proposed to be assisted under this NOFA, and you, and any participant in the development process, may not commit or expend HUD or local funds for these activities, until HUD has approved a Request for Release of Funds following a responsible entity's environmental review under 24 CFR part 58, or until HUD has completed an environmental review and given approval for the action under 24 CFR part 50. In addition, you must carry out any mitigating/remedial measures required by the responsible entity (or HUD). If a remediation plan, where required, is not approved by HUD and a fully-funded contract with a qualified contractor licensed to perform the required type of remediation is not executed, HUD reserves the right to determine that the grant is in default.

e. If the environmental review is completed before HUD approval of the HOPE VI Supplemental Submissions and you have submitted your Request for Release of Funds (RROF), the supplemental submissions approval letter shall state any conditions, modifications, prohibitions, etc. as a result of the environmental review, including the need for any further environmental review. You must carry out any mitigating/remedial measures required by HUD, or select an alternate eligible property, if permitted by HUD. If HUD does not approve the remediation plan and a fully funded contract with a qualified contractor licensed to perform the required type of remediation is not executed, HUD reserves the right to determine that the grant is in default.

f. If the environmental review is not completed and you have not submitted the RROF before HUD approval of the supplemental submissions, the letter approving the supplemental submissions will instruct you and any participant in the revitalization process to refrain from undertaking, obligating, or expending funds on physical activities or other choice-limiting actions until HUD approves your RROF and the related certification of the responsible entity (or HUD has completed the environmental review). The supplemental submissions approval letter also will advise you that the approved supplemental submissions may be modified on the basis of the results of the environmental review.

g. There must not be any environmental or public policy factors such as sewer moratoriums that would preclude development in the requested locality. You will certify to this when signing the HOPE VI Revitalization Grant Application Certifications.

h. HUD's environmental website is located at http://www.hud.gov/offices/cpd/energyenviron/environment/index.cfm.

7. General Section References

The following sub-sections of Section III.C. of the General Section are hereby incorporated by reference:

(1) The Americans with Disabilities Act of 1990;

(2) Affirmatively Furthering Fair Housing;

(3) Economic Opportunities for Low- and Very Low-Income Persons (Section 3);

(4) Executive Order 13166, Improving Access to Services for Persons With Limited English Proficiency (LEP);

(5) Accessible Technology;

(6) Procurement of Recovered Materials;

(7) Participation in HUD-Sponsored Program Evaluation;

(8) Executive Order 13202, Preservation of Open Competition and Government Neutrality Towards Government Contractors' Labor Relations on Federal and Federally Funded Construction Projects;

(9) OMB Circulars and Government-wide Regulations Applicable to Financial Assistance Programs; and

(10) Drug-Free Workplace.

IV. Application and Submission Information

A. Addresses To Request Application Package

1. Obtaining the NOFA. Copies of this published NOFA and application forms for this program may be downloaded from the grants.gov Web site at http://www.grants.gov. If you have difficulty accessing the information you may call the grants.gov help line toll-free at (800) 518-GRANTS or e-mailing <support@grants.gov>. Help line customer representatives will assist you in accessing the information. For general information, you can contact the NOFA Information Center at (800) HUD-8929. If you are hearing impaired, you may reach the NOFA Information Center through (800) HUD-2209 (TTY) (these are toll-free numbers).

2. Federal Register. The published Federal Register document is the official document that HUD uses to evaluate applications. Therefore, if there is a discrepancy between any materials published by HUD in its Federal Register publications and other information provided by the above Web site, the Federal Register publication prevails. Please be sure to review your application submission against the requirements in the Federal Register file of the NOFA.

3. Application Kits. There are no application kits for our programs this year. All the information you need to apply will be in the NOFA and available on the Internet.

4. Corrections to the NOFA. Corrections to the NOFA will be posted to the grants.gov Web site, as described above. Any technical corrections will also be published in the Federal Register. As with the original NOFA, the published Federal Register document is the official document that HUD uses to evaluate applications. Therefore, if there is a discrepancy between any materials published by HUD in its Federal Register publications and other information provided by the above website, the Federal Register publication prevails. Applicants are responsible for monitoring these websites and the Federal Register during the application preparation period.

B. Content and Form of Application Submission

1. General

a. Electronic Signature. Applications submitted through grants.gov constitute submission as electronically signed applications. The registration and e-authentication process establishes the Authorized Organization Representative (AOR). When you submit the application through Grants.gov, the name of your authorized organization representative on file will be inserted into the signature line of the application. Applicants must register the individual who is able to make legally binding commitments for the applicant organization as the Authorized Organization Representative (AOR).

b. Manual Signatures. If your organization is granted a waiver to the electronic application submission requirement, you should follow the following instructions regarding manual signatures. Unless otherwise indicated, the Executive Director of the applicant PHA, or his or her designee, must sign each form or certification that is required to be submitted with the application, whether part of an attachment or a standard certification. Signatures need not be original in the duplicate Headquarters copy and the duplicate field office copy.

c. Manual Page Layout. If you are granted a waiver to the electronic submission requirement:

(1) Double-space your narrative pages. Single-spaced pages will be counted as two pages;

(2) Use 8½ x 11-inch paper, one side only. Only the city map may be submitted on an 8 ½ by 14-inch sheet of paper. Larger pages will be counted as two pages;

(3) All margins should be approximately 1 inch. If any margin is smaller than ½ inch the page will be counted as two pages;

(4) Use 12-point, Times New Roman font;

(5) Any pages marked as sub-pages (e.g., with numbers and letters such as 75A, 75B, 75C), will be treated as separate pages;

(6) If a section is not applicable, omit it; do not insert a page marked n/a;

(7) Mark each Exhibit and Attachment with the appropriate tab listed in section IV.B.2. and in the Submission Instructions. No material on the tab will be considered for review purposes, although pictures are allowed;

(8) No more than one page of text may be placed on one sheet of paper; i.e., you may not shrink pages to get two or more on a page. Shrunken pages will be counted as multiple pages;

(9) Do not format your narrative in columns. Pages with text in columns will be counted as two pages; and

(10) The applications (copy and original) should each be packaged in a three-ring binder.

d. Manual Page Count. If you are granted a waiver to the electronic submission requirement:

(1) Narrative Exhibits.

(a) The first part of your application will be comprised of narrative exhibits. Your narratives will respond to each rating factor in the NOFA and will also respond to threshold requirements. Among other things, your narratives must describe your overall planning activities, including but not limited to relocation, community, and supportive services, and development issues.

(b) Each HOPE VI Revitalization application must contain no more than 100 pages of narrative exhibits. Any pages after the first 100 pages of narrative exhibits will not be reviewed. Although submitting pages in excess of the page limitations will not disqualify an application, HUD will not consider the information on any excess pages, which may result in a lower score or failure of a threshold. Text submitted at the request of HUD to correct a technical deficiency will not be counted in the 100-page limit.

(2) Attachments.

(a) The second part of your application will be comprised of Attachments. These documents will also respond to the rating factors in the NOFA, as well as threshold and mandatory documentation requirements. They will include documents such as maps, photographs, letters of commitment, application data forms, various certifications unique to HOPE VI Revitalization, and other certifications.

(b) Each HOPE VI Revitalization application must contain no more than 125 pages of attachments. Any pages after the first 125 pages of attachments will not be considered. Although submitting pages in excess of the page limit will not disqualify an application, HUD will not consider the information on any excess pages, which may result in a lower score or failure to meet a threshold.

(3) Exceptions to page limits. The documents listed below constitute the only exceptions and are not counted in the page limits listed in Sections (1) and (2) above:

(a) Additional pages submitted at the request of HUD in response to a technical deficiency.

(b) Attachments that provide documentation of commitments from resource providers or CSS providers.

(c) Attachments that provide documentation of site control and site acquisition in accordance with Section IV.B.4. of this NOFA.

(d) Narratives and Attachments, as relevant, required to be submitted only by existing HOPE VI Revitalization grantees in accordance with Sections V.A.1.of this NOFA (Capacity).

(e) Information required of MTW applicants only.

e. Electronic Format. (1) Exhibits. Exhibits are as listed in Section IV.B.2.a. of this NOFA. Each Exhibit should be contained in a separate file and section of the application. Each file should contain one title page.

(a) Exhibit Title Pages. HUD will use title pages as tabs when it downloads and prints the application. Provided the information on the title page is limited to the list in Section (b) below, the title pages will not be counted when HUD determines the length of each Exhibit, or the overall length of the Exhibits.

(i) Each title page should only contain:

(A) The name of the Exhibit, as described in Section IV.B.2.a. of this NOFA, e.g., “Narrative Exhibit A: Summary Information';

(B) The name of the applicant; and

(C) The name of the file that contains the Exhibit.

(b) Exhibit File Names and Types.

(i) All Exhibit files in the application must be contained in one Exhibit ZIP file.

(ii) Each file within the ZIP file must be formatted so it can be read by MS Word 2000 (.DOC).

(iii) Each file name must include the information below, in the order stated:

(A) Short version of applicant's name, e.g., town, city, county/parish, etc., and state; and

(B) The word “Exhibit” and the Exhibit letter (A through I), as listed in Section IV.B.2.a. of this NOFA;

(C) An example of an Exhibit file name is, “Atlanta GA Exhibit A.”

(2) Attachments. Attachments are as listed in Section IV.B.2.b. of this NOFA. Each Attachment should be contained in a separate file and section of the application. Each Attachment that is not a HUD Form should contain one title page.

(a) Attachment Title Pages. HUD will use title pages as tabs if it downloads and prints the application. Provided the information on the title page is limited to the list in Section (b) below, the title pages will not be counted when HUD determines the length of each Attachment, or the overall length of the Attachments. HUD forms do not require title pages.

(i) Each title page should only contain:

(A) The name of the Attachment, as described in Section IV.B.2.b. of this NOFA, e.g., “Attachment 10: Extraordinary Site Costs Certification';

(B) The name of the applicant; and

(C) The name of the file that contains the Attachment.

(b) Attachment File Names and Types.

(i) All Attachments that are not listed separately on grants.gov and are formatted as PureEdge forms, e.g., SF-424, must be contained in one Attachment ZIP file.

(ii) Each file within the ZIP file must be formatted so it can be read by MS Excel (.XLS) or Adobe Acrobat (.PDF).

(A) Attachments that are downloaded from grants.gov in MS Excel format may be submitted in Excel format.

(B) Attachments that are downloaded from grants.gov in text format, e.g., certifications, should be submitted in Adobe Acrobat (PDF) format.

(C) Third-party documents, e.g., leverage commitment letters, pictures, etc., should be submitted in Adobe Acrobat (PDF) format.

(iii) Each file name must include the information below, in the order stated:

(A) Short version of applicant's name, e.g., town, city, county/parish, etc., and state; and

(B) The word “Attachment” and the Attachment number (1 through 41), as listed in Section IV.B.2.b. of this NOFA;

(C) An example of an Exhibit file name is, “Atlanta GA Attachment 1”.

(3) Maximum Length of Application.

(i) Page Definition and Format.

(A) For Exhibits, a “page” contains a maximum of 23 double-spaced lines. The length of each line must be a maximum of 6½ inches. This is the equivalent of formatting to be printed on 8½″ x 11″ paper, with one inch top, bottom, left and right margins. The font must be 12-point Times New Roman. Each page must be numbered.

(B) For Attachments, an applicant formatted text page is defined as in (A) above. Third-party documents converted into PDF format must not be shrunk to fit more than one original page on each application page. Pages of HUD Forms and certification formats furnished by HUD are as numbered by HUD.

(C) The maximum total length of the Exhibits and of the Attachments is as stated in Section IV.B.1.d. above.

d. See Section IV.F. of the General Section for instructions on how to electronically submit third-party and large documents (i.e., documents 8½ by 14-inch, etc.).

2. Application Content

The following is a list of narrative exhibits and attachments that are required as part of the application. Non-submission of these items may lower your rating score or make you ineligible for award under this NOFA. Review the threshold requirements in Section III.C. of this NOFA and mandatory documentation requirements in Section IV.B. of this NOFA to ascertain the affects of non-submission. HUD forms required by this NOFA can be obtained on the Internet at Grants.gov. Applicants that are granted a waiver to the electronic submission requirement must include the narrative exhibits and attachments in the application in the order listed below.

a. Narrative Exhibits

(1) Acknowledgment of Application Receipt, form HUD-2993 (applies only if you are granted a waiver to the electronic submission requirement)

(2) Application for Federal Assistance, Standard Form SF-424

(3) HOPE VI Revitalization Application Table of Contents

(4) Narrative Exhibit A: Summary Information

(5) Narrative Exhibit B: Capacity

(6) Narrative Exhibit C: Need

(7) Narrative Exhibit D: Resident and Community Involvement

(8) Narrative Exhibit E: Community and Supportive Services

(9) Narrative Exhibit F: Relocation

(10) Narrative Exhibit G: Fair Housing and Equal Opportunity

(11) Narrative Exhibit H: Well-Functioning Communities

(12) Narrative Exhibit I: Soundness of Approach

b. Attachments

(1) Attachments 1 through 7: HOPE VI Application Data Form, form HUD-52860-A

(2) Attachment 8: HOPE VI Budget, form HUD-52825-A

(3) Attachment 9: TDC-Grant Limitations Worksheet, form HUD-52799

(4) Attachment 10: Extraordinary Site Costs Certification

(5) Attachment 11: Cost Control Standards Certification

(6) Attachment 12: City Map

(7) Attachment 13: Developer Certification

(8) Attachment 14: Property Management Policy Certification Documentation

(9) Attachment 15: Program Schedule

(10) Attachment 16: Certification of Severe Physical Distress

(11) Attachment 17: Photographs of the Severely Distressed Housing

(12) Attachment 18: Neighborhood Conditions

(13) Attachments 19 through 22: HOPE VI Revitalization Leverage Resources, form HUD-52797

(14) Attachment 23: HOPE VI Revitalization Resident Training & Public Meeting Certification, form HUD-52785

(15) Attachment 24: Commitments with CSS Providers

(16) Attachment 25: Relocation Plan Certification Documentation

(17) Attachment 26: Completed Relocation Certification Documentation

(18) Attachment 27: Documentation of Site Control for Off-Site Public Housing

(19) Attachment 28: Documentation of Environmental, & Neighborhood Standards

(20) Attachment 29: Preliminary Market Assessment Letter

(21) Attachment 30: Zoning Approval Certification or Documentation

(22) Attachment 31: HOPE VI Revitalization Project Readiness Certification, form HUD-52787

(23) Attachment 32: Current Site Plan

(24) Attachment 33: Photographs of Architecture in the Surrounding Community

(25) Attachment 34: Conceptual Site Plan

(26) Attachment 35: Conceptual Building Elevations

(27) Attachment 36: Evaluation Commitment Letter(s)

(28) Attachment 37: Portions of the PHA Plan

(29) Attachment 38: Logic Model, form HUD-96010

(30) Attachment 39: America's Affordable Communities Initiative, form HUD-27300

(31) Attachment 40: HOPE VI Revitalization Application Certifications

(32) Attachment 41: Standard Forms and Certifications

(a) Disclosure of Lobbying Activities, Standard Form LLL, as applicable

(b) Applicant/Recipient Disclosure/Update Report, form HUD-2880,

(c) Funding Application, Section 8 Tenant-Based Assistance Rental Certificate Program, Rental Voucher Program, form HUD-52515, if applicable.

3. Match Documentation

If the commitment document for any match funds/in-kind services is not included in the application and provided before the NOFA submission date, the related match will not be considered. Depending upon the specific Memorandum of Understanding (MOU), the MOU alone may not firmly and irrevocably commit Match funds, e.g., the MOU states that a donation agreement may be discussed in the future. If the MOU does firmly and irrevocably commit funds, the MOU language that does so should be highlighted or mentioned in the application. To ensure inclusion of Match funds, MOUs should be accompanied by commitment letters or contracts. This is not a technical deficiency and cannot be corrected during the deficiency period. If the match is not met, the application will not be considered for funding.

4. Threshold Documentation

a. Appropriateness of Proposal. In accordance with Section 24(e)(1) of the 1937 Act, each application must demonstrate the appropriateness of the proposal in the context of the local housing market relative to other alternatives. You must briefly discuss other possible alternatives to your proposal and explain why your plan is more appropriate. This is a statutory requirement and an application threshold. Any deficiencies in your narrative may not be corrected after the application is submitted. For examples of alternative proposals, see the Appropriateness of Proposal Threshold in Section III.C.

b. Contiguous, Single, and Scattered-Site Projects. If you include more than one project in your application, you must provide a map that clearly indicates that the projects are within a quarter-mile of each other. See Section III.C.1.c of this NOFA for more information.

c. Non-Public Housing Funding for Non-Public Housing or Replacement Units. Public Housing funds must only be used to develop Replacement Housing Units. You must demonstrate that you have sufficient non-Public Housing Leverage funds to develop all housing units that do not qualify as Replacement Housing. See Section I.C.3. of this NOFA for the definition of Replacement Housing.

d. Program Schedule. Your application must contain a program schedule that provides a feasible plan to meet the schedule requirements of Section VI.B. of this NOFA, with no impediments such as litigation that would prevent timely startup. The program schedule must indicate the date when the development proposal, i.e., whether public housing development, mixed-finance development, homeownership development, etc., for each phase of the revitalization plan will be submitted to HUD. For application evaluation only, you should assume the following award and post-award dates.

Milestone | Date
Grant Award | April 1, 2006.
Grant Agreement Execution | July 1, 2006.
HUD's written request for Supplemental Submissions | August 1, 2006.
HUD's approval of Supplemental Submissions | September 1, 2006.

If grant award takes place after April 1, 2006, the grantee's program schedule may be changed in the supplemental submissions to account for the period of time between April 1, 2006, and the actual date of grant award.

e. Site Control. If you propose to develop off-site housing in any phase of your proposed revitalization plan, you MUST provide evidence in your application that you (not your developer) have site control of the property(ies). Evidence may include an option to purchase the property, a sales agreement, a land swap, or a deed. Evidence may not include a letter from the Mayor or other official, letters of support from members of the appropriate municipal entities, or a resolution evidencing the PHA's intent to exercise its power of eminent domain. Evidence of site control may only be made contingent upon the receipt of the HOPE VI grant, satisfactory compliance with the environmental review requirements in accordance with this NOFA, and the site and neighborhood standards in Section III.C.4.n.(1) of this NOFA.

f. Zoning Approval. (a) If you are proposing to use off-site parcels of land for housing development or other uses that, until this point in time, have been zoned for a purpose different than the one proposed in your revitalization plan, your application must include:

(i) A certification from the appropriate local official documenting that all required zoning approvals have been secured for such parcels; or,

(ii) The actual zoning approval document for the parcel(s).

(b) If you are proposing to use off-site parcels of land for housing development or other uses and those parcels are already zoned for your chosen use, your application must include a certification signed by the Executive Director stating that all zoning is correct.

(c) For example, if you propose to develop housing on land that is currently zoned as parkland, you must provide evidence in the application that the zoning change has been secured to permit housing development. If you propose to keep the land as parkland, you must provide a certification in the application that the zoning is for parkland.

5. Certification Thresholds Documentation

Omission of, or incorrect/improper signature on, any of the following documents is considered a technical deficiency and must be cured (corrected) within the cure period stated in Section V.B. of the General Section. Applications that remain deficient after the cure period will not be considered for funding.

a. Market-Rate Housing: Market Assessment Letter

(1) If you include market-rate housing, community facilities (if market-driven, a community facility that is primarily intended to facilitate the delivery of community and supportive services for residents of the targeted severely distressed public housing project and of off-site replacement housing does not need to be addressed in the market assessment letter, e.g., a YMCA), economic development and retail structures in your Revitalization plan, you must demonstrate that there is a demand for these market-rate housing units, community facilities, economic development and retail structures of the type, number, and size proposed in the location you have chosen.

(2) In your application you must provide a preliminary market assessment letter prepared by an independent, third party, credentialed market research firm, or professional that describes its assessment of the demand and associated pricing structure for the proposed residential units and any community facilities, economic development, and retail structures, based on the market and economic conditions of the project area.

(3) If, after the cure period, this letter is not included in your application, the application will not be considered for funding.

b. HOPE VI Revitalization Applicant Certifications

The Chairman of your Board of Commissioners must certify to the requirements listed in the HOPE VI Revitalization Applicant Certifications. A suggested format for this certification is provided on the Internet at http://www.hud.gov/offices/adm/grants/fundsavail.cfm.

c. Operation and Management Principles and Policies Certification

You must certify that you will implement the Operation and Management Principles and Policies stated in Section III.C. of this NOFA. The certification should reference 24 CFR part 966 and should outline the requirements in Section III.C.4.i. If, after the deficiency cure period, this certification is not properly included in your application, the application will not be considered for funding.

d. Relocation Plan Certification

You must certify that the HOPE VI Relocation plan has been completed and that it conforms to the URA requirements, and that it implements the goals stated in V.A.6. of this NOFA.

(a) You must certify that the HOPE VI Relocation Plan has been completed and:

(i) That it conforms to the Uniform Relocation Assistance and Real Property Acquisition Policies Act of 1970 (URA) requirements as described in Sections III.C.4. of this NOFA; and

(ii) That it implements HOPE VI relocation goals, as described in Section V.A.6. of this NOFA.

(b) If relocation was completed (i.e., the targeted public housing site is vacant) as of the application submission date, rather than certifying that the HOPE VI Relocation Plan has been completed, you must certify that the relocation was completed in accordance with URA requirements.

(c) If, after the deficiency cure period, this certification is not properly included in your application, the application will not be considered for funding.

e. Resident Involvement in the Revitalization Program Certification

You must submit a signed certification that resident training sessions and public meetings were held and that you involved affected public housing residents at the beginning and during the planning process for the revitalization program, prior to submission of an application. The certification must state that listed topics, as described in Section III.C.4. of this NOFA, were covered, that one of the meetings took place at the beginning of the revitalization planning process, and that two of the meetings and one training session took place after the publication date of this NOFA in the Federal Register. The certification must include the dates of the training session and meetings. The certification must show that each of the public meetings and resident training took place on different days. If, after the deficiency cure period, this certification is not properly included in your application, the application will not be considered for funding.

f. Severely Distressed Certification

You must certify that the target project is severely distressed. See Section I.C. of this NOFA for the definition of “severely distressed.” In order to certify to severe physical distress, your application must include a certification that is signed by an engineer or architect licensed by a state licensing board. The license does not need to have been issued in the same state as the severely distressed project. The engineer or architect must include his or her license number and state of registration on the certification. The engineer or architect may not be an employee of the housing authority or the city. A format for a Certification of Severe Physical Distress is provided on the Internet at http://www.grants.gov.

g. Selection of Developer

In order to be eligible for funding, you must provide a signed certification that:

(1) You have initiated an RFQ by the required application submission date for the competitive procurement of a developer for your first phase of construction. It is not necessary to have executed a Master Development Agreement with the selected developer in order to meet the threshold; or,

(2) You will act as your own developer for the proposed project.

h. Cost Control Standards Certification

You must include a certification by an independent cost estimator, architect, engineer, contractor, or other qualified third party professional that your cost estimates meet the standards of Section IV.E. of this NOFA. The certifier cannot work for you.

i. Standard Forms and Certifications

(1) The last part of your application will be comprised of standard certifications common to many HUD programs. Required forms are included in the HOPE VI Application and will be available electronically on the grants.gov website.

(2) For applicants who are granted a waiver to the electronic application process, these forms must be placed at the back of the application, except for the Application for Federal Assistance (SF-424) and the Acknowledgment of Application Receipt (HUD-2993). These two forms must be the first two pages of your application.

j. TDC and Extraordinary Site Costs Certification

(1) An Extraordinary Site Costs Certification must be included in your application if such costs are included in the calculations you used to determine your requested award amount. If this certification is not included in the application on or before the end of the deficient application cure period, extraordinary site costs will not be allowed in the award amount.

(2) The certification must be signed by a licensed engineer or architect who is not an employee of the housing authority or the city. The certification must include an engineer's or architect's license number and state of registration.

6. Rating Factor Documentation

To receive points for certain rating factors, you must include specific documentation that is stated in this NOFA. When specific documentation is necessary, that documentation is stated in this section of the NOFA or is cross-referenced here and is included with the related rating factors in Section V.A. of this NOFA.

a. Documentation for Capacity. See Section V.A.1. of this NOFA for documentation requirements. Include information on capacity in Exhibits B and E. HUD will obtain information on Capital Fund Program availability internally. However, you must include information from your PHA Plan on Capital Fund Program funds that are planned for other uses. HUD will also obtain information on your scores for the Public Housing Assessment System (PHAS) and Section 8 Management Assessment Program (SEMAP) internally.

b. Documentation for Need.

(1) State the number of units that you currently have under ACC.

(2) See Sections V.A.2. and IV.B.7.c. of this NOFA for the subjects and items that you should include in your Rating Factor narrative.

(3) In order to document that you need HOPE VI funding to complete your proposed revitalization effort, you must include in your application:

(a) The portion of your PHA plan that lists each year's planned uses of your FY 2000-2005 Capital Funds (including CGP and CIAP funds). Funds earmarked in the PHA plan for uses other than the revitalization proposed in this application will not be considered available; and

(b) A table that states:

(i) The amount of your total FY 2000-2005 Capital Funds;

(ii) The amount of your total unobligated FY 2000-2005 Capital Funds; and

(iii) The planned amounts and uses of unobligated funds earmarked in your PHA plan for purposes other than your application's proposed HOPE VI activities.

(4) Applicants must ensure that their obligation and expenditure information was updated in LOCCS prior to the application deadline, except in the case of some moving to work applicants, which are not required to enter obligations into LOCCS in accordance with their MTW agreements.

(5) For MTW PHAs that do not record capital funds obligations in LOCCS, you must provide a certification of your obligation rate in order to receive any points for the Need for HOPE VI Funding rating factor.

c. Documentation for Leverage Resources. In your application, you will enter basic information about each resource on the appropriate resource summary form: name of the organization providing the resource, the dollar value of the resource, and its proposed use.

(1) Basic Documentation Requirements.

(a) For each resource you list, you must provide a commitment document that demonstrates firm and irrevocable commitments, such as a letter, memorandum of understanding (See (i) below.), agreement to participate, city council resolution, or other evidence of the resource to be committed, which may be subject to the receipt of a HOPE VI Revitalization grant. If the commitment document is not included in the application and provided before the NOFA submission date, the related leverage will not be considered. An official of the organization legally authorized to make commitments on behalf of the organization must sign the commitment document.

(i) Memoranda of Understanding (MOUs). Depending upon the specific MOU, the MOU alone may not firmly and irrevocably commit Leverage funds, e.g., the MOU states that a donation agreement may be discussed in the future. If the MOU does firmly and irrevocably commit funds, the MOU language that does so should be highlighted or mentioned in the application. To ensure inclusion of Leverage funds, MOUs may be accompanied by commitment letters or contracts. This is not a technical deficiency and cannot be corrected during the deficiency period. See Section VI.B.5.a. of this NOFA.

(b) Each commitment document must include the dollar value and time duration of the commitment (e.g., $10,000 will be provided each year for four years for a total commitment of $40,000). The dollar value must be consistent with the amount entered on the resource summary form. For electronic application submission, you will also need to identify, in the documentation Attachment section of the application, whether the document was submitted to HUD:

(i) As a scanned PDF document submitted through grants.gov (preferred); or

(ii) as an electronic facsimile. See Section IV.F. of this NOFA.

(c) Endorsements or general letters of support from organizations or vendors alone will not count as resources and should not be included in the application or on a Resources Summary Form.

(d) For CSS leverage resources, include only funds/in-kind services that will be newly generated for HOPE VI activities. If an existing service provider significantly increases the level of services provided at the site, the increased amount of funds may be counted, except for TANF cash benefits. HUD will not count any funds that have already been provided on a routine basis, such as TANF cash benefits and in-kind services that have been supporting ongoing CSS-type activities.

(e) Even though an in-kind CSS contribution may count as a resource, it may not be appropriate to include on the sources and uses attachment. Each source on the sources and uses attachment must be matched by a specific and appropriate use. For example, donations of staff time may not be used to offset costs for infrastructure.

(2) LIHTC Documentation. If you propose to include LIHTC equity as a development resource for any phase of development, your application must include a LIHTC reservation letter from your state or local housing finance agency in order to have the tax credit amounts counted as development leveraging. This letter must constitute a firm commitment and can only be conditioned on the receipt of the HOPE VI grant. HUD acknowledges that, depending on the housing finance agency, documentation for four percent tax credits may be represented in the form of a tax-exempt bond award letter. Accordingly, it will be accepted for leverage scoring purposes under Section V.A.3. of this NOFA, if you demonstrate that this is the only available evidence of four percent tax credits, and assuming that this documentation clearly indicates that tax-exempt bonds have been committed to the project.

(3) Private mortgage-secured loans and other debt.

(a) Your application must include each loan's expected term maturity and sources of repayment.

d. Documentation for Resident Involvement. See Sections IV.B.5.e. and V.A.4. of this NOFA for documentation requirements.

e. Documentation for CSS. Include CSS capacity information in Exhibit B, CSS Leverage in the Attachments and CSS program information in Exhibit E. See Sections III.C.4.l. and m. for program requirements and V.A.5. for CSS program Rating Factors. Note the importance of Housing Self-Sufficiency.

f. Documentation for Relocation. There is a program requirement that you must complete a HOPE VI Relocation plan. The Relocation Plan should be in accordance with HUD Community Planning and Development's CPD Notice 04-02, which is an extension of Notice 02-08.

(1) In your application, you must certify that the HOPE VI Relocation plan has been completed and that it:

(a) Conforms to the URA requirements as described in Section III.C.4.;

(b) Is designed to minimize permanent displacement of current residents of the public housing site who wish to remain in or return to the revitalized community, while furnishing alternative housing to current residents of the public housing site who do not wish to remain in or return to the revitalized community;

(c) Gives existing residents priority for occupancy in planned public housing units, or for residents that can afford to live in other units, priority for those planned units and

(d) In connection with your CSS program, provides for community and supportive services to residents prior to any relocation.

(2) If relocation was completed as of the application submission date (i.e., the targeted public housing site is vacant), rather than providing a certification that the HOPE VI Relocation plan has been completed, a certification that the relocation was completed must be included in the application. This certification may be provided in the form of a letter.

g. Documentation for Fair Housing and Equal Opportunity. See Sections III.C.4., and V.A.7. for documentation requirements.

h. Documentation for Well-Functioning Community. See Sections III.C.4., and V.A.8. of this NOFA for documentation requirements. Include a summary of unit data that relates to need for affordable housing. Include information relating the Rating Factors to your Physical Plan, as described in Exhibit A.

i. Documentation for Soundness of Approach. See Section and V.A.9. of this NOFA for documentation requirements.

j. Documentation for Incentive Criteria on Regulatory Barrier Removal. You must include the completed form HUD-27300 in your application. You must answer the questions in either Part A or Part B of the form, but not both.

6. Housing Choice Voucher (HCV) Assistance

(1) This NOFA will fund HCVs that are necessary to relocate HOPE VI affected public housing residents. In accordance with HUD Notice PIH 2004-4 (HA), Submission and Processing of Public Housing Agency (PHA) Applications for Housing Choice Vouchers for Relocation or Replacement Housing Related to Demolition or Disposition (Including HOPE VI), and Plans for Removal (Required/Voluntary Conversion Under Section 33 of the 1937 Act, As Amended, and Mandatory Conversion Under Section 202 of the Omnibus Consolidated Rescissions and Appropriations Act of 1996) of Public Housing Units, you should determine the number of vouchers that it is eligible for, that are related to this HOPE VI Revitalization development.

(2) You should submit the HCV application, in accordance with HUD Notice PIH 2004-4 (HA), for these HOPE VI related vouchers, as a part of the application.

(a) If you are funded by this NOFA, the HCV application will be processed.

(b) If you are not funded by this NOFA, the HCV application will not be processed.

(3) For applicants who are granted a waiver to the electronic application process, the HCV request should be located with the Standard Forms and Certifications at the back of the application.

(4) The notice can be obtained through the Internet at http://www.hudclips.org/cgi/index.cgi.

(5) To assist HUD in estimating the overall cost of HCV assistance, you should include a copy of the Funding Application, Section 8 Tenant-Based Assistance Rental Certificate Program, Rental Voucher Program, form HUD-52515, in your NOFA application.

7. Further Documentation Guidance on Narrative Exhibits and Specific Attachments

a. Exhibit A. Verify that you have included information relating to the following:

(1) Executive Summary. Provide an Executive Summary, not to exceed three pages. Describe your Revitalization Plan, as clearly and thoroughly as possible. Do not argue for the need for the HOPE VI grant, but explain what you would do if you received a grant. Briefly describe why the targeted project is severely distressed, provide the number of units, and indicate how many of the units are occupied. Describe specific plans for the revitalization of the site. Include income mix, basic features (such as restoration of streets), and any mixed use or non-housing components. If you are proposing off site replacement housing, provide the number and type of units and describe the off site locations. Describe any homeownership components included in your Plan, including numbers of units. Briefly summarize your plans for community and supportive services. State the amount of HOPE VI funds you are requesting, and list the other major funding sources you will use for your mixed-finance development. Identify whether you have procured a developer or whether you will act as your own developer.

(2) Physical Plan. Describe your planned physical revitalization activities:

(a) Rehabilitation of severely distressed public housing units;

(b) Development of public housing replacement rental housing, both on-site and off-site;

(c) Indicate whether you plan to use PATH technologies and Energy Star in the construction of replacement housing;

(d) Market rate housing units;

(e) Units to be financed with low-income housing tax credits;

(f) Replacement homeownership assistance for displaced public housing residents or other public housing-eligible low-income families. Also describe any market-rate homeownership units planned, sources and uses of funds. Describe the relationship between the HOPE VI activities and costs and the development of homeownership units, both public housing and market rate. If you are selected for funding, you will be required to submit a Homeownership Proposal (homeownership term sheet);

(g) Rehabilitation or new construction of community facilities primarily intended to facilitate the delivery of community and supportive services for residents of the targeted development and residents of off-site replacement housing. Describe the type and amount of such space and how the facilities will be used in CSS program delivery or other activities;

(h) Land acquisition, and infrastructure and site improvements. Note that HOPE VI grant funds may not be used to pay hard development costs or to buy equipment for retail or commercial facilities;

(3) Hazard Reduction. For units to be rehabilitated or demolished, describe the extent of any required abatement of environmentally hazardous materials such as asbestos.

(4) Demolition. Describe your plans for demolition, including the buildings (dwelling and non-dwelling units) proposed to be demolished, the purpose of the demolition, and the use of the site after demolition. If the proposed demolition was previously approved as a Section 18 demolition application, state the date the Section 18 demolition application was submitted to HUD and the date it was approved by HUD. Indicate whether you plan to implement the concept of Deconstruction.

(5) Disposition. Describe the extent of any planned disposition of any portion of the site. Cite the number of units or acreage to be disposed, the method of disposition (sale, lease, trade), and the status of any disposition application made to HUD.

(6) Site Improvements. Describe any proposed on-site improvements, including infrastructure requirements, changes in streets, etc. Describe all public improvements needed to ensure the viability of the proposed project with a narrative description of the sources of funds available to carry out such improvements.

(7) Site Conditions. Describe the conditions of the site to be used for replacement housing. Listing all potential contamination or danger sources (e.g. smells, fire heat, explosion and noise) that might be hazardous or cause discomfort to residents, PHA personnel, or construction workers. List potential danger sources, including commercial and industrial facilities, brownfields and other sites with potentially contaminated soil, commercial airports and military airfields. Note any facilities and/or activities within one mile of the proposed site.

(8) Separability. If applicable, address the separability of the revitalized building(s) within the targeted project.

(9) Proximity. If applicable, describe how two contiguous projects or scattered sites meet the NOFA requirements.

b. Exhibit B. Verify that you have included information relating to the following:

(1) PHAS, Maintenance, and SEMAP.

(2) Development Capacity of Developer.

(3) Development Capacity of Applicant.

(4) Capacity of Existing HOPE VI Revitalization Grantees. This rating factor applies only to PHAs with existing HOPE VI Revitalization grants from fiscal years 1993-2002. Production achievement numbers will be taken from the HOPE VI Quarterly Progress Reports for the quarter ending December 31, 2004.

(5) CSS Program Capacity.

(6) Property Management Capacity.

(7) PHA Plan.

c. Exhibit C. Verify that you have included information relating to the following:

(1) Need for Revitalization: Severe Physical Distress of the Public Housing Site.

(2) Need for Revitalization: Impact of the Severely Distressed Site on the Surrounding Neighborhood.

(3) Need for HOPE VI Funding (Obligation of Capital Funds). If you are a Moving to Work participant and are not required to enter obligations into LOCCS, provide a certification of your obligation rate of your FY 2000-2005 Capital Funds. If you are not a participant in MTW, you must provide information on your Capital Funds. The portion of the PHA Plan that lists the planned uses of your FY 2000-2005 Capital Funds should included in the application.

(4) Previously-Funded Sites.

(5) Need for Affordable, Accessible Housing in the Community.

d. Exhibit D. Verify that you have included information relating to the following:

(1) Resident and Community Involvement. Discuss your communications about your development plan and HUD communications with residents, community members, and other interested parties. Include the resident training attachment.

e. Exhibit E. Verify that you have included information relating to the following: Endowment Trust. If you plan to place CSS funds in an Endowment Trust, state the dollar amount and percentage of the entire grant that you plan to place in the Trust.

(1) Case Management and Needs Identification;

(2) Transition to Housing Self-Sufficiency and Housing Self-Sufficiency Time Frame;

(3) Partner Commitments;

(4) Quality and Results Orientation.

f. Exhibit F. Verify that you have included information relating to the following:

(1) Housing Choice Voucher Needs. State the number of Housing Choice Vouchers that will be required for relocation if this HOPE VI application is approved, both in total and the number needed for FY 2005. Indicate the number of units and the bedroom breakout. As applicable, include a Housing Choice Voucher application to the application.

(2) Relocation Plan. For additional guidance on developing a relocation plan, refer to CPD Notice 04-02 (“Guidance on the Application of the Uniform Relocation Assistance and Real Property Acquisition Policies Act of 1970 (URA), as amended, in HOPE VI Projects”).

g. Exhibit G. Verify that you have included information relating to the following:

(1) Accessibility;

(2) Universal Design;

(3) Fair Housing; and

(4) Section 3.

h. Exhibit H. Verify that you have included information relating to the following:

(1) Unit Mix and Need for Affordable Housing;

(2) Off-Site Housing; and

(3) Homeownership Housing.

i. Exhibit I. Verify that you have included information relating to the following:

(1) Appropriateness of Proposal;

(2) Appropriateness and Feasibility of the Plan;

(3) Neighborhood Impact and Sustainability of the Plan;

(4) Design;

(5) Energy Star; and

(6) Evaluation.

j. Attachments 1 through 7. (1) These attachments are required in all applications. See the instructions for filling out the HOPE VI Application Data Forms, Appendix 1, at the end of this NOFA.

k. Attachment 8 (1) This attachment is required in all applications. In addition to the instructions included in the HOPE VI Budget form, general guidance on preparing a HOPE VI budget can be found on the Grant Administration page of the HOPE VI web site, http://www.hud.gov/offices/pih/programs/ph/hope6.

l. Attachment 9.

(1) Form HUD-52799, “TDC/Grant Limitations Worksheet”. This attachment is required in all applications. The Excel workbook will assist you in determining your TDC limits required in Section IV.B.5.j.

m. Attachment 10. (1) Extraordinary Site Costs Certification. This attachment is applicable only if you request funds to pay for extraordinary site costs, outside the TDC limits.

n. Attachment 11. (1) Cost Certification. This attachment is required in all applications.

o. Attachment 12. (1) City Map. This attachment is required in all applications. Provide a to-scale city map that clearly identifies the following in the context of existing city streets, the central business district, other key city sites, and census tracts:

(a) The existing development;

(b) Replacement neighborhoods, if available;

(c) Off-site properties to be acquired, if any;

(d) The location of the Federally-designated Empowerment Zone or Enterprise Community (if applicable); and

(e) Other useful information to place the project in the context of the city, county, or municipality and other revitalization activity underway or planned.

(2) If you request funds for more than one project or for scattered site housing, the map must clearly show that the application meets the NOFA's site and unit requirements. If you have received a waiver to the electronic submission requirement, this map may be submitted on 8½″ by 14″ paper.

p. Attachment 13. (1) This attachment is required in all applications. The Developer Certification may be in the form of a letter.

q. Attachment 14. (1) This attachment is required in all applications. The Property Management Certification may be in the form of a letter.

r. Attachment 15. (1) Program Schedule. This attachment is required in all applications. Your program schedule MUST contain all timeframe requirements listed in the NOFA. Further, the program schedule MUST indicate the date on which the development proposal for EACH phase of the revitalization plan will be submitted to HUD.

s. Attachment 16. (1) Certification of Severe Physical Distress. This attachment is required in all applications. In accordance with the NOFA, an engineer or architect must complete this certification. No backup documentation is required for this certification.

t. Attachment 17. (1) Photographs of the Severely Distressed Housing. This attachment is required in all applications. Submit photographs of the targeted severely distressed public housing that illustrate the extent of physical distress.

u. Attachment 18. (1) Neighborhood Conditions. This attachment is required in all applications. Documentation may include crime statistics, photographs or renderings, socio-economic data, trends in property values, evidence of property deterioration and abandonment, evidence of underutilization of surrounding properties, and other indications of neighborhood distress and/or disinvestment.

v. Attachments 19 through 22. (1) These attachments are included in form HUD 52797, “HOPE VI Revitalization Leverage Resources” and are required in all applications.

(2) Physical Development Resources. For each resource entered, you must submit backup documentation in Attachment 19.

(3) CSS Resources. For each resource entered, submit backup documentation in Attachment 20.

(4) Anticipatory Resources. For each resource entered, submit backup documentation in Attachment 21.

(5) Collateral Resources. For each resource entered, submit backup documentation in Attachment 22.

w. Attachment 23. (1) Form HUD-52785, “Resident Training and Public Meeting Certification.” This attachment is required in all applications. This form is available from Grants.gov.

x. Attachment 24. (1) Commitments with CSS Providers. This attachment is required in all applications. Provide letters from CSS providers that have made commitments to participate in your CSS activities if you are awarded a HOPE VI Revitalization grant under the NOFA.

y. Attachment 25. (1) HOPE VI Revitalization Relocation Plan Certification. Submit a certification that you have completed a HOPE VI Relocation Plan in conformance with the URA. This certification may be in the form of a letter. Refer to CPD Notice 04-02 for additional guidance, including a template.

z. Attachment 26. (1) Completed Relocation Certification. If you have completed your relocation on or before the application submission date, include this attachment. This certification may be in the form of a letter.

aa. Attachment 27. (1) Documentation of Site Control for Off-Site Public Housing. This is applicable if your plan includes off-site housing or other development. Provide evidence of site control for off-site rental replacement units and acquired, or to be acquired, land.

bb. Attachment 28. (1) Documentation of Environmental, and Site & Neighborhood Standards. This is applicable if your plan includes off-site housing or other off-site development. Provide a certification that the site(s) acquired for off-site public housing meet environmental and site and neighborhood standards, as provided in the NOFA. This certification may be in the form of a letter.

cc. Attachment 29. (1) Preliminary Market Assessment Letter. This is applicable if you include market rate housing in your application.

dd. Attachment 30. (1) Certification of Zoning Approval or Documentation. This is applicable if your application includes off-site housing or other development. This attachment may be a certification or backup documentation.

ee. Attachment 31. (1) Form HUD-52787, “HOPE VI Revitalization Project Readiness Certification”. This attachment is required in all applications. This form is available from grants.gov and allows you to certify to several thresholds.

ff. Attachment 32. (1) Current Site Plan. This attachment is required in all applications. The Site Plan shows the targeted public housing site's various buildings and identifies which buildings are to be rehabilitated, demolished, or disposed of. Demolished buildings should be shown and labeled as such.

gg. Attachment 33. (1) Photographs of Architecture in the Surrounding Community. This attachment is required in all applications. Provide photographs to demonstrate that your plan conforms to the Design requirements of the NOFA.

hh. Attachment 34. (1) Conceptual Site Plan. This attachment is required in all applications. The Conceptual Site Plan indicates where your plan's proposed construction and rehabilitation activities will take place and any planned acquisition of adjacent property and/or buildings.

ii. Attachment 35. (1) Conceptual Building Elevations. This attachment is required in all applications. Include building elevation drawings for the various types of your proposed housing.

jj. Attachment 36. (1) Evaluation Commitment Letter(s). This attachment is required in all applications. Provide the commitment letter(s) for your CSS program evaluation. The letter should contain enough information for HUD to compare the commitment to the evaluation described in Exhibit I.

kk. Attachment 37. (1) Portions of the PHA or MTW Plan. This attachment is required, and should be included in all applications. The portion of the PHA Plan that you include should support your narrative in Exhibit B and cover planned uses of Capital Fund Program funding and inclusion of the targeted project's revitalization.

ll. Attachment 38. (1) Form HUD-96010, “Logic Model.” This attachment is required in all applications. This form is available from Grants.gov. Fill in the planning information requested, Columns 1-5. Columns 6-9 will be filled out during and at the end of the grant term. (See Section VI.C.2. for post award reporting instructions.)

mm. Attachment 39. (1) Form HUD-27300, “America's Affordable Communities Initiative.” This attachment is required in all applications. This form is available from Grants.gov.

nn. Attachment 40. (1) HOPE VI Revitalization Applicant Certification. This attachment is required in all applications. This form is available from Grants.gov.

(2) Note that these certifications (4 page document) must be signed by the Chairman of the Board of the PHA, NOT the Executive Director.

oo. Attachment 41. (1) Standard Forms and Certifications. These documents include:

(a) Disclosure of Lobbying Activities (SF-LLL), as applicable

(b) Form HUD-2880, “Applicant/Recipient Disclosure/Update Report.” This form is available from Grants.gov.

(c) Form HUD-52515, “Funding Application, Section 8 Tenant-Based Assistance, Rental Certificate Program, Rental Voucher Program.” This form is available from Grants.gov. It is applicable only if you are requesting Housing Choice Vouchers that are related to your proposed plan.

C. Submission Dates and Times

1. Application Submission Timeframes

a. Application Submission Date. Revitalization grant applications are to be submitted to HUD on June 29, 2005 through Grants.gov or, in the case of applicants that have been granted a wavier to the electronic submission requirement, through the United States Postal Service (USPS) or an overnight mail service. See Sections IV.F. of this NOFA and the General Section for application, submission and timely receipt requirements.

2. Electronic Required Submission Date and Form of Acceptance

All applications must be received by Grants.gov by 11:59:59 p.m. Eastern time on June 29, 2005.

Proof of timely submission is automatically recorded by Grants.gov. An electronic time stamp is generated within the system when the application has been successfully received. The applicant will receive an acknowledgement of receipt and a tracking number from Grants.gov with the successful transmission of their application. Applicants should print this receipt and save it, along with facsimile receipts for information provided by facsimile, as proof of timely submission. When HUD successfully retrieves the application from Grants.gov, HUD will provide an electronic acknowledgment of receipt to the e-mail address provided on the SF-424. Proof of Timely submission shall be the date and time that Grants.gov receives your application submittal and the date HUD receives those portions of your application submitted by facsimile. All facsimile transmissions must be received by the application submission date and time.

Applications received by Grants.gov, after the established submission deadline for the program will be considered late and will not be considered for funding by HUD. Similarly, applications will be considered late if information submitted by facsimile as part of the application has not received by HUD by the established submission deadline. Please take into account the transmission time required for submitting your application via the Internet and the time required to electronically fax any related documents. HUD suggests that applicants submit their applications during the operating hours of the Grants.gov Support Desk, so that if there are questions concerning transmission, operators will be available to walk you through the process. Submitting your application during the Support Desk hours will also ensure that you have sufficient time for the application to complete its transmission prior to the application deadline.

Applicants using dial-up connections should be aware that transmission should take some time before Grants.gov receives it. Grants.gov will provide either an error or a successfully received transmission message. The Grants.gov Support desk reports that some applicants abort the transmission because they think that nothing is occurring during the transmission process. Please be patient and give the system time to process the application. Uploading and transmitting many files particularly electronic forms with associated XML schemas will take some time to be processed.

3. Submission Date, Address, Delivery Requirements and Acceptance for Applicants That Have Received Waivers That Allow Submission of a Paper Copy Application

The following applies ONLY if you are granted a waiver to the electronic application submission requirements.

a. Method of Delivery. Applicants granted a wavier to the electronic submission requirement must use the United States Postal Service (USPS) or overnight mail service (which provide written receipt of delivery date) to submit their applications to HUD. Hand-carried and courier delivered applications will not be accepted.

b. Submission Date and Time. Applications must be received by 4 pm on June 29, 2005. Applications will be considered late and ineligible to receive funding if not received on or before the application submission date and time, regardless of the postmark date.

c. Address for Submitting Applications. Send the original and one copy of your completed application to Mr. Milan Ozdinec, Deputy Assistant Secretary for Public Housing Investments, Department of Housing and Urban Development, 451 Seventh Street, SW., Room 4130, Washington, DC 20410-5000. Please make sure that you note the room number. The correct room number is very important in ensuring that your application is properly accepted and not misdirected.

d. Form of Acceptance. HUD will consider an application as being accepted when it is delivered to the Office of Public Housing Investments, Room 4130, HUD Headquarters, 451 Seventh Street, SW., Washington, DC 20410-5000. Upon delivery and acceptance, the Grant Administrator will manually add the application's PHA name, development name, time of receipt, and date of receipt to an application receipt log.

e. Wrong Address. Applications mailed to the wrong location or office designated for receipt of the application, which result in the designated office not receiving the application in accordance with the requirements for timely submission, will result in the application being considered late. Late applications will not receive funding consideration. HUD will not be responsible for directing packages to the appropriate office(s).

f. Field Office Copy. You must send one duplicate copy of your application to your HUD field office. The HUD field office copy of the application is due before 4 p.m. on the application submission date. If the HUD field office receives an application on time, but the application is not received on time at Headquarters, it will not be considered.

g. No Facsimiles or Videos. With the exception of third party documents submitted via electronic facsimile (See Section IV.F. of the General Section), HUD will not accept for review and evaluation, or fund, any applications sent by facsimile (fax). However, facsimile corrections to technical deficiencies will be accepted, as described in Section V.B.4. of the General Section. Also, videos submitted as part of an application will not be viewed.

h. Proof of timely submission. Proof of timely submission for all applications, regardless of whether they are delivered through USPS or overnight mail services shall be the date and time recorded by the Grant Administrator in the application receipt log. See Section IV.C.2. of this NOFA for information on the application receipt log.

i. Acknowledgement of Application Receipt. If you wish to receive acknowledgement of HUD's receipt of the application, the Acknowledgment of Application Receipt, form HUD-2993, should be included in the front of the application. After receipt, HUD will return the form to you.

D. Intergovernmental Review

Executive Order 12372 was issued to foster intergovernmental partnership and strengthen federalism by relying on state and local processes for the coordination and review of federal financial assistance and direct federal development. The order allows each state to designate an entity to perform a state review function. The official listing of state points of contact (SPOC) for this review process can be found at: http://www.whitehouse.gov/omb/grants/spoc.html. States that are not listed on the website have chosen not to participate in the intergovernmental review process, and therefore do not have a SPOC. If you are located within one of those states, you may send applications directly to HUD. If your state has a SPOC, you should contact it to see if it is interested in reviewing your application prior to submission to HUD. Please make sure that you allow ample time for this review process when developing and submitting your application.

E. Funding Restrictions

1. Statutory Time Limits

a. Required Obligation Date. Funds appropriated for the HOPE VI program for FY-2005 must be obligated on or before September 30, 2006. Any funds that are not obligated by that date will be recaptured by the Treasury, and thereafter will not be available for obligation for any purpose.

b. Required Expenditure Date. In accordance with 31 U.S.C. 1552, all FY-2005 HOPE VI funds must be expended by September 30, 2011. Any funds that are not expended by that date will be placed in an expired account, and will be available only for the purposes of liquidating obligations properly chargeable to that account prior to its expiration and of making legitimate obligation adjustments.

2. Funding for Applications to This NOFA Only

HUD will not use any funds from this NOFA to fund any non-selected HOPE VI related applications submitted in previous years. Only applications submitted under this FY-2005 NOFA will be considered for funding.

3. Grant Amount Limitations

a. Requested Amount. See Section II of this NOFA for details.

4. Ineligible Activities

a. You may not use HOPE VI Revitalization Grant funds to pay for any revitalization activities carried out on or before the date of the letter announcing the award of the HOPE VI Grant.

b. Market-Rate Units. HOPE VI funds may not be used to develop market-rate units or affordable housing units that do not qualify as public housing or homeownership replacement units.

c. Retail or Commercial Development. HOPE VI funds may not be used for hard construction costs related to, or for the purchase of equipment for, retail, commercial, or non-public housing office facilities.

5. Total Development Cost (TDC)

a. The “TDC Limit” (24 CFR 941.306, Notice PIH 2004-6 (HA), or extending Notice) refers to the maximum amount of HUD funding that HUD will approve for development of specific public housing units in a given location. The TDC limit applies only to the costs of development of public housing that are paid directly with HUD public housing funds, including HOPE VI funds; a PHA may exceed the TDC limit using non-public housing funds such as CDBG, HOME, low-income housing tax credit equity, etc.

b. The HUD TDC Cost Tables are issued for each calendar year for the building type and bedroom distribution for the public housing replacement units. Use the TDC limits in effect at the time this HOPE VI NOFA is published when making your TDC calculations. TDC definitions and limits in the final rule are summarized as follows:

(1) The total cost of development, which includes relocation costs, is limited to the sum of:

(a) Up to 100 percent of HUD's published TDC limits for the costs of demolition and new construction, multiplied by the number of HOPE VI public housing replacement units; and

(b) Ninety percent of the TDC limits, multiplied by the number of public housing units after substantial rehabilitation and reconfiguration.

(2) The TDC limit for a project is made up of the following components:

(a) Housing Cost Cap (HCC): HUD's published limit on the use of public housing funds for the cost of constructing the public housing units, which includes unit hard costs, builder's overhead and profit, utilities from the street, finish landscaping, and a hard cost contingency. Estimates should take into consideration the Davis-Bacon wage rate and other requirements as described in “Labor Standards”, Section III.C.4.h. of this NOFA.

(b) Community Renewal (CR): The balance of funds remaining within the project's TDC limit after the housing construction costs described in (a) above are subtracted from the TDC limit. This is the amount of public housing funds available to pay for PHA administration, planning, infrastructure and other site improvements, community and economic development facilities, acquisition, relocation, demolition, and remediation of units to be replaced on site, and all other development costs.

(3) CSS. You may request an amount not to exceed 15 percent of the total HOPE VI grant to pay the costs of CSS activities, as described in Section III.C.4.l. of this NOFA. These costs are in addition to, i.e., excluded from, the TDC calculation above.

(4) Demolition and Site Remediation Costs of Unreplaced On-site Units. You may request an amount necessary for demolition and site remediation costs of units that will not be replaced on-site. This cost is in addition to (i.e., excluded from) the TDC calculation above.

(5) Extraordinary Site Costs.

(a) You may request a reasonable amount to pay extraordinary site costs, which are construction costs related to unusual pre-existing site conditions that are incurred, or anticipated to be incurred. If such costs are significantly greater than those typically required for similar construction, are verified by an independent, certified engineer or architect (See Section IV.B. for documentation requirements.), and are approved by HUD, they may be excluded from the TDC calculation above. Extraordinary site costs may be incurred in the remediation and demolition of existing property, as well as in the development of new and rehabilitated units. Examples of such costs include, but are not limited to: Abatement of extraordinary environmental site hazards; removal or replacement of extensive underground utility systems; extensive rock and soil removal and replacement; removal of hazardous underground tanks; work to address unusual site conditions such as slopes, terraces, water catchments, lakes, etc.; and work to address flood plain and other environmental remediation issues. Costs to abate asbestos and lead-based paint from structures are normal demolition costs. Extraordinary measures to remove lead-based paint that has leached into the soil would constitute an extraordinary site cost.

(b) Extraordinary site costs must be justified and verified by a licensed engineer or architect who is not an employee of the housing authority or the city. The engineer or architect must provide his or her license number and state of registration. If this certification is not included in the application after the cure period described in Section IV.B.4. of the General Section, extraordinary site costs will not be allowed in the award amount. In this case, the amount of the extraordinary site costs included in the application will be subtracted from the grant amount.

6. Cost Control Standards

a. Your projected hard development costs must be realistic, developed through the use of technically competent methodologies, including cost estimating services, and comparable to industry standards for the kind of construction to be performed in the proposed geographic area.

b. Your cost estimates must represent an economically viable preliminary plan for designing, planning, and carrying out your proposed activities in accordance with local costs of labor, materials, and services.

c. Your projected soft costs must be reasonable and comparable to industry standards. Upon award, soft costs will be subject to HUD's “Safe Harbor” cost control standards. For rental units, these safe harbors provide specific limitations on such costs as developer's fees (between 9 and 12 percent), PHA administration/consultant cost (no more than 3 to 6 percent of the total project budget), contractor's fee (6 percent), overhead (2 percent), and general conditions (6 percent). HUD's Cost Control and Safe Harbor Standards can be found on HUD's HOPE VI Web site.

d. If you are eligible for funding, HUD will delete any unallowable items from your budget and may reduce your grant accordingly.

7. Withdrawal of Grant Amounts

In accordance with Section 24(i) of the 1937 Act, if a grantee does not proceed within a reasonable timeframe, as described in Section VI.B.2. of this NOFA, HUD shall withdraw any unobligated grant amounts. HUD shall redistribute any withdrawn amounts to one or more other applicants eligible for HOPE VI assistance or to one or more other entities capable of proceeding expeditiously in the same locality in carrying out the Revitalization plan of the original grantee.

F. Other Submission Requirements

This section provides the application submission and receipt instructions for HUD program applications. Please read the following instructions carefully and completely, as failure to comply with these procedures may disqualify your application.

1. Electronic Delivery. HUD requires applicants to submit their applications electronically through http://www.grants.gov. HUD will not accept or consider any applications that have been submitted through any other method, unless a waiver is granted.

2. Electronic Signature. Applications submitted through grants.gov constitute submission as electronically signed applications. The registration and e-authentication process establishes the Authorized Organization Representative. When you submit the application through Grants.gov, the name of your authorized organization representative on file will be inserted into the signature line of the application. Applicants must register the individual who is able to make legally binding commitments for the applicant organization as the Authorized Organization Representative.

3. Instructions. Instructions on how to submit an electronic application to HUD via Grants.gov:

a. Applying using Grants.gov. Grants.gov has a full set of instructions on how to apply for funds on its Web site at http://www.grants.gov/CompleteApplication. The following provides simple guidance on what you will find on the http://www.grants.gov/Apply site. Applicants are encouraged to read through the page entitled, “Complete Application Package” before getting started. Grants.gov allows applicants to download the application package, instructions and forms that are incorporated in the instructions, and work off line. In addition to forms that are part of the application instructions, there will be a series of electronic forms that are provided utilizing a PureEdge reader. The PureEdge Reader is available free for download from the Grants.gov/Get Started site. The PureEdge Reader allows applicants to read the electronic files in a form format so that they will look like any other Standard or HUD form. The PureEdge forms have content sensitive help. To use this feature you will need to click on the icon at the top of the page that features an arrow with a question mark. This engages the content sensitive help for each field you will need to complete on the electronic form. The PureEdge forms can be downloaded and saved on your hard drive, network drive(s), or CDs. Because of the size of the application, HUD recommends downloading the application to your computer hard drive.

The instructions include this NOFA and any required forms that have not been converted into PureEdge forms. The instructions will also include a checklist to ensure that you are provided all the required information for submitting your application. Please review the checklist in the program section to ensure that your application contains all the required materials.

4. Submission of Third Party Letters, Certifications or Narrative Statements. In addition to forms, many of the NOFAs require the submission of other documentation such as third party letters, certifications, or program narrative statements. This section discusses how you should submit this additional information electronically as part of your application:

(1) Narrative Statements to the Factors for Award. If you are required to submit narrative statements, you should submit them as an electronic file in ASCII text format. Each response to a Factor for Award should be developed as a separate file labeled with the appropriate factor name, e.g. Factor 1 Capacity and submitted as part of your electronic application.

(2) Third Party Letters, Certifications Requiring Signatures, and Other Documentation. Applicants required to submit documentation from organizations providing matching or leveraging funds; documentation of 501(c)(3) status or incorporation papers; documents that support the need for the program or Memoranda of Understanding (MOUs) have the following two options:

(a) Scanning Documents to Create Electronic Files. Third party documentation can be scanned and saved as separate electronic files. Electronic files must be labeled so the reader will know what the file contains. Match or leveraging letters can be scanned into a single folder or the applicant can create a separate file for each scanned letter and label them accordingly. All scanned files should be placed together in a zipped folder and then attached to the application package submitted to grants.gov as part of the application submission; or

(b) Electronic Facsimile Required Documentation. Applicants that do not have scanning equipment available, may submit the required documentation to HUD via facsimile (fax). The electronic facsimile method may only be used to submit attachments that are part of your electronic application. HUD will not accept entire applications via fax. Applications submitted entirely via fax will be disqualified.

To submit documents using the electronic facsimile method, applicants must use form HUD-96011, Facsimile Transmittal, which is a cover page for the faxed materials. The form HUD-96011 is an electronic form and is part of the applicant's downloaded electronic application obtained from www.grants.gov. Applicants must fax their information to the following fax number: 800-HUD-1010. Each document must be faxed as a separate submission to avoid fax transmission problems. When faxing several documents, applicants must use the Form HUD-96011 as the cover for each document (e.g. Letter of Matching or Leveraging funds, Memorandum of Understanding, Certification of Consistency with the Consolidated Plan, etc.).

Your facsimile machine should provide you with a record of whether your transmission was received by HUD. If you get a negative response or a transmission error, you should resubmit the document until you confirm that HUD has received your transmission. HUD will not acknowledge that a facsimile was received successfully. HUD will electronically receive the facsimile, read it with an optical character reader and attach it to the application submitted via Grants.gov electronic facsimile transmissions may be sent at any time before the application submission date. HUD will store the information and attach it to the electronic application when HUD receives it from Grants.gov.

(c) Submissions using other File Formats. If you are required to submit files in formats such as CAD (Computer Aided Design) files of architectural drawings and blueprints, or pictures, you should attach these as electronic files as part of the zipped folder and submit them with your application transmission.

5. Customer Support. The grants.gov website provides customer support via (800) 518-GRANTS (this is a toll-free number) or through e-mail at support@grants.gov. The customer support center is open from 7 a.m. to 9 p.m. Eastern time, Monday through Friday, except federal holidays, to address grants.gov technology issues. For technical assistance to program related questions, contact the number listed in Section VII of this NOFA.

6. Waiver of Electronic Submission Requirement. HUD will only accept electronic applications submitted through www.grants.gov unless the applicant has received a waiver from the Department. HUD regulations at 24 CFR 5.110, permit waivers of regulatory requirements to be granted for cause. If you are unable to submit your application electronically, you may, in writing, request a waiver from this requirement. Your waiver request must state the basis for the request and explain why electronic submission is not possible. The basis for waivers for cause may include but are not limited to: (a) Lack of available internet access in the geographic location in which the applicant is located or, (b) the physical disability of the applicant prevents the applicant from accessing or responding to the electronic application.

The waiver request should also include an e-mail and/or name and mailing address where responses can be directed. Applicants must submit waiver requests to the Assistant Secretary for Public and Indian Housing, who is responsible for the program under which you are seeking funding. To ensure time for processing, the waiver request must be submitted to HUD in writing at least thirty days prior to the application submission date.

To avoid a delay in the process, waiver requests should be sent by United States Postal Service Express Mail. You, the applicant should retain a receipt for the mailing showing the date submitted to the Postal Service. HUD will acknowledge receipt of the waiver request by e-mail, if an e-mail address is provided, or by United States Postal Service Express Mail or other means available. HUD will not make determinations or respond to waiver requests via the telephone. Each waiver request will be reviewed and a determination made to the applicant, indicating whether or not the waiver has been granted. In the event a waiver is granted, the submission date for the mailed application delivery shall not be later than the submission date for electronic applications. Applicants receiving a waiver will be expected to follow the submission instructions immediately below.

a. Submission Instructions for Applicants Receiving a Waiver to Electronic Submission. Applicants receiving a waiver of the electronic submission requirements must submit their complete applications in paper copy as follows:

(1) Submission Using the United States Postal Service. HUD will no longer accept hand deliveries of applications. Applicants who receive a waiver and are therefore allowed to submit paper applications must submit them via the United States Postal Service using Express Mail or an overnight mail service (which provides a written record of delivery date).

7. Timely Receipt Requirements and Proof of Timely Submission.

a. Electronic Submission. All applications must be received by http://www.grants.gov by 11:59:59 p.m. Eastern time on the established submission date for this NOFA.

Proof of timely submission is automatically recorded by Grants.gov. An electronic time stamp is generated within the system when the application is successfully received by Grants.gov. The applicant will receive an acknowledgement of receipt and a tracking number from grants.gov with the successful transmission of their application. Applicants should print this receipt and save it, along with facsimile receipts for information provided by facsimile, as proof of timely submission. When HUD successfully retrieves the application from Grants.gov, HUD will provide an electronic acknowledgment of receipt to the e-mail address provided on the SF 424. Proof of Timely submission shall be the date and time that grants.gov receives your application submittal and the date HUD receives those portions of your application submitted by facsimile. All facsimile transmissions must be received by the application submission date and time.

Applications received by Grants.gov, after the established submission date for the program will be considered late and will not be considered for funding by HUD. Similarly, applications will be considered late if information submitted by facsimile as part of the application is not received by HUD by the established submission date. Please take into account the transmission time required for submitting your application via the Internet and the time required to submit any related documents via electronic facsimile. HUD suggests that applicants submit their applications during the operating hours of the grants.gov Support Desk, so that if there are questions concerning transmission, operators will be available to walk you through the process. Submitting your application during the Support Desk hours will also ensure that you have sufficient time for the application to complete its transmission prior to the application deadline.

Applicants using dial-up connections should be aware that transmission should take some time before grants.gov receives it. Grants.gov will provide either an error or a successfully received transmission message. The grants.gov Support desk reports that some applicants abort the transmission because they think that nothing is occurring during the transmission process. Please be patient and give the system time to process the application. Uploading and transmitting many files, particularly electronic forms with associated XML schemas, will take some time to be processed.

b. Late applications. Late applications, whether received electronically or in hard copy will not receive funding consideration. HUD will not be responsible for directing or forwarding applications to the appropriate location. Applicants should pay close attention to these submission and timely receipt instructions as they can make a difference in whether HUD will accept your application for funding consideration.

c. No Facsimiles of Entire Application. HUD will not accept fax transmissions from applicants who receive a waiver to submit a paper copy application. Paper applications must be complete and submitted in their entirety, via the USPS Express Mail.

a. 5. General Section References. The following sub-sections of Section IV. of the General Section are hereby incorporated by reference:

(1) Addresses to Request Application Package;

(2) Application Kits;

(3) Guidebook and Further Information; and

(5) Addresses.

V. Application Review Information

A. Criteria

1. Rating Factor: Capacity—27 Points Total

a. Your Team. The term “your Team” includes PHA staff who will be involved in HOPE VI grant administration, and any alternative management entity that will manage the revitalization process, be responsible for meeting construction time tables, and obligating amounts in a timely manner. This includes any developer partners, program managers, property managers, subcontractors, consultants, attorneys, financial consultants, and other entities or individuals identified and proposed to carry out program activities.

b. Development Team Capacity—6 points

(1) You will receive up to 6 points if your application demonstrates that:

(a) Your developer or other team members have extensive, recent (within the last five years), and successful experience in planning, implementing, and managing physical development, financing, leveraging, and partnership activities that are comparable in character, scale, and complexity to your proposed revitalization activities;

(b) Your developer or other team members have extensive, recent (within the last five years), and successful experience in planning, implementing, and managing Capital Fund program projects.

(c) You propose development using low-income tax credits, and you, your developer, or other team members have relevant tax credit experience; and

(d) If homeownership, rent-to-own, cooperative ownership, or other major development components are proposed, you, your developer, or other team members have relevant, successful experience in development, sales, or conversion activities.

(2) You will receive up to 4 points if your developer or other team members have some but not extensive experience in the factors described above.

(3) You will receive zero points if your developer or other team members do not have the experience described and the application does not demonstrate that it has the capacity to carry out your Revitalization plan. You will also receive 0 points if your application does not address this factor to an extent that makes HUD's rating of this factor possible.

c. Development Capacity of Applicant—6 points.

(1) You will receive up to 6 points if your application demonstrates that:

(i) You have identified potential gaps in your current staffing in relation to development activities, and you have plans to fill such gaps, internally or externally, in a timely manner in order to implement successfully your Revitalization plan;

(ii) You have demonstrated that physical development activities will proceed as promptly as possible following grant award, and you will be able to begin significant construction within 18 months of the award of the grant.

(iii) Your program schedule indicates the date on which the development proposal, i.e., whether mixed-finance development, homeownership development, etc., for each phase of the revitalization plan will be submitted to HUD. For application evaluation only, you should assume the award and post-award dates in Section IV.B.4.d. of this NOFA; and

(iv) Your management experience and previous experience with development activities, including the dollar amount and timeframe for completion of the project(s), is sufficient to show that you have experience in overseeing affordable housing development, whether it be in-house or implemented by a private entity.

(2) You will receive up to 4 points if your application demonstrates that you have had experience in managing affordable housing development in accordance with the factors above, but your experience has not been extensive, and your project(s) were completed within the timeframe originally established for the project.

(3) You will receive up to 1 point if your application demonstrates that you have had experience in managing affordable housing development in accordance with the factors above, but your experience has not been extensive, and your project(s) were not completed within the timeframe originally established for the project.

(4) You will receive 0 points if your application does not demonstrate any experience in managing development activities, or if your application does not address this factor to an extent that makes HUD's rating of this factor possible.

d. Capacity of Existing HOPE VI Revitalization Grantees.

(1) This Section applies only to applicants that have received HOPE VI Revitalization grants for fiscal years 1993-2002. If an applicant has more than one HOPE VI Revitalization grant, each will be rated separately, not averaged, and the highest deduction will be made. Applicants with HOPE VI Revitalization grants only from FY2003 or FY2004, or no existing HOPE VI Revitalization grants are not subject to this section.

(2) As indicated in the following tables, up to 5 points will be deducted if a grantee has failed to achieve adequate progress in relation to cumulative public housing rental unit production. Production achievement numbers will be taken from the quarterly reporting system for the quarter most recently completed at the time the NOFA is published in the Federal Register.

Percent of public housing unit production completed | Points deducted
Grants Awarded in FY 1993-1998:
Less than 100 Percent | 5
Grants Awarded in FY 1999:
90-100 Percent | 0
80-89 Percent | 1
75-79 Percent | 2
70-74 Percent | 3
65-69 Percent | 4
Less than 65 Percent | 5
Grants Awarded in FY 2000:
80-100 Percent | 0
70-79 Percent | 1
60-69 Percent | 2
50-59 Percent | 3
40-49 Percent | 4
Less than 40 Percent | 5
Grants Awarded in FY 2001:
60-100 | 0
50-59 Percent | 1
40-49 Percent | 2
30-39 Percent | 3
20-29 Percent | 4
Less than 20 Percent | 5
Grants Awarded in FY 2002:
25-100 Percent | 0
20-24 Percent | 1
15-19 Percent | 2
10-14 Percent | 3
5-9 Percent | 4
Less than 5 Percent | 5

e. CSS Program Capacity—3 points.

See Sections I.D.10., and III.C.4.l. and m., of this NOFA for detailed information on CSS activities.

(1) You will receive 2 points if your application demonstrates one of the following. If you fail to demonstrate one of the following, you will receive 0 points:

(a) If you propose to carry out your CSS plan in-house and you have recent, quantifiable, successful experience in planning, implementing, and managing the types of CSS activities proposed in your application, or

(b) If you propose that a member(s) of your team will carry out your CSS plan, that this procured team member(s) has the qualifications and demonstrated experience to plan, implement, manage, and coordinate the types of activities proposed, and that you have a plan for promptly hiring staff or procuring a team member to do so.

(2) You will receive 1 point if your application demonstrates that:

(a) You have an existing HOPE VI grant and your current CSS team will be adequate to implement a new program, including new or changing programs, without weakening your existing team.

(b) You do not have an existing HOPE VI Revitalization grant and you demonstrate how your proposed CSS team will be adequate to implement a new program, including new or changing services, without weakening your existing staffing structure.

f. Property Management Capacity—5 points.

(1) Property management activities may be the responsibility of the PHA or another member of the team, which may include a separate entity that you have procured or will procure to carry out property management activities. In your application you will describe the number of units and the condition of the units currently managed by you or your property manager, your annual budget for those activities, and any awards or recognition that you or your property manager have received.

(2) Past Property Management Experience—3 points.

(a) You will receive up to 3 points if your application demonstrates that you or your property manager currently have extensive knowledge and recent (within the last five years), successful experience in property management of the housing types included in your revitalization plan. This may include market-rate rental housing, public housing, and other affordable housing, including rental units developed with low-income housing tax credit assistance. If your Revitalization plan includes cooperatively-owned housing, rent-to-own units, or other types of managed housing, in order to receive the points for this factor, you must demonstrate recent, successful experience in the management of such housing by the relevant member(s) of your team.

(b) You will receive 1 point if your application demonstrates that you or your property manager has some but not extensive experience of the kind required for your Revitalization plan.

(c) You will receive 0 points if your application does not demonstrate that you or your property manager have the experience to manage your proposed plan, or if your application does not address this factor to an extent that makes HUD's rating of this factor possible.

(3) Property Management Plan—2 points.

(a) You will receive up to 2 points if your application demonstrates that you or your property manager have the goals and plans necessary to administer the following elements of a property management plan:

(i) Property maintenance

(ii) Rent collection

(iii) PIC 50058 reporting

(iv) Site-based management experience

(v) Tenant grievances

(vi) Evictions

(vii) Occupancy rate

(viii) Unit turnaround

(ix) Preventive maintenance

(x) Work order completion

(xi) Project-based budgeting

(xii) Management of Homeownership and rent-to-own programs

(xiii) Energy Audits

(xiv) Utility/Energy Incentives

(b) You will receive 0 points if your application does not demonstrate that you or your property manager have the goals and plans necessary to administer the above elements of a property management plan.

g. PHA or MTW Plan—1 point.

(1) You will receive 1 point if your application demonstrates that you have incorporated the revitalization plan described in your application into your most recent PHA plan or MTW Annual plan (whether approved by HUD or pending approval). In order to qualify as “incorporated” under this factor, your PHA or MTW plan must indicate the intent to pursue a HOPE VI Revitalization grant and the public housing development for which it is targeted.

(2) You will receive 0 points if you have not incorporated the revitalization plan described in your application into your PHA or MTW plan, or if your application does not address this factor to an extent that makes HUD's rating of this factor possible.

h. Public Housing Assessment System (PHAS)—2 points.

(1) If you have been rated as an Overall High Performer for your most recent PHAS review as of the application submission date, you will receive 2 points.

(2) If you have been rated as an Overall Standard Performer for your most recent PHAS review as of the application submission date, you will receive 1 point.

(3) If you have been rated as a Troubled Performer that is either Troubled in One Area or Overall Troubled as of the application submission date, you will receive 0 points.

(4) For this rating factor, MTW PHA applicants will be rated on their compliance with their MTW Agreements.

(a) If you are in compliance with your MTW Agreement, you will receive 2 points.

(b) If you are not in compliance with your MTW Agreement, you will receive zero points.

i. Regular Maintenance—2 points.

(1) Unless the targeted project is vacant, your normal practice should be to continue regular maintenance. HUD will measure your most recent PHAS physical inspection Prevalence Report scores for the maintenance defects that are included in the “TOP 20” and compare it to your previous Prevalence Report scores for the same maintenance defects.

(2) Vacant Targeted Project. You will receive 2 points if your application demonstrates that, on the application submission date, the targeted project was vacant.

(3) Occupied Targeted Project.

(a) You will receive 2 points if your Prevalence Report score for the above “TOP 20” maintenance defects has improved.

(b) You will receive 0 points if your Prevalence Report score for the above “TOP 20” maintenance defects has not improved.

(4) MTW PHA. For this rating factor, MTW PHA applicants will be rated on their compliance with their MTW Agreements.

(a) If you are in compliance with your MTW Agreement, you will receive 2 points.

(b) If you are not in compliance with your MTW Agreement, you will receive zero points.

j. Section 8 Management Assessment Program (SEMAP)—2 points.

(1) If you have been rated as a High Performer for your most recent SEMAP rating as of the application submission date, you will receive 2 points.

(2) If you have been rated as Standard for your most recent SEMAP rating as of the application submission date, you will receive 1 point.

(3) If you have been rated as Troubled for your most recent SEMAP rating as of the application submission date, you will receive zero points.

(4) For this rating factor, MTW PHA applicants will be rated on their compliance with their MTW Agreements.

(a) If you are in compliance with your MTW Agreement, you will receive 2 points.

(b) If you are not in compliance with your MTW Agreement, you will receive zero points.

2. Rating Factor: Need—24 Points Total

a. Severe Physical Distress of the Public Housing Development—10 Points

(1) HUD will evaluate the extent of the severe physical distress of the targeted public housing development. If the targeted units have already been demolished, HUD will evaluate your description of the extent of the severe physical distress of the site as of the day the demolition application was approved by HUD. You will receive points for the following separate subfactors, as indicated.

(a) You will receive up to 3 points if your application demonstrates that there are major deficiencies in the project's infrastructure, roofs, electrical, plumbing, heating and cooling, mechanical systems, settlement, and other deficiencies in Housing Quality Standards.

(b) You will receive up to 3 points if your application demonstrates that there are poor soil conditions, inadequate drainage, deteriorated laterals and sewers, and inappropriate topography.

(c) You will receive up to 4 points if your application demonstrates that the project has at least three of the following major design deficiencies, including:

(i) Inappropriately high population density, room, and unit size and configurations;

(ii) Isolation;

(iii) Indefensible space;

(iv) Significant utility expenses caused by energy conservation deficiencies that may be documented by an energy audit; and

(v) Inaccessibility for persons with disabilities with regard to individual units (less than 5 percent of the units are accessible), entranceways, and common areas.

b. Impact of the Severely Distressed Site on the Surrounding Neighborhood—3 Points

(1) HUD will evaluate the extent to which the severely distressed public housing project is a significant contributing factor to the physical decline of, and disinvestment by, public and private entities in the surrounding neighborhood. In making this determination, HUD will evaluate your narrative, crime statistics, photographs or renderings, socio-economic data, trends in property values, evidence of property deterioration and abandonment, evidence of underutilization of surrounding properties, and indications of neighborhood disinvestment.

(2) You will receive up to 3 Points if your application demonstrates that the project has a significant impact on the surrounding neighborhood, as documented by each item listed above.

(3) You will receive up to 2 Points if your application demonstrates that the project has a moderate impact on the neighborhood, and only some of the items listed above are adequately documented.

(4) You will receive 0 Points if your application does not demonstrate that the project has an impact on the surrounding neighborhood, or if your application does not address this factor to an extent that makes HUD's rating of this factor possible.

c. Need for HOPE VI Funding—8 Points

(1) HUD will evaluate the extent to which you could undertake the proposed revitalization activities without a HOPE VI grant. Large amounts of available Capital Funds indicate that the revitalization could be carried out without a HOPE VI grant. Available Capital Funds are defined as non-obligated funds that have not been earmarked for other purposes in your PHA Plan. To determine the amount of FY 2000-2005 Capital Fund Program (including CIAP and CGP) funds currently available that could be used to carry out the proposed revitalization activities, HUD will employ data from LOCCS available at the time of the grant application submission date and information from the portions of the PHA Plan that you have submitted as part of your application. Funds earmarked in the PHA Plan for uses other than the revitalization proposed in this application will not be considered available. See Section IV.B. of this NOFA for documentation requirements.

(2) You will receive 8 Points if your available Capital Funds balance is up to 20 percent of the amount of HOPE VI funds requested.

(3) You will receive 6 Points if your available balance is 21-45 percent of the amount of HOPE VI funds requested.

(4) You will receive 4 Points if your available balance is 46-70 percent of the amount of HOPE VI funds requested.

(5) You will receive 2 Points if your available balance is 71 to 90 percent of the amount of HOPE VI funds requested.

(6) You will receive zero Points if your available balance is more than 90 percent of the amount of HOPE VI funds requested.

d. Need for Affordable Accessible Housing in the Community—3 Points

(1) Your application must demonstrate the need for other housing available and affordable to families receiving tenant-based assistance under section 8 (HCV), as described below and must be the most recent information available at the time of the application deadline.

(2) For purposes of this factor, the need for affordable housing in the community will be measured by Housing Choice Voucher program utilization rates or public housing occupancy rates, whichever of the two reflects the most need. In figuring the Housing Choice Voucher utilization rate, determine and provide the percentage of HCV units out of the total number authorized or the percentage of HCV funds expended out of the total amount authorized, whichever percentage is higher. In figuring the public housing occupancy rate, provide the percentage of units occupied out of the total in your federal public housing inventory, excluding the targeted public housing site. You should base your calculation only on the federal public housing units you manage. You may not exclude units in your public housing inventory that are being reserved for relocation needs related to other HOPE VI Revitalization grant(s); or units in your public housing inventory that are being held vacant for uses related to a Section 504 voluntary compliance agreement. If you are a non-MTW site, you must use information consistent with the Section Eight Management Assessment Program (SEMAP) and/or the Public Housing Assessment System (PHAS) submissions. If you are an MTW site, and do not report into SEMAP and/or PHAS, you must demonstrate your utilization and/or occupancy rate using similar methods and information sources in order to earn points under this rating factor.

(3) You will receive 3 Points if your application demonstrates that the higher of:

(a) The utilization rate of your Housing Choice Voucher program is 97 percent or higher; or

(b) The occupancy rate of your public housing inventory is 97 percent or higher.

(c) HUD will use the higher of the two rates to determine your score.

(4) You will receive 2 Points if your application demonstrates that the higher of:

(a) The utilization rate of your Housing Choice Voucher program is between 95 and 96 percent; or,

(b) The occupancy rate of your public housing inventory is between 95 and 96 percent.

(c) HUD will use the higher of the two rates to determine your score.

(5) You will receive 1 Point if your application demonstrates that the higher of:

(a) The utilization rate of your Housing Choice Voucher program is between 93 and 94 percent; or

(b) The occupancy rate of your public housing inventory is between 93 and 94 percent.

(c) HUD will use the higher of the two rates to determine your score.

(6) You will receive 0 Points if both the utilization rate of your Housing Choice Voucher program and the occupancy rate of your public housing inventory are less than 93 percent.

3. Rating Factor: Leveraging—16 Points Total

a. Leverage. Although related to match, leverage is strictly a rating factor. Leverage consists of firm commitments of funds and other resources. HUD will rate your application based on the amount of funds and other resources that will be leveraged by the HOPE VI grant as a percentage of the amount of HOPE VI funds requested. There are four types of Leverage: Development and CSS, as described in “Program Requirements,” Section III.C.4.e. of this NOFA, and Anticipatory, and Collateral as described in this rating factor. Each resource may be used for only one leverage category. Any resource listed in more than one category will be disqualified from all categories. If leverage sources and amounts are not documented in accordance with Sections III.C.4. and IV.B.6.c. of this NOFA, they will not be counted toward your leverage amounts. In determining Leverage ratios, HUD will include as Leverage the match amounts that are required by Section III.B. of this NOFA.

b. Development Leveraging—7 Points

For each commitment document, HUD will evaluate the strength of commitment and add the amounts that are acceptably documented. HUD will then calculate the ratio of the amount of HUD funds requested to the amount of funds that HUD deems acceptably documented. HUD will round figures to two decimal points, using standard rounding rules. See Section IV.B.6. of this NOFA for documentation requirements.

(1) LIHTC. Only LIHTC commitments that have been secured as of the application submission date will be considered for the scoring under this section. LIHTC commitments that are not secured (i.e., documentation in the application does not demonstrate they have been reserved by the state or local housing finance agency) will not be counted as leverage for scoring under this section. Only tax credits that have been reserved specifically for revitalization performed through this NOFA will be counted as development leverage.

(2) Private mortgage-secured loans and other debt.

(a) Where there is both a construction loan and a permanent take-out loan that will replace that construction loan, you must provide documentation of both, but only the value of the permanent loan will be counted as leverage.

(b) For privately financed homeownership construction loans, acceptable documentation of construction loans will be considered as leverage. Documentation of permanent financing is not required.

(c) If you have obtained a construction loan but not a permanent loan, the value of the acceptably documented construction loan will be counted as leverage.

(3) You will receive 7 Points if the ratio of the amount of HOPE VI funds requested for physical development activities (not including CSS, administration or relocation) to the dollar value of documented, committed development resources from other sources is 1:3 or higher.

(4) You will receive 6 Points if the ratio is between 1:2.50 and 1:2.99

(5) You will receive 5 Points if the ratio is between 1:2.0 and 1:2.49.

(6) You will receive 4 Points if the ratio is between 1:1.50 and 1:1.99.

(7) You will receive 3 Points if the ratio is between 1:1.0 and 1:1.49.

(8) You will receive 2 Points if the ratio is between 1:0.50 and 1:0.99.

(9) You will receive one Point if the ratio is between 1:0.25 to 1:0.49.

(10) You will receive 0 Points if the ratio is less than 1:0.25, or if your application does not address this factor to an extent that makes HUD's rating of this factor possible.

c. CSS Leveraging—5 Points

(1) Note that in order to count as leverage, CSS contributions must be newly generated. Existing and newly generated TANF cash benefits will not count as leverage. Newly generated non-cash services provided by TANF agencies will count as leverage.

(2) You will receive 5 Points if the ratio of the amount of HOPE VI funds requested for CSS activities to the dollar value of documented, committed CSS resources leveraged from other sources is 1:2 or higher. Note that wages projected to be paid to residents through jobs, or projected benefits (e.g., health/insurance/retirement benefits) related to projected resources to be provided by CSS partners are not sources of leverage. If no HOPE VI funds are requested for CSS activities because all CSS funds will come from outside sources, all adequately-documented funds from such outside sources will be counted and you will receive 5 Points.

(3) You will receive 4 Points if the ratio is between 1:1.75 and 1:1.99.

(4) You will receive 3 Points if the ratio is between 1:1.5 and 1:1.749.

(5) You will receive 2 Points if the ratio is between 1:1.25 and 1:1.49.

(6) You will receive one Point if the ratio is between 1:1 and 1:1.249.

(7) You will receive 0 Points if the ratio is less than 1:1, or if your application does not address this factor to an extent that makes HUD's rating of this factor possible.

d. Anticipatory Resources Leveraging—2 Points

Anticipatory Resources relate to activities that have taken place in the past and that were conducted in direct relation to a HOPE VI Revitalization grant. In many cases, PHAs, cities, or other entities may have carried out revitalization activities (including demolition) in previous years in anticipation of your receipt of a HOPE VI Revitalization grant. These expenditures, if documented, may be counted as leveraged anticipatory resources. They cannot duplicate any other type of resource and cannot be counted towards match. Public Housing funds other than HOPE VI Revitalization, e.g., HOPE VI Demolition grant funds, HOPE VI Neighborhood Networks grant funds, Capital Fund Program, may be included, and will be counted, toward your Anticipatory Resources rating below. For Anticipatory Resources ratios, “HOPE VI funds requested for physical development activities” is defined as your total requested amount of funds minus your requested CSS, administration amounts, and relocation. HUD will presume that your combined CSS, administration and relocation amounts are the total of Budget Line Items 1408 (excluding non-CSS Management Improvements), 1410, and 1495 on the form HUD-52825-A, “HOPE VI Budget” that is included in your application.

(1) You will receive 2 Points if the ratio of the amount of HOPE VI funds requested for physical development activities to the amount of your documented anticipatory resources is 1:0.1 or higher.

(2) You will receive 0 Points if the ratio of the amount of HOPE VI funds requested for physical development activities, to the amount of your documented anticipatory resources is less than 1:0.1.

e. Collateral Investment Leveraging—2 Points

Collateral investment includes physical redevelopment activities that are currently underway, or that have yet to begin but are projected to be completed before October 1, 2010. In order for a leverage source to be counted as collateral investment, your application must demonstrate that the related activities will directly enhance the new HOPE VI community, but will occur whether or not a Revitalization grant is awarded to you and the public housing project is revitalized. This includes economic or other kinds of development activities that would have occurred with or without the anticipation of HOPE VI funds. These resources cannot duplicate any other type of resource and cannot be counted as match. Examples of collateral investments include local schools, libraries, subways, light rail stations, improved roads, day care facilities, and medical facilities.

(1) You will receive 2 Points if the ratio of the amount of HOPE VI funds requested for physical development activities (not including CSS or administration) to the amount of your documented collateral resources is 1:1.0 or higher.

(2) You will receive 0 Points if the ratio of the amount of HOPE VI funds requested for physical development activities (not including CSS or administration) to the amount of your documented collateral resources is less than 1:1.0.

4. Rating Factor: Resident and Community Involvement—3 Points Total

a. HUD will evaluate the nature, extent, and quality of the resident and community outreach and involvement you have achieved by the time your application is submitted, as well as your plans for continued and additional outreach and involvement beyond the minimum threshold requirements. See Section III.C. of this NOFA for Resident and Community Involvement requirements.

b. Resident and Community Involvement—3 Points

You will receive one Point for each of the following criteria met in your application, which are over and above the threshold requirements listed in Section III.C.4. of this NOFA.

(1) Your application demonstrates that you have communicated regularly and significantly with affected residents, state and local governments, private service providers, financing entities, developers, and other members of the surrounding community about the development of your Revitalization plan by giving residents and community members information about your actions regarding the Revitalization plan and providing a forum where residents and community members can contribute recommendations and opinions with regard to the development and implementation of the Revitalization plan.

(2) Your application demonstrates your efforts, past and proposed, to make appropriate HUD communications about HOPE VI available to affected residents and other interested parties, e.g., a copy of the NOFA, computer access to the HUD Web site, etc.

(3) Your application demonstrates your plans to provide affected residents with reasonable training on the general principles of development, technical assistance, and capacity building so that they may participate meaningfully in the development and implementation process.

5. Rating Factor: Community and Supportive Services—13 Points Total

a. CSS Program Requirements. See Section III.C.4.l. and m. for CSS program requirements. In your application, you will describe your CSS plan, including any plans to implement a CSS Endowment Trust. Each of the following subfactors will be rated separately.

b. Case Management—2 points. You will receive 2 Points if your application demonstrates that you will be able to provide case management within 30 days from the date of grant award execution so that residents who will be relocated have time to participate and benefit from CSS activities before leaving the site.

c. Needs Identification—1 point. You will receive one Point if your CSS Program has been developed in response to a rigorous resident needs identification process and directly responds to the identified needs.

d. Transition to Housing Self-Sufficiency—5 points. You will receive up to 5 Points if you address the methods you will use to assist public housing residents in their efforts to transition to other affordable and market-rate housing, i.e., to gain “housing self-sufficiency.”

(1) You will receive up to 5 Points if your application demonstrates that your CSS Program includes and addresses all three of the below items. Your CSS Program:

(a) Provides measurable outcomes for this endeavor;

(b) Relates your other CSS and FSS activities and efforts to the transition of public housing residents to housing self-sufficiency; and

(c) Specifically addresses the grassroots, community-based and faith-based organizations, etc. that will join you in the endeavor.

(2) You will receive up to 2 Points if your CSS Program includes and addresses at least two of the above three items (a) through (c) above.

(3) You will receive 0 Points if your CSS Program includes and addresses less than two of the above items (a) through (c) above.

e. Housing Self-Sufficiency Time Frame—2 points. (1) You will receive 2 points if you demonstrate that you plan to move HOPE VI public housing families not headed by an elderly or disabled person to other public housing if they have not attained housing self-sufficiency, i.e., do not have the ability to transition out of public housing, within five (5) years after the date that they occupied their units.

(2) You will receive 1 point if you demonstrate that you plan to move HOPE VI public housing families not headed by an elderly or disabled person to other public housing if they have not attained housing self-sufficiency, i.e., do not have the ability to transition out of public housing, within ten (10) years after the date that they occupied their units.

(3) You will receive 0 points if you do not demonstrate that you plan to move HOPE VI public housing families not headed by an elderly or disabled person to other public housing if they have not attained housing self-sufficiency, i.e., do not have the ability to transition out of public housing, within at least ten (10) years after they have occupied their units.

f. Partner Commitments—1 point. You will receive one Point if you provide letters from a variety of experienced organizations and service providers that represent strong relationships and commitments to participate in your CSS activities and accomplish your CSS goals of the program.

g. Quality and Results Orientation—2 points. You will receive 2 Points if you have proposed a high quality, results-oriented CSS program that is based on a comprehensive case management system and enables residents affected by the revitalization plan to access, at a minimum, basic elements of education, job training, and other services that will assist them in transforming their lives and becoming self-sufficient.

6. Rating Factor: Relocation—5 Points Total

See Sections III.C.4. of this NOFA for Relocation and Relocation Plan requirements. For all applicants, whether you have completed, or have yet to complete, relocation of all residents of the targeted project, your HOPE VI Relocation Plan must include the three goals set out in Section 24 of the 1937 Act, as described in Sections a.(1)(a), (b) and (c) below. a. You will receive up to 5 Points for this Factor if:

(1) Your Relocation plan:

(a) Includes a description of specific activities that have minimized, or will minimize, permanent displacement of residents of the units that will be rehabilitated or demolished in the targeted public housing site, provided that those residents wish to remain in or return to the revitalized community;

(b) Includes a description of specific activities that will give existing residents priority over other families for future occupancy of public housing units in completed HOPE VI Revitalization Development projects, or, for existing residents that can afford to live in non-public housing HOPE VI units, priority for future occupancy of those planned units; and

(c) contains a description of specific CSS activities that will be provided to residents prior to any relocation;

b. You will receive up to 4 Points for this Factor if: Your Relocation Plan complies with only two of the goals in (a) through (c) above.

c. You will receive up to 2 Points for this Factor if: Your Relocation Plan complies with only one of the requirements in (a) through (c) above.

d. You will receive 0 Points for this Factor if: (1) Your Relocation Plan does not comply with any of the requirements in (a) through (c) above; or (2) Your application does not address this factor to an extent that makes HUD's rating of this factor possible.

7. Rating Factor: Fair Housing and Equal Opportunity—5 Points Total

a. FHEO Disability Issues—3 Points Total. (1) Accessibility—2 Points.

(a) Over and above the accessibility requirements listed in Section III.C. of this NOFA, you will receive 2 Points if your application demonstrates that you have a detailed plan to:

(i) Provide accessibility in homeownership units (e.g., setting a goal of constructing a percentage of the homeownership units as accessible units for persons with mobility impairments; promising to work with prospective disabled buyers on modifications to be carried out at a buyer's request; exploring design alternatives that result in townhouses that are accessible to persons with disabilities);

(ii) Provide accessible units for all eligible populations ranging from one-bedroom units for non-elderly single persons with disabilities through units in all bedroom sizes to be provided.;

(iii) Provide for accessibility modifications, where necessary, to Housing Choice Voucher-assisted units of residents who relocate from the targeted project to private or other public housing due to revitalization activities. The Department has determined that the costs of such modifications are eligible costs under the HOPE VI program;

(iv) Where playgrounds are planned, propose ways to make them accessible to children with disabilities, over and above statutory and regulatory requirements; and

(v) Where possible, design units with accessible front entrances.

(b) You will receive 1 Point if your application demonstrates that you have a detailed plan to implement from one to four of the accessibility priorities stated above, explaining why and how you will implement the identified accessibility priorities.

(c) You will receive 0 Points if your application does not demonstrate that you have a detailed plan that meets the specifications above, or if your application does not address this factor to an extent that makes HUD's rating of this factor possible.

(2) Universal Design—1 Point.

(a) You will receive 1 Point if your application demonstrates that you have a specific plan to meet:

(i) The adaptability standards adopted by HUD at 24 CFR 8.3 that apply to those units not otherwise covered by the accessibility requirements. Adaptability is the ability of certain elements of a dwelling unit, such as kitchen counters, sinks, and grab bars, to be added to, raised, lowered, or otherwise altered, to accommodate the needs of persons with or without disabilities, or to accommodate the needs of persons with different types or degrees of disability. For example, the wiring for visible emergency alarms may be installed so that a unit can be made ready for occupancy by a hearing-impaired person (For information on adaptability, see http://www.hud.gov/offices/pih/programs/ph/hope6/pubs/glossary.pdf); and

(ii) The visitability standards recommended by HUD that apply to units not otherwise covered by the accessibility requirements. Visitability standards allow a person with mobility impairments access into the home, but do not require that all features be made accessible. A visitable home also serves persons without disabilities, such as a mother pushing a stroller or a person delivering a large appliance. See http://www.hud.gov/offices/pih/programs/ph/hope6/pubs/glossary.pdf for information on visitability. The two standards of visitability are:

(A) At least one entrance at grade (no steps), approached by a sidewalk; and

(B) The entrance door and all interior passage doors are at least 2 feet 10 inches wide, allowing 32 inches of clear passage space.

(b) You will receive 0 Points if your application does not demonstrate that you have specific plans to implement both (i) and (ii) as specified above, or if your application does not address this factor to an extent that makes HUD's rating of this factor possible.

b. Fair Housing and Affirmative Marketing—1 Point Total. (1) Fair Housing—1 Point.

(a) You will receive one Points if your application demonstrates that:

(i) You have made and will make specific efforts to attract families from all segments of the population on a non-discriminatory basis and with a broad spectrum of incomes to the revitalized site through intensive affirmative marketing efforts and how these efforts contribute to the deconcentration of low-income neighborhoods;

(ii) You have made and will make specific efforts to target your marketing and outreach activities to those persons and groups least likely to know about these housing opportunities, in order to promote housing choice and opportunity throughout your jurisdiction and contribute to the deconcentration of both minority and low-income neighborhoods. In your application, you must describe how your outreach and marketing efforts will reach out to persons of different races and ethnic groups, families with or without children, persons with disabilities and able-bodied persons, and the elderly; and

(iii) The specific steps you plan to take through your proposed activities to affirmatively further fair housing. These steps can include, but are not limited to:

(A) Addressing impediments to fair housing choice relating to your operations;

(B) Working with local jurisdictions to implement their initiatives to affirmatively further fair housing;

(C) Implementing, in accordance with Departmental guidance, relocation plans that result in increased housing choice and opportunity for residents affected by HOPE VI revitalization activities funded under this NOFA;

(D) Implementing admissions and occupancy policies that are nondiscriminatory and help reduce racial and national origin concentrations; and

(E) Initiating other steps to remedy discrimination in housing and promote fair housing rights and fair housing choice.

(b) You will receive 0 Points if you do not address all of the above issues, or if your application does not address this factor to an extent that makes HUD's rating of this factor possible.

c. Economic Opportunities for Low- and Very Low-Income Persons (Section 3)—1 Point. (1) HOPE VI grantees must comply with Section 3 of the Housing and Urban Development Act of 1968 (12 U.S.C. 1701u) (Economic Opportunities for Low- and Very Low-Income Persons in Connection with assisted Projects) and its implementing regulations at 24 CFR part 135. Information about Section 3 can be found at HUD's Section 3 Web site at http://www.hud.gov/fhe/sec3over.html.

(2) You will receive 1 Point if your application demonstrates that you have a feasible plan to implement Section 3 that not only meets the minimum requirements described in Section (1) above but also exceeds those requirements. Your plan must include your goals by age group, types of jobs, and other opportunities to be provided, and plans for tracking and evaluation. Section 3 firms must be in place quickly so that residents are trained in time to take advantage of employment opportunities such as jobs and other contractual opportunities in the pre-development, demolition, and construction phases of the revitalization. Your Section 3 plan must demonstrate that you will, to the greatest extent feasible, direct training, employment, and other economic opportunities to:

(a) Low- and very low-income persons, particularly those who are recipients of government assistance for housing, and

(b) Business concerns which provide economic opportunities to low- and very low-income persons.

(3) You will receive 0 Points if your plan to implement Section 3 does not meet the standards listed in Section (1) above, or if your application does not address this factor to an extent that makes HUD's rating of this factor possible.

8. Rating Factor: Well-Functioning Communities—8 Points Total

a. Affordable Housing—Up to 3 Points

(1) Housing Definitions. For the purposes of this rating section, housing units are defined differently than in PIH housing programs, as follows:

(a) “project-based affordable housing units” are defined as on-site and off-site housing units where there are affordable-housing use restrictions on the unit, e.g., public housing, project-based HCV (Section 8) units, LIHTC units, HOME units, affordable homeownership units, etc.

(b) “public housing” is defined as rental units that will be subject to the ACC.

(2) Unit Mix and Need for Affordable Housing.

(a) Your proposed unit mix should sustain or create more project-based affordable housing units that will be available to persons eligible for public housing in markets where the plan shows there is demand for the maintenance or creation of such units. While it is up to you to determine the unit mix that is appropriate for your site, it is essential that this unit mix include a sufficient amount of public housing rental units and other project-based affordable units. To the extent that the local market shows there is a demand for it, applicants are encouraged to create additional project-based affordable housing units to be made available for persons eligible for public housing.

(b) For purposes of this factor, HUD will determine whether you need project-based affordable housing by using your Housing Choice Voucher program utilization rate or public housing occupancy rate, whichever of the two reflects the least need. In figuring the Housing Choice Voucher utilization rate, determine and provide the percentage of HCV units out of the total number authorized or the percentage of HCV funds expended out of the total amount authorized, whichever percentage is higher. In figuring the public housing occupancy rate, provide the percentage of units occupied out of the total in your federal public housing inventory, excluding the units in the targeted project. You should base your calculation only on the federal public housing units you manage. You may not exclude units in your public housing inventory that are being reserved for relocation needs related to other HOPE VI Revitalization grant(s); or units in your public housing inventory that are being held vacant for uses related to a Section 504 voluntary compliance agreement. If you are a non-MTW site, you must use information consistent with the Section Eight Management Assessment Program (SEMAP) and/or the Public Housing Assessment System (PHAS) submissions. If you are an MTW site, and do not report into SEMAP and/or PHAS, you must demonstrate your utilization and/or occupancy rate using similar methods and information sources in order to earn points under this rating factor.

(3) Scoring when there will be No Need for More Affordable Housing after the Targeted Project is Demolished—1 Point.

(a) You will receive 1 Point for this factor if your application demonstrates that either:

(i) The utilization rate of your Housing Choice Voucher program is less than 95 percent; or

(ii) The occupancy rate of your public housing inventory is less than 95 percent.

(iii) If either (a) or (b) above is less than 95 percent, the other percentage will be disregarded.

(4) Scoring when there will be Need for More Affordable Housing after the Targeted Project is Demolished—up to 3 Points.

(a) For this factor, HUD considers you in need of project-based affordable housing if both:

(i) The utilization rate of your Housing Choice Voucher program is 95 percent or more; and

(ii) The occupancy rate of your public housing inventory is 95 percent or more.

(iii) If either (i) or (ii) above are less than 95 percent, you do not need affordable housing. You qualify for (3) above, not this section (4).

(b) The percentages below are defined as the number of planned project-based affordable units divided by the number of public housing units that the targeted project contained on the application submission date;

(c) You will receive 3 Points if your application demonstrates that the number of project-based affordable units in your plan is 125 percent or more of the number of public housing units that the targeted project contained on the application submission date;

(iv) You will receive 2 Points if your application demonstrates that the number of project-based affordable units in your plan is 110 to 124 percent of the number of public housing units that the targeted project contained on the application submission date

(v) You will receive 1 Point if your application demonstrates that the number of project-based affordable units in your plan is 100 to 109 percent of the number of public housing units that the targeted project contained on the application submission date.

(vi) You will receive 0 Points if your application demonstrates that the number of project-based affordable units in your plan is less than the number of public housing units that the targeted project contained on the application submission date or if your application does not address this factor to an extent that makes HUD's rating of this factor possible.

b. Off-Site Housing—1 Point

(1) Factor Background

(a) Although not required, you are encouraged to consider development of replacement housing in locations other than the original severely distressed site (i.e., off-site housing). Locating off-site housing in neighborhoods with low levels of poverty and low concentrations of minorities will provide maximized housing alternatives for low-income residents who are currently on-site and assist the goal of creating desegregated, mixed-income communities. The effect on-site will be to assist in the deconcentration of low-income residents and increase the number of replacement units.

(b) Although it is acknowledged that off-site housing is not appropriate in some communities, if you do not propose to include off-site housing in your Revitalization plan, you are not eligible to receive this point.

(c) If you propose an off-site housing component in your application, you must be sure to include that component when you discuss other components (e.g. on-site housing, homeownership housing, etc.). Throughout your application, your unit counts and other numerical data must take into account the off-site component.

(2) Scoring.

You will receive 1 Point if you propose to develop an off-site housing component(s) and document that: you have site control of the property(ies), that the site(s) meets all environmental review requirements, and that the site(s) meets site and neighborhood standards, in accordance with Section III.C.4.n.(1) of this NOFA.

c. Homeownership Housing—4 Points

The Department has placed the highest priority on increasing homeownership opportunities for low- and moderate-income persons, persons with disabilities, the elderly, minorities, and families where English may be a second language. Too often these individuals and families are shut out of the housing market through no fault of their own. HUD encourages applicants to work aggressively to open up the realm of homeownership.

(1) Your application will receive 4 Points if your application demonstrates that your Revitalization plan includes homeownership and that you have a feasible, well-defined plan for homeownership. In order to demonstrate this, your application should include descriptions of the following:

(a) The purpose of your homeownership program;

(b) The number of units planned and their location(s);

(c) A description and justification of the families that will be targeted for the program;

(d) The proposed source of your construction and permanent financing of the units; and

(e) A description of the homeownership counseling you or a HUD-approved housing counseling agency will provide to prospective families, including such subjects as the homeownership process, housing in non-impacted areas, credit repair, budgeting, and home maintenance.

(2) You will receive 2 Points for this factor if you address in your description from one to four of the items listed under (1).

(3) You will receive 0 Points for this factor if you do not propose to include homeownership units in your Revitalization plan, your proposed program is not feasible and well defined, or if your application does not address this factor to an extent that makes HUD's rating of this factor possible.

9. Rating Factor: Soundness of Approach—26 Points Total

a. Quality and Consistency of the Application—2 Points

(1) The information and strategies described in your application must be well organized, coherent, and internally consistent. Numbers and statistics in your narratives must be consistent with the information provided in the attachments. Also, the physical and CSS aspects of the application must be compatible and coordinated with each other. Pay particular attention to the data provided for:

(a) Types and numbers of units;

(b) Budgets;

(c) Other financial estimates, including sources and uses; and

(d) Numbers of residents affected.

(2) You will receive 2 points if your application demonstrates a high level of quality and consistency;

(3) You will receive 1 point if your application has a high level of quality, but contains minor internal discrepancies;

(4) You will receive 0 points if your application fails to demonstrate an acceptable level of quality and consistency;

b. Appropriateness and Feasibility of the Plan—5 Points

(1) You will receive 5 points if your application demonstrates that your Revitalization plan:

(a) Is appropriate and suitable, in the context of the community and other revitalization options, in accordance with the Appropriateness of Proposal threshold in Section III.C. of this NOFA;

(b) Is marketable, in the context of local conditions;

(c) Is financially feasible, as demonstrated in the financial structure(s) proposed in the application; and

(d) Fulfills the needs that your application demonstrated for Rating Factor 2.

(2) You will receive 3 points if your application only moderately demonstrates the criteria of (1)(a)-(d) above.

(3) You will receive zero Points if your application does not demonstrate the criteria of (1)(a)-(d) above.

c. Neighborhood Impact and Sustainability of the Plan—5 Points

(1) You will receive up to 5 Points if your application demonstrates your Revitalization plan, including plans for retail, office, other economic development activities, as appropriate, will:

(a) Result in a revitalized site that will enhance the neighborhood in which the project is located;

(b) Spur outside investment into the surrounding community;

(c) Enhance economic opportunities for residents; and

(d) Remove an impediment to continued redevelopment or start a community-wide revitalization process.

(2) You will receive up to 3 Points if your application demonstrates that your Revitalization plan will have only a moderate effect on activities in the surrounding community, as described in (a) through (d) above.

(3) You will receive 0 Points if your application does not demonstrate that your Revitalization plan will have an effect on the surrounding community, as described in (a) through (d) above, or if your application does not address this factor to an extent that makes HUD's rating of this factor possible.

d. Project Readiness—7 Points

HUD places top priority on projects that will be able to commence immediately after grant award. You will receive the following points for each applicable subfactor certified in your application.

(1) You will receive 2 Points if the targeted severely distressed public housing site is completely vacant, i.e., all residents have been relocated.

(2) You will receive 2 Points if the targeted severely distressed public housing site is cleared, i.e., all buildings are demolished, or your Revitalization plan only includes rehabilitation and no demolition of public housing units..

(3) You will receive 1 Point if a Master Development Agreement (MDA) has been developed and is ready to submit to HUD. However, in cases where the PHA (not an affiliate/subsidiary/instrumentality) will act as its own developer for all components of the Revitalization plan, then an MDA is not needed and the one point will be awarded automatically.

(4) You will receive 1 Point if your preliminary site design is complete.

(5) You will receive 1 Point if you have held five (5) or more public planning sessions leading to resident acceptance of the plan.

e. Design—3 Points

(1) You will receive up to 3 Points if your proposed site plan, new dwelling units, and buildings demonstrate that:

(a) You have proposed a site plan that is compact, pedestrian-friendly, with an interconnected network of streets and public open space;

(b) Your proposed housing, community facilities, and economic development facilities are thoroughly integrated into the community through the use of local architectural tradition, building scale, grouping of buildings, and design elements; and

(c) Your plan proposes appropriate enhancements of the natural environment.

(2) You will receive one Point if your proposed site plan, new dwelling units, and buildings demonstrate design that adequately addresses one or two, but not all three of the elements in (1) above.

(3) You will receive 0 Points if your proposed design is perfunctory or otherwise does not address the elements in (1) above. You will also receive 0 Points if your application does not address this factor to an extent that makes HUD's rating of this factor possible.

f. Energy Star—1 Point

(1) Promotion of Energy Star compliance is a HOPE VI Revitalization program requirement. See Section III.C.4.g. of this NOFA.

(2) You will receive 1 Point if your application demonstrates that you will:

(a) Use Energy Star labeled products;

(b) Promote Energy Star design of replacement units; and

(c) Include Energy Star in homeownership counseling.

(2) You will receive 0 Points if your application does not demonstrate that you will perform (a) through (c) above.

g. Evaluation—3 Points

You are encouraged to work with your local university(ies), other institutions of learning, foundations, or others to evaluate the performance and impact of their HOPE VI Revitalization plan over the life of the grant. The proposed methodology must measure success against goals you set at the outset of your revitalization activities. Evaluators must establish baselines and provide ongoing interim reports that will allow you to make changes as necessary as your project proceeds. Where possible, you are encouraged to form partnerships with Historically Black Colleges and Universities (HBCUs); Hispanic-Serving Institutions (HSIs); Community Outreach Partnership Centers (COPCs); the Alaskan Native/Native Hawaiian Institution Assisting Communities Program (as appropriate); and others in HUD's University Partnerships Program.

(1) You will receive 3 Points if your application includes a letter(s) from an institution(s) of higher learning, foundations, or other organization that specializes in research and evaluation that provides a commitment to work with you to evaluate your program and describes its proposed approach to carry out the evaluation if your application is selected for funding. The letter must provide the extent of the commitment and involvement, the extent to which you and the local institution of higher learning will cooperate, and the proposed approach. The commitment letter must address all of the following areas for evaluation:

(a) The impact of your HOPE VI effort on the lives of the residents;

(b) The nature and extent of economic development generated in the community;

(c) The effect of the revitalization effort on the surrounding community, including spillover revitalization activities, property values, etc.; and

(d) Your success at integrating the physical and CSS aspects of your strategy.

(2) You will receive zero Points if your application does not include a commitment letter that conforms to the specifications in paragraph (b) above.

10. Rating Factor: Incentive Criteria on Regulatory Barrier Removal—2 Points Total

a. Description

(1) HUD's Notice, America's Affordable Communities Initiative, HUD's Initiative on Removal of Regulatory Barriers: Announcement of Incentive Criteria on Barrier Removal in HUD's FY 2004 Competitive Funding Allocations, Federal Register Docket Number FR-4882-N-03, published on March 22, 2004, provides that most HUD competitive NOFAs will include an incentive for local and state governments to decrease their regulatory barriers to the development of affordable housing.

(2) Form HUD-27300 contains questions that describe your local and state governments' efforts to decrease regulatory barriers.

b. Scoring

(1) If you are considered a local unit of government with land use and building regulatory authority, an agency or department of a local unit of government, a nonprofit organization, or other qualified applicant applying for funding for a project located in the local unit of government's jurisdiction, you are invited to answer the 20 questions in PART A of form HUD-27300. For those applications in which regulatory authority is split between jurisdictions (e.g., county/parish and town) the applicant should answer the question for that jurisdiction that has regulatory authority over the issue at question.

(a) If you check Column 2 for five to ten questions from PART A, you will receive 1 point in the NOFA evaluation.

(b) If you check Column 2 for eleven or more questions from PART A, you will receive 2 points in the NOFA evaluation.

(2) If you are considered a state government, or an agency or department of a state government, applying for funding for a project located in the state government's jurisdiction, or areas otherwise not covered in Part A, you are invited to answer the 15 questions in PART B.

(a) If you check Column 2 for four to seven questions from PART B, you will receive one point in the NOFA evaluation.

(b) If you check Column 2 for eight or more questions from PART B, you will receive two points in the NOFA evaluation.

(3) Applicants that will be providing services in multiple jurisdictions may choose to address the questions in either PART A or PART B for that jurisdiction in which the preponderance of services will be performed if an award is made.

(4) In no case will an applicant receive for this policy priority greater than two points for barrier removal activities.

(5) Applicants must submit the required information to receive points for this policy priority.

B. Reviews and Selection Process

HUD's selection process is designed to ensure that grants are awarded to eligible PHAs with the most meritorious applications. HUD will consider the information you submit by the application submission date. After the application submission date, HUD may not, consistent with its regulations in 24 CFR part 4, subpart B, consider any unsolicited information that you or any third party may want to provide.

1. Application Screening

a. HUD will screen each application to determine if:

(1) it meets the threshold criteria listed in Section III.C. of this NOFA; and

(2) it is deficient, i.e., contains any Technical Deficiencies.

b. See Section III.C. of this NOFA for case-by-case information regarding thresholds and technical deficiencies. See Section IV.B. of this NOFA for documentation requirements that will support threshold compliance and will avoid technical deficiencies.

c. Corrections to Deficient Applications—Cure Period. The subsection entitled, “Corrections to Deficient Applications,” in Section V.B.4. of the General Section is incorporated by reference and applies to this NOFA. This sub-section describes the Technical Deficiencies cure period.

d. Applications that will not be rated or ranked. HUD will not rate or rank applications that are deficient at the end of the cure period stated in Section V.B. of the General Section or have not met the thresholds described in Section III.C. of this NOFA. Such applications will not be eligible for funding.

2. Preliminary Rating and Ranking

a. Rating

(1) HUD staff will preliminarily rate each eligible application, SOLELY on the basis of the rating factors described in Section V.A of this NOFA.

(2) When rating applications, HUD reviewers will not use any information included in any HOPE VI application submitted in a prior year.

(3) HUD will assign a preliminary score for each rating factor and a preliminary total score for each eligible application.

(4) The maximum number of points for each application is 129.

b. Ranking

(1) After preliminary review, applications will be ranked in score order.

3. Final Panel Review

a. A Final Review Panel made up of HUD staff will:

(1) Review the Preliminary Rating and Ranking documentation to:

(a) Ensure that any inconsistencies between preliminary reviewers have been identified and rectified; and

(b) Ensure that the Preliminary Rating and Ranking documentation accurately reflects the contents of the application.

(2) Assign a final score to each application; and

(3) Recommend for selection the most highly rated applications, subject to the amount of available funding, in accordance with the allocation of funds described in Section II of this NOFA.

4. HUD reserves the right to make reductions in funding for any ineligible items included in an applicant's proposed budget.

5. In accordance with the FY2005 HOPE VI appropriation, HUD may not use HOPE VI funds to grant competitive advantage in awards to settle litigation or pay judgments.

6. Tie Scores

If two or more applications have the same score and there are insufficient funds to select all of them, HUD will select for funding the application(s) with the highest score for the Soundness of Approach Rating Factor. If a tie remains, HUD will select for funding the application(s) with the highest score for the Capacity Rating Factor. HUD will select further tied applications with the highest score for the Need Rating Factor.

7. Remaining Funds

a. HUD reserves the right to reallocate remaining funds from this NOFA to other eligible activities under Section 24 of the 1937 Act.

(1) If the total amount of funds requested by all applications found eligible for funding under Section V.B. of this NOFA is less than the amount of funds available from this NOFA, all eligible applications will be funded and those funds in excess of the total requested amount will be considered remaining funds.

(2) If the total amount of funds requested by all applications found eligible for funding under Section V.B. of this NOFA is greater than the amount of funds available from this NOFA, eligible applications will be funded until the amount of non-awarded funds is less than the amount required to feasibly fund the next eligible application. In this case, the funds that have not been awarded will be considered remaining funds.

8. The following sub-sections of Section V. of the General Section are hereby incorporated by reference:

a. HUD's Strategic Goals;

b. Policy Priorities;

c. Threshold Compliance;

d. Corrections to Deficient Applications;

e. Rating; and

f. Ranking.

VI. Award Administration Information

A. Award Notices

1. Initial Announcement. The HUD Reform Act prohibits HUD from notifying you as to whether or not you have been selected to receive a grant until it has announced all grant recipients. If your application has been found to be ineligible or if it did not receive enough Points to be funded, you will not be notified until the successful applicants have been notified. HUD will provide written notification to all applicants, whether or not they have been selected for funding.

2. Award Letter. The notice of award letter is signed by the Assistant Secretary for Public and Indian Housing (grants officer) and will be delivered by fax and the U.S. Postal Service.

3. Revitalization Grant Agreement. When you are selected to receive a Revitalization grant, HUD will send you a HOPE VI Revitalization Grant Agreement, which constitutes the contract between you and HUD to carry out and fund public housing revitalization activities. Both you and HUD will sign the cover sheet of the grant agreement, form HUD-1044. It is effective on the date of HUD's signature, which is the second signature. The grant agreement differs from year to year. Past Revitalization Grant Agreements can be found on the HOPE VI Web site at http://www.hud.gov/hopevi.

4. Applicant Debriefing. Upon request, HUD will provide an applicant a copy of the total score received by their application and the score received for each rating factor.

5. General Section References. The following sub-section of Section VI.A. of the General Section is hereby incorporated by reference: a. Adjustments to Funding.

B. Administrative and National Policy Requirements

1. Timeliness of Development Activity. Grantees must proceed within a reasonable timeframe, as indicated below. In determining reasonableness of such timeframe, HUD will take into consideration those delays caused by factors beyond your control. These timeframes must be reflected in the form of a program schedule, in accordance with the threshold requirement at Section III.C.1.i. of this NOFA and the Rating Factor requirement at Section V.A.1.c. of this NOFA.

a. Grantees must submit Supplemental Submissions within 90 days from the date of HUD's written request.

b. Grantees must submit CSS work plans within 90 days from the execution of the grant agreement.

c. All other required components of the Revitalization plan and any other submissions not mentioned above must be submitted in accordance with the Quarterly Report Administrative and Compliance Checkpoints Report, as approved by HUD.

d. Grantees must start construction within 12 months from the date of HUD's approval of the Supplemental Submissions as requested by HUD after grant award. This time period may not exceed 18 months from the date the grant agreement is executed.

e. Grantees must submit the development proposal (i.e., whether mixed-finance development, homeownership development, etc.) for the first phase of construction within 12 months of grant award. The program schedule must indicate the date on which the development proposal for each phase of the revitalization plan will be submitted to HUD.

f. The closing of the first phase must take place within 15 months of grant award. For this purpose, “closing” means all financial and legal arrangements have been executed and actual activities (construction, etc.) are ready to commence.

g. Grantees must complete construction within 48 months from the date of HUD's approval of your Supplemental Submissions. This time period for completion may not exceed 54 months from the date the grant agreement is executed.

2. HOPE VI Endowment Trust Addendum to the Grant Agreement. This document must be executed between the grantee and HUD in order for the grantee to use CSS funds in accordance with Section III.C.4.l. of this NOFA.

3. Revitalization Plan. After HUD conducts a post-award review of your application and makes a visit to the site, you will be required to submit components of your Revitalization plan to HUD, as provided in the HOPE VI Revitalization Grant Agreement. These components include, but are not limited to:

a. Supplemental Submissions, including a HOPE VI Program Budget;

b. A Community and Supportive Services work plan, in accordance with guidance provided by HUD;

c. A standard or mixed-finance development proposal, as applicable;

d. A demolition and disposition application, as applicable; and

e. A homeownership proposal, as applicable.

4. Management Agreement

HOPE VI Revitalization grantees will be required to develop Management Agreements that describe their operation and management principles and policies for their public housing units.

5. Match

a. Irrevocably Committed Match Donations and Leverage Resources. After award, during review of grantee mixed-finance, development or homeownership proposals, HUD will evaluate the irrevocable nature of Match and Leverage resources. During its evaluation, HUD will assess the conditions precedent to the availability of the funds to the grantee. HUD will assess the availability of the participating party(ies)'s financing, the amount and source of financing committed to the proposal by the participating party(ies), and the irrevocability of those funds. HUD may require an opinion of the PHA's and the owner entity's counsel (or other party designated by HUD) attesting that counsel has examined the availability of the participating party(ies)'s financing, and the amount and source of financing committed to the proposal by the participating party(ies), and has determined that such financing has been irrevocably committed by the participating party(ies) for use in carrying out the proposal, and that such commitment is in the amount required under the terms of the proposal.

b. Evidence of Use. Grantees will be required to show evidence that matching resources were actually received and used for their intended purposes through quarterly reports as the project proceeds. Sources of matching funds may be substituted after grant award, as long as the dollar requirement is met.

c. Grantee Enforcement. Grantees must pursue and enforce any commitment (including commitments for services) obtained from any public or private entity for any contribution or commitment to the project or surrounding area that was part of the match amount.

6. LOCCS Requirements

The grantee must record all obligations and expenditures in LOCCS.

7. Conflict of Interest in Grant Activities

a. Prohibition. In addition to the conflict of interest requirements in 24 CFR part 85, no person who is an employee, agent, consultant, officer, or elected or appointed official of a grantee and who exercises or has exercised any functions or responsibilities with respect to activities assisted under a HOPE VI grant, or who is in a position to participate in a decision-making process or gain inside information with regard to such activities, may obtain a financial interest or benefit from the activity, or have an interest in any contract, subcontract, or agreement with respect thereto, or the proceeds thereunder, either for himself or herself or for those with whom he or she has family or business ties, during his or her tenure or for one year thereafter.

b. HUD-Approved Exception. (1) Standard. HUD may grant an exception to the prohibition in Section (1) above on a case-by-case basis when it determines that such an exception will serve to further the purposes of HOPE VI and its effective and efficient administration.

(2) Procedure. HUD will consider granting an exception only after the grantee has provided a disclosure of the nature of the conflict, accompanied by:

(a) An assurance that there has been public disclosure of the conflict;

(b) A description of how the public disclosure was made; and

(c) An opinion of the grantee's attorney that the interest for which the exception is sought does not violate state or local laws.

(d) Consideration of Relevant Factors. In determining whether to grant a requested exception under Section (b) above, HUD will consider the cumulative effect of the following factors, where applicable:

(A) Whether the exception would provide a significant cost benefit or an essential degree of expertise to the Revitalization plan and demolition activities that would otherwise not be available;

(B) Whether an opportunity was provided for open competitive bidding or negotiation;

(C) Whether the person affected is a member of a group or class intended to be the beneficiaries of the Revitalization plan and Demolition plan and the exception will permit such person to receive generally the same interests or benefits as are being made available or provided to the group or class;

(D) Whether the affected person has withdrawn from his or her functions or responsibilities, or the decision making process, with respect to the specific activity in question;

(E) Whether the interest or benefit was present before the affected person was in a position as described in Section (C) above;

(F) Whether undue hardship will result either to the grantee or the person affected when weighed against the public interest served by avoiding the prohibited conflict; and

(G) Any other relevant considerations.

8. Flood Insurance

In accordance with the Flood Disaster Protection Act of 1973 (42 U.S.C. 4001-4128), your application may not propose to provide financial assistance for acquisition or construction (including rehabilitation) of properties located in an area identified by the Federal Emergency Management Agency (FEMA) as having special flood hazards, unless:

a. The community in which the area is situated is participating in the National Flood Insurance program (see 44 CFR parts 59 through 79), or less than one year has passed since FEMA notification regarding such hazards; and

b. Where the community is participating in the National Flood Insurance Program, flood insurance is obtained as a condition of execution of a grant agreement.

9. Coastal Barrier Resources Act

In accordance with the Coastal Barrier Resources Act (16 U.S.C. 3501), your application may not target properties in the Coastal Barrier Resources System.

10. Final Audit

Grantees are required to obtain a complete final closeout audit of the grant's financial statements by a certified public accountant (CPA), in accordance with generally accepted government audit standards. A written report of the audit must be forwarded to HUD within 60 days of issuance. Grant recipients must comply with the requirements of 24 CFR part 84 or 24 CFR part 85 as stated in OMB Circulars A-110, A-87, and A-122, as applicable.

11. Policy Requirements

a. OMB Circulars and Administrative Requirements. You must comply with the following administrative requirements related to the expenditure of federal funds. OMB circulars can be found at http://www.whitehouse.gov/omb/circulars/index.html. Copies of the OMB circulars may be obtained from EOP Publications, Room 2200, New Executive Office Building, Washington, DC 20503; telephone (202) 395-7332 (this is not a toll-free number). The Code of Federal Regulations can be found at http://www.access.gpo.gov/nara/cfr/index.html.

(1) Administrative requirements applicable to PHAs are:

(a) 24 CFR part 85 (Administrative Requirements for Grants and Cooperative Agreements to State, Local, and Federally Recognized Indian Tribal Governments), as modified by 24 CFR 941 or successor part, subpart F, relating to the procurement of partners in mixed finance developments.

(b) OMB Circular A-87 (Cost Principles for State, Local, and Indian Tribal Governments);

(c) 24 CFR 85.26 (audit requirements).

(2) Administrative requirements applicable to nonprofit organizations are:

(a) 24 CFR part 84 (Grants and Agreements with Institutions of Higher Education, Hospitals, and other Nonprofit Organizations);

(b) OMB Circular A-122 (Cost Principles for Nonprofit Organizations);

(c) 24 CFR 84.26 (audit requirements).

(3) Administrative requirements applicable to for profit organizations are:

(a) 24 CFR part 84 (Grants and Agreements with Institutions of Higher Education, Hospitals, and other Nonprofit Organizations);

(b) 48 CFR part 31 (contract cost principles and procedures);

(c) 24 CFR 84.26 (audit requirements).

C. Reporting

1. Quarterly Report

a. If you are selected for funding, you must submit a quarterly report to HUD.

(1) HUD will provide training and technical assistance on the filing and submitting of quarterly reports.

(2) Filing of quarterly reports is mandatory for all grantees, and failure to do so within the required timeframe will result in suspension of grant funds until the report is filed and approved by HUD.

(3) Grantees will be held to the milestones that are reported on the Quarterly Report Administrative and Compliance Checkpoints Report, as approved by HUD.

(4) Grantees must also report obligations and expenditures in LOCCS, or its successor system, on a quarterly basis.

2. Logic Model Reporting

a. The reporting shall include submission of a completed Logic Model indicating results achieved against the proposed output goal(s) and proposed outcome(s) which you stated in your approved application and agreed upon with HUD. The submission of the Logic Model and required information should be in accord with the reporting timeframes as identified in your grant agreement.

b. The goals and outcomes that you include in the Logic Model should reflect your major activities and accomplishments under the grant. For example, you would include unit construction, demolition, etc. from the “bricks-and-mortar” portion of the grant. As another example, for the CSS portion of the grant, you may include the number of jobs created or the number of families that have reached self-sufficiency, but you would not include information on specific job training and self-sufficiency courses.

c. As a condition of the receipt of financial assistance under a HUD Program NOFA, all successful applicants will be required to cooperate with all HUD staff or contractors performing HUD-funded research and evaluation studies.

3. Final Report

a. The grantees shall submit a final report, which will include a financial report and a narrative evaluating overall performance against its HOPE VI Revitalization plan. Grantees shall use quantifiable data to measure performance against goals and objectives outlined in its application. The financial report shall contain a summary of all expenditures made from the beginning of the grant agreement to the end of the grant agreement and shall include any unexpended balances.

b. Racial and Ethnic Data. HUD requires that funded recipients collect racial and ethnic beneficiary data. It has adopted the Office of Management and Budget's Standards for the Collection of Racial and Ethnic Data. In view of these requirements, you should use form HUD-27061, Racial and Ethnic Data Reporting Form (instructions for its use), found on www.HUDClips.org, a comparable program form, or a comparable electronic data system for this purpose.

c. The final narrative and financial report shall be due to HUD 90 days after either the full expenditure of funds, or when the grant term expires, whichever comes first.

VII. Agency Contacts

A. Technical Assistance

1. Before the application submission date, HUD staff will be available to provide you with general guidance and technical assistance. However, HUD staff is not permitted to assist in preparing your application. If you have a question or need a clarification, you may call or send an email message the Office of Public Housing Investments, attention: Lawrence Gnessin, at 202-401-8812, extension 2676, <lawrence_gnessin@hud.gov> or attention: Leigh van Rij, at 202-401-8812, extension 5788, <leigh_e._van_rij@hud.gov> (these are not toll-free numbers). You may also call, fax, or write Mr. Milan Ozdinec, Deputy Assistant Secretary for Public Housing Investments, Department of Housing and Urban Development, 451 Seventh Street, SW., Room 4130, Washington, DC 20410-5000; telephone (202) 401-8812; fax (202) 401-2370 (these are not toll-free numbers). Persons with hearing or speech challenges may access these telephone numbers through a text telephone (TTY) by calling the toll-free Federal Information Relay Service at (800) 877-8339.

2. Frequently Asked Questions and General HOPE VI Information. Before the application submission date, frequently asked questions (FAQ) on the NOFA will be posted to HUD's grants Web site at http://www.hud.gov/offices/adm/grants/otherhud.cfm.

3. You may obtain general information about HUD's HOPE VI programs from HUD's HOPE VI website: http://www.hud.gov/offices/pih/programs/ph/hope6/.

B. Technical Corrections to the NOFA

1. Technical corrections to this NOFA will be posted to the Grants.gov website.

2. Any technical corrections will also be published in the Federal Register.

3. You are responsible for monitoring these sites during the application preparation period.

VIII. Other Information

A. Waivers. Any HOPE VI-funded activities at public housing projects are subject to statutory requirements applicable to public housing projects under the 1937 Act, other statutes, and the annual contributions contract (ACC). Within such restrictions, HUD seeks innovative solutions to the long-standing problems of severely distressed public housing projects. You may request, for the revitalized project, a waiver of HUD regulations, subject to statutory limitations and a finding of good cause under 24 CFR 5.110 if the waiver will permit you to undertake measures that enhance the long-term viability of a project revitalized under this program. HUD will assess each request to determine whether good cause is established to grant the waiver.

B. Environmental Impact. A Finding of No Significant Impact with respect to the environment has been made for this notice in accordance with HUD regulations at 24 CFR part 50 that implement Section 102(2)(C) of the National Environmental Policy Act of 1969 (42 U.S.C. 4332). The Finding of No Significant Impact is available for public inspection between 8 a.m. and 5 p.m. in the Office of the General Counsel, Regulations Division, Room 10276, Department of Housing and Urban Development, 451 Seventh Street, SW., Washington, DC 20410-0500.

C. General Section References. The following sub-sections of Section VIII. of the General Section are hereby incorporated by reference:

1. Executive Order 13132, Federalism;

2. Public Access, Documentation and Disclosure;

4. Section 103 of the HUD Reform Act;

5. The FY 2004 HUD NOFA Process and Future HUD Funding Processes; and

6. Sense of Congress.

D. Paperwork Reduction Act Statement. The information collection requirements contained in this document have been approved by the Office of Management and Budget (OMB), under the Paperwork Reduction Act of 1995 (44 U.S.C. 3501-3520) and assigned OMB Control Number 2577-0208. In accordance with the Paperwork Reduction Act, HUD may not conduct or sponsor, and an person is not required to respond to, a collection of information unless the collection displays a currently valid OMB control number. Public reporting burden for the collection of information is estimated to average 68 hours per annum per respondent for the application and grant administration. This includes the time for collecting, reviewing, and reporting the data for the application, quarterly reports and final report. The information will be used for grantee selection and monitoring the administration of funds. Response to this request for information is required in order to receive the benefits to be derived.

Dated: March 24, 2005.
Michael Liu,
Assistant Secretary for Public and Indian Housing.

BILLING CODE 4210-33-P

[FR Doc. 05-6238 Filed 3-30-05; 8:45 am]

BILLING CODE 4210-33-C